DEPARTMENT OF HOMELAND SECURITY

Coast Guard

46 CFR Parts 2, 15, 61, 62, 110, 111, 125, 126, 127, 128, 129, 130, 131, 132, 134, and 174

[Docket No. USCG-2012-0208]

RIN 1625-AB62

Offshore Supply Vessels of at Least 6,000 GT ITC

AGENCY: Coast Guard, DHS.

ACTION: Interim rule with request for comments.

SUMMARY: The Coast Guard Authorization Act of 2010 (the Act) removed the statutory size limit previously placed on offshore supply vessels (OSVs), and required the Coast Guard to issue regulations to mitigate the risk created as a result, noting the need “to ensure the safe carriage of oil, hazardous substances, and individuals in addition to the crew” on OSVs exceeding the previous size limit. In accordance with the Act, the Coast Guard is issuing this interim rule to ensure the safe carriage of oil, hazardous substances, and individuals other than crew by requiring U.S.-flagged OSVs of at least 6,000 gross tonnage as measured under the Convention Measurement System to comply with existing regulatory requirements and international standards for design, engineering, construction, operations and manning, inspections, and certification. This rule also will affect any vessel of at least 500 gross register tons as measured under the Regulatory Measurement System, if that vessel is not assigned a measurement under the Convention Measurement System and the owner desires to have the vessel certificated as an OSV. The Coast Guard intends to finalize this interim rule after considering, and incorporating to the extent appropriate, any comments from the public.

DATES: This interim rule is effective August 18, 2014. Comments on this interim rule must be submitted to the online docket or received by the Docket Management Facility by November 17, 2014. The Director of the Federal Register has approved the incorporation by reference of certain publications listed in this rule, effective August 18, 2014.

ADDRESSES: You may submit comments identified by docket number USCG-2012-0208 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Viewing incorporation by reference material. You may inspect the material incorporated by reference at room 5R20, U.S. Coast Guard Headquarters, 2703 Martin Luther King Jr. Avenue SE., Washington, DC 20593 between 9 a.m. and 2 p.m., Monday through Friday, except Federal holidays. The telephone number is 202-372-1360. Copies of the material are available as indicated in the “Incorporation by Reference” section of this preamble.

FOR FURTHER INFORMATION CONTACT: If you have questions on this rule, email or call Lieutenant Anne Besser, CG-ENG-1, Coast Guard, email Anne.Besser@uscg.mil, telephone 202-372-1362. If you have questions on viewing or submitting material to the docket, call Cheryl Collins, Program Manager, Docket Operations, telephone 202-366-9826.

SUPPLEMENTARY INFORMATION:

Table of Contents for Preamble

I. Public Participation and Request for Comments

A. Submitting comments

B. Viewing comments and documents

C. Privacy Act

D. Public meeting

II. Abbreviations

III. Executive Summary

A. Purpose and authority

B. Overview of rule

C. Costs and benefits

IV. Regulatory History

V. Basis and Purpose

VI. Discussion of the Interim Rule

A. Amendments to 46 CFR part 125, “General,” addressing applicability, and grandfathering of existing vessels

B. Amendments to 46 CFR part 125, “General,” clarifying tonnage measurement

C. Amendments to 46 CFR part 125, “General,” addressing certificates

D. Amendments to 46 CFR part 125, “General,” involving tank protection for oil cargoes and oil fuel

E. Amendments to 46 CFR part 125, “General,” addressing carriage of noxious liquid cargoes in bulk

F. Amendments to 46 CFR part 125, “General,” affecting definitions

G. Amendments to 46 CFR part 126, “Inspection and Certification”, and 127, “Construction and Arrangements”, addressing carriage of more than 36 offshore workers

H. Amendments to 46 CFR part 127, “Construction and Arrangements”

I. Amendments to 46 CFR part 128, “Marine Engineering: Equipment and Systems”

J. Amendments to 46 CFR part 129, “Electrical Installations”

K. Amendments to 46 CFR part 130, “Vessel Control”

L. Amendments to 46 CFR part 131, “Operations,” addressing vessel maneuvering

M. Amendments to 46 CFR part 132, “Fire-protection Equipment”

N. Amendments to 46 CFR part 134, “Added Provisions for Liftboats”

O. Amendments to 46 CFR part 2, “Vessel Inspections”

P. Amendments to 46 CFR part 15, “Manning Requirements”

Q. Amendments to 46 CFR part 62, “Vital System Automation,” and related amendment to 46 CFR part 61, “Periodic Tests and Inspections”

R. Amendments to 46 CFR part 90, “General Provisions” for Cargo and Miscellaneous Vessels

S. Amendments to 46 CFR part 110, “General Provisions” within Subchapter J, “Electrical Engineering”

T. Amendments to 46 CFR part 111, “Electrical Systems—General Requirements”

U. Amendments to 46 CFR part 174, Subpart G, “Special Rules Pertaining to Offshore Supply Vessels”

V. Amendments to Incorporation by Reference Sections, 46 CFR parts 110 and 125

VII. Incorporation by Reference

VIII. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted, without change, to http://www.regulations.gov and will include any personal information you have provided.

A. Submitting Comments

If you submit a comment, please include the docket number for this rulemaking (USCG-2012-0208), indicate the specific section of this document to which each comment applies, and provide a reason for each suggestion or recommendation. You may submit your comments and material online, or by fax, mail or hand delivery, but please use only one of these means. We recommend that you include your name and a mailing address, an email address, or a phone number in the body of your document so that we can contact you if we have questions regarding your submission.

To submit your comment online, go to http://www.regulations.gov, and insert “USCG-2012-0208” in the “Search” box. Click on “Submit a Comment” in the “Actions” column. If you submit your comments by mail or hand delivery, submit them in an unbound format, no larger than 8½ by 11 inches, suitable for copying and electronic filing. If you submit them by mail and would like to know that they reached the Facility, please enclose a stamped, self-addressed postcard or envelope.

We will consider all comments and material received during the comment period and may change this rule based on your comments.

B. Viewing Comments and Documents

To view comments, as well as documents mentioned in this preamble as being available in the docket, go to http://www.regulations.gov, insert “USCG-2012-0208” in the “Search” box and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not plan to hold a public meeting. But, you may submit a request for one using one of the methods specified under ADDRESSES. In your request, explain why you believe a public meeting would be beneficial. If we determine that a public meeting would aid this rulemaking, we will hold one at a time and place announced by a later notice in the Federal Register.

II. Abbreviations

The Act The Coast Guard Authorization Act of 2010 (Pub. L. 111-281)

ACP Alternate Compliance Program

ANSI American National Standards Institute

API RP American Petroleum Institute Recommended Practice

ASTM ASTM International (formerly American Society for Testing and Materials)

CFR Code of Federal Regulations

COI Certificate of Inspection

ExCB Ex Certification Body

FR Federal Register

GRT Gross register tons as measured under 46 U.S.C. 14502, Regulatory Measurement System

GT ITC Gross tonnage as measured under 46 U.S.C. 14302, Convention Measurement System

IBC Code International Code for the Construction and Equipment of Ships Carrying Dangerous Chemicals in Bulk

ICLL International Convention on Load Lines, 1966, as amended

IEC International Electrotechnical Commission

IECEx IEC System for Certification to Standards Relating to Equipment for use in Explosive Atmospheres

IMCA International Marine Contractors Association

IMO International Maritime Organization

MARPOL 73/78 International Convention for the Prevention of Pollution from Ships, 1973, as modified by the Protocol of 1978 relating thereto

MISLE Marine Information for Safety and Law Enforcement

NAICS North American Industry Classification System

NEC National Electric Code

NFPA National Fire Protection Association

NLS Noxious liquid substances

NOSAC National Offshore Safety Advisory Committee

OCS Outer Continental Shelf

OCMI Officer in Charge, Marine Inspection

OICNW Officer in charge of the navigational watch

OSV Offshore supply vessel

Pub. L. Public Law

SBA Small Business Administration

STCW International Convention on Standards of Training, Certification and Watchkeeping for Seafarers, 1978, as amended

STCW Code Seafarers' Training, Certification, and Watchkeeping Code

SOLAS International Convention for the Safety of Life at Sea, 1974, as amended

U.S.C. United States Code

III. Executive Summary

A. Purpose and Authority

In late 2010, Congress removed the statutory size limit on offshore supply vessels (OSVs) and directed the Coast Guard to issue regulations “to ensure the safe carriage of oil, hazardous substances, and individuals in addition to the crew” on OSVs exceeding the previous size limit, taking “into consideration the characteristics of offshore supply vessels, their methods of operation, and their service in support of exploration, exploitation, or production of offshore mineral or energy resources.” As is explained below, developments in the U.S. offshore industry created demand for larger OSVs than previously were allowed, and safely increasing the size of OSVs requires modifications to existing OSV regulations in order to address hazards associated with larger vessels carrying more cargo and personnel. Accordingly, the Coast Guard developed this interim rule to address safety and environmental hazards associated with larger OSVs. This interim rule is authorized and required by section 617 of the Coast Guard Authorization Act of 2010 (Pub. L. 111-281) (the Act).

B. Overview of Rule

This interim rule only implements requirements for OSVs that exceed the pre-Act size limit for OSVs and are contracted for after the effective date of this rule (referred to in this document as “large OSVs”). It does not affect OSVs that predate this rule or that do not meet the size threshold that defines large OSVs. In addition to carrying out statutory requirements explicitly noted in section 617 of the Act, such as statutory requirements for manning and oil spill protection, this rule addresses Congress' direction to meet safety needs by establishing design and operation standards for large OSVs. To develop these standards, the Coast Guard first evaluated existing requirements for OSVs (contained in 46 CFR subchapter L) to determine whether they were adequate for ensuring safety on the new, larger OSVs. Where not sufficient, the Coast Guard then used existing international standards that these large OSVs are highly likely to meet in order to compete on the international marketplace. For example, this rule requires large OSVs to hold certain international certificates, including Convention for the Safety of Life at Sea, 1974, as amended (SOLAS) and Convention for the Prevention of Pollution from Ships (MARPOL 73/78) certificates, even if the OSV is certificated to operate only in U.S. waters. As discussed in more detail below, the safety requirements in these international standards align with the increased risk associated with large OSVs' capacity to carry cargo and passengers, and we also consider it very likely that large OSVs will comply with these international standards in order to engage in international commerce. Where needed, the Coast Guard used other, existing domestic standards for tank vessels and cargo vessels of similar size as these new, larger OSVs. For example, this rule requires that large OSVs meet the marine engineering requirements of 46 CFR subchapter F and the electrical engineering requirements of 46 CFR subchapter J, without the exceptions made for other OSVs, because of the increased capacity of large OSVs and the corresponding increase in the potential consequences of an incident involving a large OSV. Large OSVs require increased capacity to carry larger volumes of oil-based materials and hazardous materials, such as noxious liquid substances (NLS) used in drilling muds, which increases the risk to the environment if spilled. Existing OSV standards do not account for conditions found further offshore, such as larger and higher wave amplitude, or the capacity to carry more personnel. The additional requirements for large OSVs address safe operations in these conditions, with more cargo and more personnel.

This rule allows a large OSV to carry more than 36 offshore workers if the OSV meets stability, marine engineering, fire protection, and lifesaving provisions set forth in this interim rule. Large OSVs are capable of carrying more than the 36 offshore workers previously allowed and conducting operations requiring more workers, and this interim rule implements safety provisions intended to address the risk associated with carrying more personnel.

C. Costs and Benefits

This rule is not economically significant. We anticipate this rule will not result in additional costs to industry or government. Because of the previous size limit on OSVs, there currently are no U.S.-flagged vessels of at least 6,000 GT ITC or 500 GRT operating as OSVs and certificated under subchapter L requirements. Consequently, this rule will not directly impact any existing population of U.S.-flagged vessels.

Furthermore, the interim rule is based upon existing regulatory and technical standards from Titles 33 and 46 of the Code of Federal Regulations (CFR). Where existing regulations and technical standards do not account for the scale of operations of large OSVs, the Coast Guard supplemented them with standards from the International Maritime Organization (IMO) Conventions, and industry consensus engineering standards.

Owners and operators would comply with these standards even in the absence of this rule, in order to compete for international work. Therefore, no additional costs will be incurred by industry in the construction and the operation of a large U.S.-flagged OSV.

In addition to fulfilling Congressional direction to issue regulations “to ensure the safe carriage of oil, hazardous substances, and individuals in addition to the crew,” the interim rule will standardize regulatory oversight by the Coast Guard. This is expected to reduce the time necessary for the approval process since standards will be transparent in regulation, which will lead to unquantifiable cost savings to both industry and government.

Additionally, the OSVs to which this interim rule applies can carry a large quantity of oil and hazardous material, as well as large numbers of persons on board. In comparison to OSVs of less than 6,000 GT ITC, these large vessels have decreased maneuverability and responsiveness due to the vessels' increased tonnage and length. These vessels operate in a high-risk environment near offshore units and other vessels, and a collision between a large OSV and an offshore unit or another vessel could result in a significant disaster. This interim rule provides a set of standards consistent with the risks and consequences of large OSVs. The costs and benefits of this rule are discussed in Section VIII.A. below and in the regulatory analysis available in the docket.

IV. Regulatory History

The Coast Guard is issuing this interim rule without prior notice and opportunity to comment pursuant to section 617(f) of the Act, which directs the Secretary of the department in which the Coast Guard is operating to issue an interim rule “as soon as is practicable and without regard to the provisions of chapters 5 and 6 of title 5, United States Code.” By the same authority, the Coast Guard is making this interim rule effective immediately upon publication.

Although this interim rule is effective immediately, we invite public comments on it. We will consider public comments when developing a final rule that will supersede this interim rule, and we may make changes in response to public comments on any part of this interim rule.

In addition to revisions authorized by the Act, this rule makes a limited number of administrative changes to improve the readability and organization of the revised parts. These administrative changes include the standardization of tonnage acronyms, the insertion of clarifying language that was not necessary prior to this rule, the reorganization of several parts to accommodate new language, and the replacement of some terms with their functional equivalents. These administrative changes only clarify existing text and the distinction between tonnage-based requirements in place before and after the Act: they make no substantive change to regulatory requirements. Therefore, the Coast Guard finds good cause exists under 5 U.S.C. 553(b)(B) for forgoing a notice of proposed rulemaking with respect to these administrative changes, because the changes will have no substantive effect on the public, and notice and comment are therefore unnecessary. For the same reasons, the Coast Guard finds good cause under 5. U.S.C. 553(d)(3) to make these administrative changes effective fewer than 30 days after publication in the Federal Register.

V. Basis and Purpose

As defined by statute, an OSV is a motor vessel that regularly carries goods, supplies, individuals in addition to the crew, or equipment in support of exploration, exploitation, or production of offshore mineral or energy resources (46 U.S.C. 2101(19)). OSVs may support the construction of offshore energy facilities, or may transport supplies and personnel to and from these facilities. OSVs carry offshore goods and supplies, handle anchors and mooring equipment, deliver excess fuel oil to oil production facilities, and perform other support functions.

Until recently, statute limited the size of OSVs to less than 500 gross register tons (GRT) as measured under 46 U.S.C 14502, or an alternate tonnage established as 6,000 gross tonnage as measured under 46 U.S.C. 14302 (GT ITC) (for background on the 6,000 GT ITC limit, see: 46 U.S.C. 14104 and 14302; 61 FR 66613, December 18, 1996; and 76 FR 77129, December 12, 2011). Because of the statutory size limit on OSVs, OSV regulations developed prior to the publication of this interim rule—referred to in this preamble as “pre-2014” regulations—contemplated smaller vessels making short trips and capable of carrying only limited amounts of cargo and numbers of people. Therefore, those pre-2014 regulations for OSVs differ from regulations put in place for other, larger types of vessels.

The U.S. offshore industry has become more complex over time, however, creating a demand for larger, multi-purpose OSVs capable of operating at greater distances from shore and for more extended periods, using more advanced propulsion or machinery systems and carrying more cargo and more people on board. In response, Congress removed the size limit on OSVs (see section 617(a) of the Act) and made other statutory changes to effectively create a subgroup of OSVs distinguished by a tonnage assignment of at least 6,000 GT ITC (large OSVs). For example, the Act made it possible for large OSVs to be considered tank vessels (see section 617(a)(1)(B) of the Act) even though OSVs of less than 500 GRT or 6,000 GT ITC are deemed not to be tank vessels, and it specified oil fuel tank protection requirements for OSVs of at least 6,000 GT ITC (see section 617(e) of the Act). The Act also specified the number and qualifications of crew for large OSVs, and specified the division of watches (see sections 617(b), (c), and (d) of the Act).

As noted, the Coast Guard's pre-2014 OSV regulations were developed for smaller vessels conducting limited operations. Removing the cap on the size of OSVs requires additions to pre-2014 OSV regulations in order to address hazards associated with larger vessels carrying more cargo and personnel. Accordingly, Congress directed the Coast Guard to issue regulations to implement the Act with respect to OSVs of at least 6,000 GT ITC and “to ensure the safe carriage of oil, hazardous substances, and individuals in addition to the crew on such vessels” (section 617(f) of the Act). Congress also directed the Coast Guard to “take into consideration the characteristics of OSVs, their methods of operation, and their service in support of exploration, exploitation, or production of offshore mineral or energy resources” when developing these regulations (section 617(f) of the Act).

In developing this interim rule, the Coast Guard has provided necessary standards for the safe design, manning, and operation of large OSVs. In some cases, this has required additional regulatory text to maintain the distinction between pre-2014 regulations that may apply to some or all OSVs, and regulations implemented by this interim rule solely for large OSVs. After this rule is finalized, the Coast Guard may initiate a separate, broader rulemaking to address issues common to OSVs of all sizes.

VI. Discussion of the Interim Rule

This rule implements requirements for OSVs of at least 6,000 GT ITC and, as explained below, may affect OSVs of at least 500 GRT that are not assigned a GT ITC. Because of the previous size limit on OSVs, there were no U.S.-flagged vessels of at least 6,000 GT ITC or 500 GRT operating as OSVs when the Act was promulgated, and this rule only applies to vessels contracted for or keels of which were laid after the date of publication. Consequently, this rule will not directly impact any existing population of U.S.-flagged vessels. The Coast Guard has issued certificates of inspection for two vessels already delivered pursuant to the interim certification provisions found in section 617(f)(3) of the Act, and we are aware that industry is considering others. It is possible that owners of existing cargo vessels may seek certification of these vessels as OSVs now that the statutory size limit is removed: These are provided for in new applicability language discussed below.

When developing these regulations, the Coast Guard looked first to applying the pre-2014 OSV regulations or pre-existing regulations for large vessels such as cargo and tank vessels. If these were not appropriate for application to large OSVs because they do not account for the scale of operations of large OSVs, we then looked to international standards because these large, purpose-built OSVs are likely to comply with such standards in order to engage in international commerce. In limited cases we found international standards needed to be supplemented either because the standard required interpretation by the implementing nations, or needed additional minimum standards to ensure the safe carriage of oil, hazardous substances, and individuals in addition to the crew. In these limited cases, the Coast Guard supplemented the international standards without sacrificing the flexibility to operate internationally by using other international standards or existing Coast Guard guidance.

This interim rule amends several subchapters of Title 46 of the CFR. Most of the amendments are located in Subchapter L, which is specific to OSVs and consists of Parts 125 through 134. Changes to Parts 125 through 134 are discussed first in the preamble below, so as to provide a foundation for explaining related changes located in other subchapters. Following the discussion of Subchapter L, the preamble to this rule addresses related amendments that apply to large OSVs but are located elsewhere in Title 46, such as in Part 111 on electrical systems. Changes to subchapters other than L are discussed in the order they appear in the CFR.

A. Amendments to 46 CFR Part 125, “General,” Addressing Applicability, and Grandfathering of Existing Vessels

Prior to this rule, the applicability section of Subchapter L relied on a definition of “offshore supply vessel (OSV)” that limited the size of OSVs in keeping with the statutory authority at the time the section was written. As discussed above, the Act removed size limits for OSVs from the underlying statute. In response to that change, this interim rule removes the upper size limits from the regulatory definition of OSV, and also creates a regulatory regime for large OSVs without changing pre-2014 requirements for OSVs of less than 500 GRT or 6,000 GT ITC. These actions necessitate changes to § 125.100, the applicability section of Subchapter L.

Section 125.100 paragraphs (b) and (c), which were put in place prior to this interim rule and are not substantively changed by it, provide for grandfathering of vessels contracted for, or the keels of which were laid, prior to March 15, 1996, on the condition that those vessels completed construction and obtained a Certificate of Inspection (COI) within 2 years. This interim rule mimics that structure by adding a paragraph for grandfathering of large OSVs contracted for, or the keels of which were laid, prior to the date of publication of this interim rule, with the same condition that vessels complete construction and obtain a COI within 2 years.

This grandfathering structure is intended to capture two types of vessels: Vessels certificated in accordance with section 617(f)(3) of the Act; and vessels of at least 6,000 GT ITC that the Coast Guard does not consider to have undergone conversion under the provisions of § 125.100(e), which has been redesignated as paragraph (g) as discussed later in this section. The Coast Guard expects that very few vessels will qualify for grandfathering under this provision, and that most large OSVs will comply with and be certificated under Subchapter L.

The Coast Guard considered postponing the grandfathering date until 3 or 6 months after the publication of the interim rule, as is common when implementing new date-based regulations. In this case, however, Congress directed the Coast Guard to implement the Act “as soon as is practicable” and provided for an interim process by which large OSVs could be certificated prior to the rule's publication. Postponing the grandfathering date would only prolong the use of the interim process. Therefore, the Coast Guard decided to use the date of publication as the date for grandfathering provisions.

Because of the two paragraphs added to accommodate this grandfathering structure for large OSVs, this interim rule redesignates pre-2014 paragraphs (d) and (e) as (f) and (g), respectively. Both paragraphs remain otherwise unchanged, except that in paragraph (g) we have replaced the term “major alteration” with “major conversion.” In the specific context of § 125.100, the Coast Guard has consistently understood this phrase to be synonymous with “major conversion,” which is a defined term in § 125.160. A review of past major conversion determinations conducted for OSVs since 1997 confirmed that the Coast Guard reads “major alteration” in § 125.100 to mean “major conversion,” as that term is defined in Subchapter L and 46 U.S.C. 2101(14a). For these reasons, replacing “major alteration” in § 125.100 improves consistency and clarity, is an administrative change without substantive effect as discussed in Section IV of this preamble, and is effective upon publication.

B. Amendments to 46 CFR Part 125, “General,” Clarifying Tonnage Measurement

This interim rule applies to OSVs of at least 6,000 GT ITC. OSVs assigned a tonnage of less than 6,000 GT ITC, or of less than 500 GRT when no GT ITC is assigned, are not covered by this interim rule; they remain subject to the same regulations that applied prior to the Act and this interim rule. This rule adds a new § 125.103 called “Tonnage Measurement” to clarify tonnage applicability issues with respect to OSVs that are assigned both a GT ITC and a GRT, as well as to OSVs without a GT ITC assignment that are of at least 500 GRT and therefore were prohibited from operating as OSVs prior to the Act.

Under the tonnage statute at 46 U.S.C. subtitle II, part J, U.S.-flagged vessels are assigned tonnages under one of two measurement systems, and in some cases vessels may be measured under both. Gross tonnage assigned under the system of the International Convention on Tonnage Measurement of Ships, 1969 (referred to in U.S. law as the “Convention Measurement System”) is expressed as “GT ITC,” whereas tonnage assigned under the older U.S. domestic measurement system (referred to in U.S. law as the “Regulatory Measurement System”) is expressed as “GRT.”

The Act does not discuss OSVs of at least 500 GRT without a GT ITC assignment. Because the Act removed the upper tonnage limit on OSVs, however, such a vessel could be certificated as an OSV if its tonnage was at least 500 GRT, and it was not assigned a GT ITC. Without changes to the terms of Subchapter L, such a vessel might not be subject to many important regulations for the safe carriage of oil, hazardous substances, and individuals in addition to the crew. The Coast Guard does not believe Congress intended to create a category of OSVs not previously permitted and not subject to the safety regulations governing OSVs of the same size and conducting the same activities. Therefore, the new § 125.103(b) provides that an OSV of at least 500 GRT that is not assigned a GT ITC must comply with regulations for OSVs of at least 6,000 GT ITC. This provision does not prevent a vessel of at least 500 GRT from obtaining a GT ITC assignment and, if that assignment is less than 6,000 GT ITC, complying with regulations appropriate for vessels of less than 6,000 GT ITC.

Because a vessel's GRT can be lower than its GT ITC, this rule adds new § 125.103(a), which ensures that appropriate existing regulations are applied to large OSVs by providing that the GT ITC assignment must be used when applying tonnage-dependent regulations, irrespective of the vessel's GRT assignment. This requirement recognizes that a large OSV's increased capacity for cargo and personnel, and ability to operate greater distances from shore for more extended periods, carries the potential for higher-consequence incidents and a corresponding need for safety and environmental protection requirements. We do not believe Congress intended to permit OSVs of at least 6,000 GT ITC to avoid meeting safety and environmental protection regulations merely by shifting to the GRT system of measurement.

The regulatory text added by this interim rule for large OSVs uses the phrasing “6,000 GT ITC (500 GRT if GT ITC is not assigned)” to ensure that the applicability of specific requirements throughout Title 46 of the CFR is clear. The pre-2014 regulatory text, however, uses the term “gross tons.” After reviewing the history and common use of these provisions in the specific context of Subchapter L, we concluded that in each relevant instance this term refers to GRT, and that vessels without an assigned GRT appropriately use their GT ITC to apply provisions dependent on “gross tons.” Accordingly, we added new § 125.103(c) to clarify this. Because this provision clarifies the historical meaning and current use of the term “gross tons” in Subchapter L, it is an administrative change without substantive effect as discussed in Section IV of this preamble, does not require prior notice and comment, and is effective upon publication. The Coast Guard has initiated a separate rulemaking to standardize tonnage terms throughout its regulations (see “Tonnage Regulations Amendments; Proposed Rule” published at 79 FR 19420 on April 8, 2014).

C. Amendments to 46 CFR Part 125, “General,” Addressing Certificates

This interim rule adds a new § 125.105 requiring that large OSVs hold certain certificates indicating compliance with SOLAS and MARPOL 73/78, even if the OSV is certificated to operate only in U.S. waters. Specifically, large OSVs must maintain Cargo Ship Safety Construction and Cargo Ship Safety Equipment certificates evidencing that these OSVs meet the minimum standards to which cargo ships on international voyages are held. They also must maintain a Safety Management Certificate evidencing that the OSV owner or operator uses an approved safety management system. In addition to these SOLAS certificates, large OSVs must maintain International Oil Pollution Prevention and International Air Pollution Prevention certificates, which, respectively, demonstrate that the vessels have the means to properly dispose of oils and control emissions.

Using these international standards for domestic voyages, rather than a separate set of domestic standards, will create efficiencies and promote a uniform standard. The cargo ship safety certificates and safety management certificate already are required of all U.S. vessels of 500 GRT or more on international voyages, including tankships and miscellaneous non-freight vessels certificated under Subchapters D and I. The pollution prevention certificates already are required of all vessels of more than 400 GRT in the waters of nations signatory to MARPOL 73/78, including the United States. We therefore anticipate that the owners of most large OSVs subject to this rule would seek SOLAS and MARPOL certificates voluntarily, either because they are required in U.S. waters as discussed above or because they are necessary in order to work overseas. We also believe that the safety requirements that must be met in order to obtain these certificates are appropriate to ensure the safe carriage of oil, hazardous substances, and individuals in addition to the crew on such vessels.

New § 125.105 also requires large OSVs to obtain an International Load Line Certificate, and the Coast Guard added a paragraph to existing § 125.140 specifying that each large OSV must be assigned a load line in accordance with the International Convention on Load Lines, 1966, as amended (ICLL). Current industry practice is to build and operate most OSVs to ICLL standards, and the Coast Guard believes that OSVs of at least 6,000 GT ITC are very likely to be built to ICLL standards as well. The Coast Guard believes that requiring international load lines, rather than a variation permitted for domestic vessels under 46 CFR Subchapter E, will not present a significant burden to the industry.

Separately, this rule adds to existing § 125.150 in order to align the requirements for lifesaving appliances on large OSVs with SOLAS. It adds new paragraph (b) requiring large OSVs, including those authorized to carry more than 36 offshore workers when not on an international voyage (see Section VI.G. below), to comply with those portions of 46 CFR part 199 that implement SOLAS lifesaving requirements designed for cargo vessels. This rule makes no substantive change to the existing requirement for OSVs of less than 6,000 GT ITC, but redesignates it as § 125.150(a) and adds language to that paragraph clarifying the applicability.

D. Amendments to 46 CFR Part 125, “General,” Involving Tank Protection for Oil Cargoes and Oil Fuel

The Coast Guard anticipates that OSVs of at least 6,000 GT ITC will carry a greater volume of liquid cargoes than OSVs to date. The Coast Guard believes that Congress intended to enable the carriage of larger volumes of these liquids so as to better serve the changing offshore industry. The Coast Guard also believes that the size and cargo capacity of OSVs of at least 6,000 GT ITC create the potential for significant environmental damage in the event of a spill or other casualty, and that appropriate design and construction requirements should therefore accompany this increased capacity.

Accordingly, this interim rule provides double hull requirements for large OSVs carrying oil to align with other vessels of similar capabilities and capacities. Specifically, this rule amends § 125.110 to require that tanks authorized for carriage of cargo oil, including drilling fluids containing oil, comply with double hull requirements designed for tank vessels and found in 33 CFR 157.10d. Applying tank vessel double hull requirements is appropriate in light of the pollution risk that accompanies the large volumes of oil and oil-based cargoes these OSVs may carry. In § 125.110, we also inserted a reference to new § 125.125, discussed below, for other flammable or combustible liquids carried on large OSVs.

In addition to protection for cargo tanks, this rule provides for protection of oil fuel tanks as directed by the Act. Section 617(e) of the Act requires that an OSV of at least 6,000 GT ITC, delivered after August 1, 2010, or constructed under a contract entered into after October 15, 2010, with an aggregate capacity of 600 cubic meters or more of oil fuel, must comply with Regulation 12A (“Oil Fuel Tank Protection”) of MARPOL Annex I, regardless of whether the OSV is engaged in the coastwise trade or on an international voyage. Regulation 12A requires vessels provide double hull protection for fuel oil tanks, or demonstrate compliance with an accidental oil fuel outflow performance standard. This rule adds a new § 125.115 to Title 46, to meet the requirements set forth in the Act.

Historically Coast Guard regulations have distinguished between oil cargoes and excess fuel oil carried by OSVs. The new § 125.115 maintains that distinction by specifying that a large OSV is not subject to Subchapter D of Title 46, Chapter I (“Tank Vessels”) if the OSV is only transferring excess fuel oil from its own fuel supply tanks to an offshore drilling or production facility, is in the service of oil exploitation, and is not a tankship as defined in § 30.10-67. This provision is in keeping with 46 U.S.C. 3702(b) as amended by the Act, and preserves OSVs' historical ability to transfer excess fuel oil without meeting tank vessel requirements. As described elsewhere in this preamble, however, the Coast Guard has based certain other requirements for large OSVs on tank vessel regulations where appropriate.

E. Amendments to 46 CFR Part 125, “General,” Addressing Carriage of Noxious Liquid Cargoes in Bulk

As discussed above, the Coast Guard expects large OSVs to carry more, and more varied, liquid cargoes than OSVs of less than 6,000 GT ITC. This rule adds a new § 125.125 to Title 46, to help ensure the safe carriage of NLS in bulk on OSVs of at least 6,000 GT ITC. Common NLS carried on board OSVs include drilling fluids. Drilling fluids that contain salt or chemicals are subject to MARPOL Annex II, which is implemented in the United States via the Act to Prevent Pollution from Ships (33 U.S.C. 1901 et seq.) and which was revised, effective 2007, to require vessels carrying listed NLS in bulk to comply with the International Code for the Construction and Equipment of Ships Carrying Dangerous Chemicals in Bulk (IBC Code).

MARPOL Annex II recognizes, however, that the IBC Code is not appropriate for all vessels. For certain vessels, including OSVs, MARPOL Annex II provides that Flag Administrations may establish appropriate measures to minimize the uncontrolled discharge of NLS into the sea. For OSVs, recent amendments to MARPOL Annex II explain that these appropriate measures should be based on IMO Resolution A.673(16), which provides an alternative to the IBC Code. In 2010, the Coast Guard issued guidance on implementing Resolution A.673(16) for new and existing OSVs (CG-522 Policy Letter 09-01, Rev. 1, April 5, 2010) (due to reorganization, CG-522 has been redesignated CG-OES). The new § 125.125 integrates some of this guidance in regulation. It allows a large OSV to carry NLS in bulk in its integral and fixed independent tanks if the OSV holds either a valid Certificate of Fitness or a valid International Pollution Prevention Certificate for the carriage of NLS in bulk, issued pursuant to regulations implementing Resolution A.673(16) at § 125.125(b) through (f).

Of the paragraphs implementing Coast Guard guidance on Resolution A.673(16), paragraphs (b) and (c) describe the types of NLS a large OSV may carry, and the methods and conditions required for carriage. Paragraphs (d) and (e) address the required Cargo Record book, Shipboard Marine Pollution Emergency Plan, and Procedures and Arrangements Manual. These documents already are required under MARPOL Annex II, 33 CFR part 151, and 46 CFR part 153, but the new § 125.125 permits the Procedures and Arrangements Manual to depart from requirements found in MARPOL Annex II, Appendix 4, in the same ways provided in the Coast Guard guidance on Resolution A.673(16). Paragraphs (f) and (g) set forth requirements for transferring NLS to and from a portable tank, which is otherwise authorized only by an endorsement on the vessel's COI.

Although § 125.120 already addresses the carriage of NLS for OSVs of less than 6,000 GT ITC, the new § 125.125 incorporates recent amendments to MARPOL Annex II and recent guidance issued specifically for OSVs. Implementing the Coast Guard's existing guidance on Resolution A.673(16) creates flexibility for large OSVs and facilitates operating overseas where they might otherwise be deemed to be in violation of MARPOL Annex II.

Finally, this rule clarifies that pre-2014 § 125.120 applies only to the carriage of NLS in bulk by OSVs of less than 6,000 GT ITC.

F. Amendments to 46 CFR Part 125, “General,” Affecting Definitions

This interim rule revises the definition of “offshore supply vessel” in § 125.160 in accordance with the Act, by removing the upper size limits previously placed on OSVs. Under the revised definition, an OSV is defined by its propulsion method and activities, and is more than 15 gross tons. The interim rule also adds definitions of “gross register tons (GRT)” and “gross tonnage ITC (GT ITC)” as these terms are explained above. Adding these terms is necessary in order to insert regulations specific to OSVs of at least 6,000 GT ITC, and to clarify the applicability of regulations to OSVs of at least 500 GRT if GT ITC is not assigned.

This interim rule does not affect the definition of liftboats. As discussed later in this preamble, however, this interim rule requires special approval of liftboats of at least 6,000 GT ITC.

G. Amendments to 46 CFR Parts 126, “Inspection and Certification,” and 127, “Construction and Arrangements,” Addressing Carriage of More Than 36 Offshore Workers

OSVs carry personnel who work on, and in support of, offshore energy facilities. Under pre-2014 regulations, OSVs could carry a maximum of 36 offshore workers when not on an international voyage. Removing the size limit on OSVs makes it possible for them to carry more personnel, which is consistent with operations occurring farther offshore as well as with more labor-intensive operations such as platform and subsea construction. In order to safely carry more personnel, however, OSVs must be designed and built to standards that provide an adequate level of safety with respect to stability, marine engineering, fire protection, and lifesaving considerations, and personnel must be properly prepared to react to incidents such as fires or collisions. This is because the larger number of people on board increases the potential loss of life in the event of an incident. As we discussed in our February 2012 request for comments on accommodation vessels (77 FR 5039), the level of sea-going experience and vessel familiarity may vary widely among those working offshore, and some personnel could be expected to behave like passengers in an emergency. We therefore look to design standards to provide an adequate level of protection for offshore workers on large OSVs. The desired standard should be flexible enough to be scaled according to the potential consequence presented by the vessels' operational profile. After considering several possible standards, including domestic and SOLAS standards for passenger, cargo, and industrial vessels, the Coast Guard concluded no acceptable option existed that addressed the appropriate level of safety while maintaining the operational flexibility expected by the offshore industry.

One of the standards the Coast Guard considered, but did not adopt, was the IMO Code of Safety for Special Purpose Ships (SPS Code). The SPS Code is an international standard for specialized vessels that carry personnel who are specifically needed for the particular operational duties of the ship and are carried in addition to those persons required for normal navigation, engineering and maintenance of the ship. Such personnel might include remotely operated vehicle operators, anchor handling personnel, and other workers who are not part of the navigational crew but who are necessary to the vessel's mission. The SPS Code specifically contemplates that, because of the nature of their work, these personnel are physically able and trained in safety procedures, and therefore do not require the more stringent protection that would be provided for a member of the general public on a passenger ship of similar capacity. The design requirements set forth in the SPS Code scale according to the number of personnel carried, such that the standards for a vessel carrying 60 or fewer people are less stringent than for a vessel carrying between 61 and 240 people. In this way, the SPS Code provides flexibility for the many different types and operational duties of vessels like large OSVs. The SPS Code states, however, that it is not intended for ships transporting or accommodating personnel other than those working on board. Given the nature of the work these large OSVs are likely to pursue, we anticipate that many, but not all, personnel on board would normally be working on board; some may simply be transported to offshore work sites. Therefore, directly adopting the SPS Code would not be appropriate.

Instead, this interim rule adds new Subpart F to Part 127 and removes the constraint in existing § 126.170 to allow an OSV of at least 6,000 GT ITC to carry more than 36 offshore workers if the vessel meets the new construction standard set forth there. The new Subpart F aligns closely with the approach of the SPS Code, and takes the similar position that vessels carrying few offshore workers may meet a cargo vessel standard, while vessels authorized to carry large numbers of offshore workers must meet a passenger vessel standard. The interim rule sets thresholds such that vessels carrying fewer than 36 offshore workers meet cargo vessel standards, while vessels authorized to carry more than 240 total persons on board must meet a passenger vessel standard. The bases for these thresholds change from number of offshore workers to total persons on board to align with both pre-2014 regulations (36 offshore workers) and an internationally recognized value (240 total persons). Vessels authorized to carry at least 36 offshore workers but no more than 240 total persons are required to meet a hybrid set of requirements balanced between passenger and cargo standards. In each of these cases, the selected standard is based upon SOLAS rather than other domestic regulations, in keeping with the widespread use of SOLAS in other portions of this rule. This is intended to be more efficient, minimizing the number of references to other sources. Furthermore, as noted elsewhere, given the international nature of work for large OSVs, it is the Coast Guard's assessment that they would voluntarily comply with these international requirements even in the absence of this regulation.

The SPS Code permits a reduced amount of primary lifesaving equipment (lifeboats) when the vessel meets the stricter passenger vessel fire-protection provisions. On passenger vessels, critical safety systems are designed such that they will remain operational for the evacuation and discharge of the passengers for a relatively long period of time—at least 3 hours. This permits a reduction in the overall redundancy of the lifesaving systems. However, the operating environment for large OSVs exposes them to hazards not commonly encountered by passenger vessels and a similar reduction in redundancy, or the lesser protection provided by liferafts instead of lifeboats, is not justified on large OSVs. Therefore, this interim rule requires the lifesaving equipment for large OSVs to comply with SOLAS cargo vessel standards, and does not allow the reductions that may be permitted for passenger or special purpose ships.

Because of the operational practices described above, the Coast Guard believes that the majority of personnel on an OSV of at least 6,000 GT will work on board the vessel, operating specialized equipment and performing functions such as anchor handling, diving operations and support, well stimulation, and ROV operations and support. Existing 46 CFR 15.1105 requires that any person assigned shipboard duties must receive basic training in accordance with the International Convention on Standards of Training, Certification and Watchkeeping for Seafarers (STCW). In addition, Subchapter L places requirements for safety orientation, drills, and training on offshore workers in §§ 131.320, 131.530, and 131.535. Further, § 131.420 requires enough trained persons aboard each survival craft to muster and assist untrained persons.

However, notwithstanding these existing Subchapter L operations requirements for drills and training of offshore workers, the Coast Guard is considering appropriate standards for vessels providing accommodation service (i.e., the supply of hotel-like services such as dining, berthing, and access to recreational facilities) for personnel who are not engaged in work aboard the vessel but are engaged in work on a nearby drilling or production platform on the U.S. Outer Continental Shelf (OCS). (See 77 FR 5039, February 1, 2012). In the future, we may consider additional training requirements for personnel who are not members of the crew and possibly other additional safety standards for vessels that engage in accommodation service.

H. Amendments to 46 CFR Part 127, “Construction and Arrangements”

This interim rule adds a new § 127.200 to Title 46, specifying that OSVs of at least 6,000 GT ITC must be classed by an authorized classification society recognized under the provisions of 46 CFR part 8. Classification societies ensure that the vessel is built to and complies with a set of design and construction standards. Meeting classification society requirements is consistent with SOLAS Chapter II-1, Regulation 3-1, and we expect that all large OSVs would be classified even if not required by this rule. Requiring the use of an authorized classification society, however, ensures that the classification society requirements are developed by an organization with adequate resources and experience.

This interim rule adds a new § 127.225 setting forth structural fire-protection standards based on SOLAS requirements for cargo ships and existing U.S. regulations for tank vessels. SOLAS provides fire-protection standards requiring the use of non-combustible materials (Method IC), but as an alternative allows the use of sprinklers or smoke detectors. The Coast Guard's longstanding view, as established by regulation, is that the use of these alternatives in lieu of non-combustible materials does not provide an adequate level of safety, and the Coast Guard has advocated that non-combustible construction is superior to reliance on sprinklers or smoke detectors since the fire on board the cruise vessel Morro Castle on September 8, 1934, which caused the deaths of 137 persons. The requirement in § 127.225(a) limits the options available to large OSVs to Method IC construction and is consistent with existing U.S. regulations for other large vessels (e.g., 46 CFR subchapters D, H, and I). Section 127.225 also provides for approval of materials under current U.S. regulations, and applies fire-protection standards based on standards applicable to tank vessels. These provisions for large OSVs are in addition to the general fire-protection provisions for all OSVs at § 127.220.

Existing § 127.230 requires OSVs to comply with special stability requirements found in 46 CFR subchapter S, but large OSVs must meet different stability requirements in order to obtain the SOLAS certificates required in § 125.105 and necessary to compete in the international market. To avoid duplication between the two sets of requirements, this rule adds a new paragraph (b) to existing § 127.230 to exempt large OSVs from the domestic stability requirements. Because there is no SOLAS damage stability requirement for cargo ships less than 80 meters in length, we limited this exemption to large OSVs of 80 meters or more in length. OSVs that are less than 80 meters in length would continue to comply with the stability requirements in 46 CFR Subchapter S. Exempted large OSVs may choose to meet the requirements in Subchapter S, so long as they also demonstrate compliance with the SOLAS stability requirements.

I. Amendments to 46 CFR Part 128, “Marine Engineering: Equipment and Systems”

Existing Part 128 requires OSVs to comply with Subchapter F of Title 46, Chapter I, titled “Marine Engineering,” but lists a number of exceptions specific to OSVs, such as allowing certain piping systems to meet less restrictive standards than those found in Subchapter F. This interim rule makes no change to the requirements for OSVs of less than 6,000 GT ITC, but it does not extend those same exceptions to large OSVs. To accomplish these changes, this rule amends 46 CFR 128.110 by redesignating existing paragraph (b) as (c), without otherwise changing it, and inserting a new paragraph (b) requiring large OSVs to meet Subchapter F. It also makes minor conforming changes to paragraph (a) to make clear that the pre-2014 provision of Part 128 continues to apply to OSVs of less than 6,000 GT ITC, without change.

The requirement to meet all of Subchapter F is the same as that for cargo vessels under Subchapter I, and is appropriate for large vessels. As a result of this requirement, pre-2014 exemptions in Part 128 do not apply to large OSVs. In particular, this interim rule clarifies that the fuel requirements for large OSVs should follow Subchapter F. To accomplish this, the interim rule specifies that pre-2014 text of § 128.310 applies to OSVs of less than 6,000 GT ITC, and then adds provisions for large OSVs. The new provisions require that internal combustion engines installed on large OSVs use fuel having a flashpoint of at least 60° C (140° F). This requirement differs from the rule for OSVs of less than 6,000 GT ITC, which requires fuel with a flashpoint of at least 43° C (110° F), but it aligns with the provisions of Subchapter F (see 46 CFR 58.01-10) and the requirements found in SOLAS (see Chapter II-2, Part B). Using fuel with a higher flashpoint is safer as well as consistent with SOLAS requirements for travelling internationally, as is likely for these OSVs. The new provisions of § 128.310 do allow fuels with a lower flashpoint to be used on gasoline-powered rescue boats and emergency generators, or elsewhere with the Coast Guard's specific approval.

J. Amendments to 46 CFR Part 129, “Electrical Installations”

Existing Part 129 requires OSVs to comply with Subchapter J of Title 46, Chapter I, titled “Electrical Engineering,” but lists a number of exceptions specific to OSVs. This interim rule makes no substantive change to these limited requirements for OSVs of less than 6,000 GT ITC, but it does not extend those same exceptions to large OSVs.

Because of the size and types of operation systems that will be found onboard these large OSVs, the interim rule requires large OSVs to meet all of Subchapter J, aligning it with requirements imposed on similar cargo vessels under Subchapter I. For example, unlike OSVs of less than 6,000 GT ITC, large OSVs must meet the requirements of 46 CFR 111.10-7, which mandates electrical services necessary to start the main propulsion plant from a dead ship condition. Large OSVs must also meet 46 CFR subpart 112.20, Emergency Systems Having a Temporary and a Final Emergency Power Source, which requires an emergency power source and certain transfers of emergency loads.

To accomplish this change, this rule amends § 129.110 by redesignating the existing text as paragraph (b), and adding a new paragraph (a). This rule also makes a conforming change to § 129.315(a) so that the section remains limited to OSVs of less than 6,000 GT ITC, as was the case before the Act removed the size limits on OSVs.

This interim rule also adds new § 129.570 to require that cargo oil tanks on large OSVs be equipped with alarms to prevent oil spills during cargo transfer. The alarms are intended to alert operators when a cargo oil tank is becoming full, and again when tank overflow is imminent. The new § 129.570 is based on existing regulations for tankships and is appropriate for large OSVs because of the volume of oil these OSVs may carry.

K. Amendments to 46 CFR Part 130, “Vessel Control”

To avoid contradictory requirements between existing Part 130 and new marine engineering requirements for large OSVs, this rule makes conforming changes to portions of Part 130 that previously had applied to OSVs of 100 gross tons or more. Specifically, it modifies §§ 130.140 and 130.400 with the phrase, “Except as provided in § 128.110.” Section 128.110 directs large OSVs to comply with Subchapter F, as discussed above, and therefore this language prevents large OSVs from using §§ 130.140 and 130.400 in lieu of Subchapter F. This rule does not change the requirements already found in those sections for OSVs that are of 100 gross tons or more, but less than 500 GRT or 6,000 GT ITC.

L. Amendments to 46 CFR Part 131, “Operations,” Addressing Vessel Maneuvering

This interim rule adds new 46 CFR 131.990, which requires that certain information about the OSV's maneuvering capabilities must be displayed in the pilothouse for the use of vessel operators and pilots. The information includes the time and distance necessary to stop the OSV, and a warning about conditions that may alter the information provided. Section 131.990 matches existing provisions that already apply to other vessels of 1,600 gross tons or more, including cargo vessels regulated under Subchapter I.

M. Amendments to 46 CFR Part 132, “Fire-Protection Equipment”

This interim rule makes changes in Part 132 to address certain areas not covered by SOLAS chapter II-2. Section 125.105 requires large OSVs to comply with the SOLAS rules for cargo ships, including the chapter II-2 fire-protection rules, but there are three areas where the SOLAS rules do not include specific criteria for the approval of equipment. This interim rule therefore adds three new sections to clearly state the applicable U.S. requirements for: Fire pumps, fire hoses, and nozzles (see new paragraph (d) in § 132.100); portable and semiportable fire extinguishers (see new § 132.200); and firefighter's protective clothing and personal safety equipment (see new § 132.365). The fire extinguishers and protective equipment required by these new sections are the same as required on tankships. These requirements are in addition to the pre-2014 fire-protection requirements of Part 132, which continue to apply to other OSVs without change as reiterated in § 132.200(a). Requiring large OSVs to carry fire-protection equipment similar to that on tankships reflects the increased quantities of oil and other flammable liquids these large OSVs may carry.

For the same reasons, this rule adds new § 132.390 to ensure an adequate level of fire protection for the greater quantities of flammable or combustible liquids expected to be carried on large OSVs. Except for OSVs fitted with a deck foam system, all large OSVs must carry at least two 135-kg semi-portable dry chemical fire extinguishers to mitigate the fire risk associated with a spill on the weather deck. A deck foam system is necessary on large OSVs carrying larger quantities of certain flammable and combustible liquids to address the greater fire risk presented by these quantities. Therefore, for large OSVs that carry 3,000 cubic meters or more of flammable or combustible liquids with a flashpoint of 60 °C (140 °F) or below in fixed tanks, this interim rule requires cargo area and cargo-pump room fire-extinguishing systems similar to those required on tank vessels. OSVs with this cargo carrying capacity must have a deck foam system designed to tankship standards where the cargo tanks extend vertically to the weather deck. The requirement to provide foam coverage for the total deck area is intended to mitigate the fire risk associated with spills taking into consideration the additional potential hazard of cargo tank physical damage (e.g., explosion, dropped load) as well as the possibility of spills from associated deck fittings such as pumps, valves, and vents. If the cargo is carried in double bottom or other tanks that do not extend to the weather deck, the foam system is only required to protect weather deck areas within 10 feet (3 m) of potential leak sources such as manifolds and vents, since it is considered that in these cases the possibility of a large volume spill covering the entire deck is less likely.

These OSVs also are required to have a fixed total flooding gas fire extinguishing system designed to tankship standards for the protection of any accessible below-deck cargo pump rooms or other enclosed spaces that contain tank openings, pumps, flanges, valves, loading manifolds, or other potential sources of leakage. The regulation refers to accessible below-deck spaces because it is not intended to require extinguishing systems in spaces not easily accessed by the crew, such as cofferdams, where such leak points are unlikely to be present.

Review of currently operating OSVs complying with Subchapter L revealed that the great majority carry less than 3,000 cubic meters of flammable or combustible liquids as cargo. To address the greater fire risk presented by the carriage of larger quantities of flammable or combustible liquids by larger OSVs, this interim rule requires additional fire-protection measures compared to current Subchapter L when volumes greater than 3,000 cubic meters of flammable or combustible liquids are carried.

N. Amendments to 46 CFR Part 134, “Added Provisions for Liftboats”

A liftboat is a subtype of OSV that has movable legs. The legs, when resting on the sea floor, raise the hull above the sea to create a platform from which work can be performed on another offshore structure. Most liftboats are relatively small—usually less than 1,000 GT ITC—but the Coast Guard is aware of larger liftboats operating overseas, and of some limited interest in developing U.S.-flagged liftboats of at least 6,000 GT ITC.

The safe construction and operation of liftboats requires consideration of unique factors, including leg strength and stability, sea floor stability, vulnerability to wind, height of the hull above the water, and the speed at which the hull is raised. The existing regulations in Part 134 of Subchapter L were designed to address these concerns but, because liftboats historically have been small, the Coast Guard currently lacks data with which to evaluate the safety of liftboats of 6,000 GT ITC or more. The Coast Guard also does not believe that the purpose of the Act was to provide for extremely large liftboats, because liftboats are a unique type of vessel and generally do not undertake the cargo and personnel carriage that was the focus of the Act.

Therefore, this interim rule provides that liftboats of 6,000 GT ITC or more are permitted only on a case-by-case basis with the approval of the Commandant. As the demand for and design requirements of large liftboats becomes clearer, the Coast Guard will consider developing a regulatory framework for them. We encourage the public to submit information about larger liftboats; in particular, we request information on the likelihood of liftboats reaching or exceeding 6,000 GT ITC, and on whether large liftboats should meet the requirements of 46 CFR subchapter I-A for mobile offshore drilling units (MODUs).

O. Amendments to 46 CFR Part 2, “Vessel Inspections”

In 46 CFR 2.10-25, the Coast Guard revised the definition of “offshore supply vessel” by removing the upper size limit previously found in paragraph (3) of that definition. Removing the upper size limit is appropriate in light of the change made by the Act to the underlying statutory authority, and brings large OSVs within the existing Part 2 vessel inspection provisions. This rule makes no change to vessels of 15 or fewer gross tons. The definition of OSV otherwise remains unchanged, and the Coast Guard did not alter other sections of Part 2 that mention OSVs.

The Coast Guard is aware of similar definitions in Parts 68 and 175, but found that these provisions were specific to particular groups of OSVs and that it would be unnecessary to revise these definitions in order to implement the Act.

P. Amendments to 46 CFR Part 15, “Manning Requirements”

This rule implements manning requirements for large OSVs as required by the Act.

Section 617(d) of the Act amended 46 U.S.C 8104 to permit the use of two watches in certain circumstances, so long as the officers and crew are “in compliance with hours of service requirements (including recording and recordkeeping of that service) as prescribed by the Secretary.” This interim rule revises 46 CFR 15.705 to reflect that statutory requirement, and specifies that the individuals must be in compliance with the work hours and rest period requirements found in 46 CFR 15.1111. We expect that vessels subject to this rule will seek international certification and, as a result, be required to meet the STCW Convention requirements implemented in 46 CFR Part 15, Subpart K, including the hours of work hours and rest period requirements found in 46 CFR 15.1111.

Section 617(c) of the Act amended 46 U.S.C. 8301 to specify the minimum number of licensed individuals required aboard OSVs. It requires that an OSV of less than 500 GRT or 6,000 GT ITC have one licensed mate on a voyage of less than 600 miles, and two licensed mates on a voyage of at least 600 miles. It also requires that an OSV of at least 6,000 GT ITC have two licensed mates on a voyage of less than 600 miles, and three licensed mates on a voyage of at least 600 miles. This interim rule revises 46 CFR 15.810 to reflect the statutory changes, while leaving in place the existing regulatory alternative for vessels of less than 100 gross tons. Specifically, this interim rule removes § 15.810(b)(4), which had applied to OSVs of 100 gross tons or more, and redesignates § 15.810(b)(5) as (b)(4). The interim rule then creates two new paragraphs: New paragraph (b)(5) for OSVs of between 100 GRT and 500 GRT or 6,000 GT ITC, and new paragraph (b)(6) for OSVs of at least 6,000 GT ITC (500 GRT if GT ITC is not assigned).

These new paragraphs implement the manning requirements stated in the Act. The interim rule uses the term “credentialed” rather than “licensed” because the Coast Guard now issues Merchant Mariner Credentials (MMCs) rather than licenses. The term “credentialed” encompasses “licensed” as used in the Act, and includes any licensed mate whose license will be replaced with an MMC after the license expires. We anticipate that credentialed mates will keep watch, with the Master and Chief Engineer occasionally standing in for high-intensity operations or in the case of illness or fatigue. This view is supported by the National Offshore Safety Advisory Committee (NOSAC) report, “Certifications and Standards for Large OSVs,” dated April 18, 2008, and available in the docket. The master is distinct from the mate in our existing regulations, and should not be counted as one of the mates required on an OSV.

As was the case before the Act, the amended statute and the revised regulations require more mates for vessels on longer voyages. Previously, regulations had stated that a voyage includes the accrued distance from port of departure to port of arrival and does not include stops at offshore points. The Coast Guard has become aware, however, that some readers misinterpret this provision to restart the voyage at each offshore point. This is an incorrect reading of the current language and undermines the purpose of the regulation, which is to provide for more mates—and therefore, shorter watches and less fatigue—on long voyages, even if those voyages include visits to offshore points. Therefore, new § 15.810(b)(6) for large OSVs clarifies that a voyage includes the total accrued distance between departing and arriving at a port.

Although the Coast Guard's understanding of “voyage of less than 600 miles” remains the same as explained above, the Coast Guard has chosen not to change the language in paragraph (b)(5) in this interim rule. Instead, the Coast Guard invites the public to submit information on how it measures voyages under this provision and what, if anything, would change as the result of a clarification similar to the one in paragraph (b)(6). The Coast Guard is considering inserting the clarification from paragraph (b)(6) into paragraph (b)(5) in the final rule that will follow this interim rule, and public comments will assist that decision.

Based on the NOSAC report, this rule modifies 46 CFR 15.825 to specify that large OSVs approved for the use of automated systems must carry at least one assistant engineer. The Coast Guard agrees with this NOSAC recommendation because, as the size of the vessel increases, so do the engineering demands. The increased number of engineering components and the enhanced complexity of component technology make it important to keep enough personnel on board to maintain those components, and to respond to shipboard emergencies and equipment failure. For these reasons, large vessels usually carry one or more assistant engineers. The requirement that large OSVs carry an assistant engineer is only a minimum standard and the operator should provide additional engineers if necessary for safe vessel operation. Additionally, the Officer in Charge, Marine Inspection (OCMI) may continue to require more than one engineer under existing § 15.825(c), which has been redesignated as paragraph (d).

The Coast Guard is aware that the Act necessitates other changes to regulatory requirements for mariners, including requirements in 46 CFR subchapter B governing mariner credentialing. We anticipate addressing these changes in a separate rulemaking.

Q. Amendments to 46 CFR Part 62, “Vital System Automation,” and Related Amendment to 46 CFR Part 61, “Periodic Tests and Inspections”

Most large modern vessels use automated control and monitoring systems to replace specific personnel or to reduce overall crew requirements. The Coast Guard regulates and tests automated vital systems to ensure that a vessel with automated systems is as safe as a vessel under direct manual operator supervision. Coast Guard regulations at 46 CFR part 62 address automation and already apply to tank vessels and cargo vessels over 500 GRT as well as passenger vessels over 100 GRT. Because of the hazards associated with larger vessels carrying more cargo and personnel, the automated systems regulations in Part 62 are appropriate for large OSVs. This interim rule amends the applicability section of Part 62 to include large OSVs.

This interim rule also makes a related change to 46 CFR part 61, which addresses testing of vital system automation. Within the text of Part 61, this rule revises the last sentence of existing § 61.40-10(b) so that the Marine Safety Center, rather than Coast Guard Headquarters (CG-ENG) approves other test techniques. This is an administrative change with no substantive impact on the public and, as discussed in Section IV of this preamble, the Coast Guard finds good cause to make this change without prior notice and comment and without delay.

R. Amendments to 46 CFR Part 90, “General Provisions” for Cargo and Miscellaneous Vessels

46 CFR subchapter I provides regulations for cargo and miscellaneous vessels. Prior to the creation of Subchapter L in the 1990s, OSVs were regulated under Subchapters I and T. Subchapter I contains “grandfathering” language, matching that in Subchapter L, that distinguishes between OSVs subject to Subchapter I and OSVs subject to Subchapter L. (Subchapter T contains similar language, but is specific to vessels of less than 100 gross tons and therefore not affected by this rule.) This interim rule revises § 90.05-20 in Subchapter I to conform to § 125.100 by inserting provisions for large OSVs grandfathered under § 125.100 as discussed above (i.e., large OSVs certificated under section 617(f)(3) of the Act and vessels of at least 6,000 GT ITC that have not undergone a major conversion under § 125.100(e)). These vessels are subject to Subchapter I.

This rule makes similar changes to the definition of OSV at § 90.10-40. The rule removes the upper size limits from paragraph (a), in accordance with statutory changes made by the Act. In paragraph (b), it adds a definition of “existing” large OSVs to which the grandfathering provisions of § 90.05-20 will apply, and in paragraph (c), it adds a definition of “new” large OSVs that will be subject to Subchapter L.

This interim rule also makes non-substantive changes to the existing language of §§ 90.05-20 and 90.10-40 to improve clarity. For example, because the sections now discuss both GRT and GT ITC measurements, this interim rule replaces the word “tons” with “GRT” and includes references to the appropriate definitions in Subchapter L. These changes do not alter the requirements previously applicable to OSVs of less than 500 GRT or 6,000 GT ITC. Because they are non-substantive administrative changes made to improve clarity, the Coast Guard finds that prior notice and comment is unnecessary, and finds good cause to make these changes effective upon publication as described in Section IV above.

S. Amendments to 46 CFR Part 110, “General Provisions” Within Subchapter J, “Electrical Engineering”

46 CFR part 110 includes the incorporation by reference and definitions sections for the whole of Subchapter J, including Part 111. Most of the changes this interim rule makes to Part 110 involve incorporations by reference and new definitions applicable to requirements found in Part 111 and discussed in detail below. The definitions of note in § 110.15-2 are those that explain the hazardous location classifications used in new Subpart 111.106, which is specific to hazardous locations on large OSVs. As explained in the portion of the preamble below that discusses Subpart 111.106, this interim rule provides for a choice of industry standards to apply in hazardous locations, and each incorporated standard uses slightly different terms to classify hazardous locations. The definitions in § 110.15-2 provide a standard frame of reference for readers who may be using any of the incorporated standards.

This rule also adds a new paragraph (p) to § 110.25-1, to specify requirements for submitting plans for OSVs to which new Subpart 111.106 applies. Subpart 111.106 is discussed below. Section 110.25-1(p) requires submission of plans that demonstrate the safe design of potentially hazardous locations, particularly on OSVs carrying flammable cargoes.

T. Amendments to 46 CFR Part 111, “Electric Systems—General Requirements”

The term “hazardous location” is broadly understood as an area where flammable gasses, vapors, liquids, or other ignitable substances may concentrate, resulting in a fire or explosion hazard. The Coast Guard regulates hazardous locations on vessels to ensure that electrical components are either absent from hazardous locations or, if they must be present, are of a type that is unlikely to cause a fire or explosion. Although Part 111 already contains a subpart on hazardous locations, the Coast Guard has added provisions specific to large OSVs to reflect current, widely accepted standards and to address the hazards posed by large vessels potentially carrying flammable substances and/or large numbers of people.

This rule creates new § 111.05-20 to specify that large OSVs designed to carry flammable or combustible liquid cargoes with closed-cup flashpoints not exceeding 60 °C (140 °F), such as methanol, may have a grounded distribution system only if the current does not flow directly through any hazardous locations bounded by flammable or combustible liquid cargo integral storage tanks. This provision is intended to avoid the introduction of an electrical arc into a hazardous location given the provisions for use of increased quantities of flammable liquids on larger vessels.

This rule also creates new Subpart 111.106, “Hazardous Locations on OSVs,” specifically for large OSVs. The Subpart provides a choice of standards with which electrical installations must comply when they cannot be placed outside hazardous locations, and testing and certification requirements appropriate to each choice. Electrical installations must comply with either National Electric Code (NEC) standards or International Electrotechnical Commission (IEC) standards, subject to certain testing requirements and, in the case of the IEC option, substitution of U.S. requirements for certain provisions of the international standard. This rule provides the flexibility to choose an internationally accepted certification system that existing Subpart 111.105 does not provide.

With respect to U.S. industry standards, this rule allows hazardous locations on large OSVs to comply with either of two classification systems found in the NEC, also known as National Fire Protection Association 70 (NFPA 70). Both of these systems classify hazardous locations according to likely presence of flammable substances. Hazardous locations may comply with Articles 500 through 504 of NFPA 70, which classify areas into three Classes, each containing two Divisions. These Articles set forth requirements for the design, location, and required and prohibited contents for each Division. Alternatively, hazardous locations may comply with Article 505 of NFPA 70, which provides an alternative system classifying areas into Zones. NFPA 70 contains guidance on moving between the two systems. We use the term “Class I, Special Division 1” to describe areas within Class I, Division 1, under Article 501 that are equivalent to Zone 0 under Article 505. This term is based on the American Petroleum Institute Recommended Practice (API RP) 500.

Regardless of which portion of NFPA 70 is followed, this rule requires that equipment be tested, and listed or certified, by an independent laboratory. The Coast Guard generally requires third-party testing for critical equipment, such as lifesaving and firefighting equipment, and believes that safe certification for electrical systems on large OSVs must include independent third-party certification. This requirement is consistent with other regulatory agencies' approach to electrical equipment in hazardous locations in other types of facilities, such as refineries. In accordance with NFPA 70, this rule provides a choice of standards against which the equipment may be evaluated: For the Class and Division system set forth in Article 500, the equipment may meet a selection of American National Standards Institute (ANSI), Underwriters Laboratories, FM Approvals, and Canadian Standards Association standards, while for the Zone system set forth in Article 505 the equipment may meet certain standards from the ANSI/ISA 60079 series. Where any of these standards are used, certification would be performed by an independent laboratory meeting 46 CFR part 159.¹

¹ The authority for current 46 CFR part 159 is 46 U.S.C. 3306, which “contains broad authority to prescribe regulations for proper inspection and certification of vessels,” House Report No. 98-338 (August 1, 1983), 1983 U.S.C.C.A.N. 924, 954-53, including the specific requirement to prescribe regulations to carry out the statutory requirements “in the most effective manner,” 46 U.S.C. 3306(a). The Coast Guard finds the use of independent laboratories in the Coast Guard's approval process to be “the most effective manner” of executing and carrying out its obligations under section 3306.

As an alternative to U.S. standards, and to provide regulatory flexibility, this rule allows hazardous locations on large OSVs to comply with the widely accepted international standard IEC 60092-502, “Electrical installations in ships—Tankers—Special features.” The Coast Guard chartered a study by ABSG Consulting to evaluate IEC 60092-502, and the 2010 report is available in the docket. The study modeled gas dispersion from multiple scenarios with various vapor sources, cargoes, and ventilation rates, and compared it to values provided in the IEC standard. Overall, the study validated the IEC approach, with certain exceptions, because it indicated that in most cases the flammable vapors were well inside IEC Zone 1 areas. We therefore adopt the IEC 60092-502 standard in this rule with some exceptions, which are discussed in detail below. In general, we retained the zones defined by IEC 60092-502 except where the study indicated that zones defined by IEC 60092-502 might not be large enough, in which case we enlarged the zones. Where the study implied that zone sizes may be reduced, we retained the IEC 60092-502 zones to promote safety and compliance with international standards.

The study indicated that for certain cargoes during cargo transfer, flammable vapors from large-volume tank vents tended to sink to the deck, forming a blanket extending beyond area boundaries that were developed based only upon distance from the vent (i.e., boundaries similar to existing § 111.105-31(f) and IEC 60092-502 Regulation 4.2.2.7; see page 27 of the study). This was the case whether or not ventilation was restricted. Based on this, we adopted the IEC 60092-502 regulation 4.2.2.11 requirements in this area, with the exception that the hazardous location designation applies whether or not ventilation is considered to be restricted. Similarly, for large-volume tank outlets the study indicated that vapors tended to extend beyond the 6-meter Zone 1 area of IEC 60092-502 Regulation 4.2.2.8, and we adopted an 8-meter zone to account for this. These modifications appear in new § 111.106-9.

The study also suggested that the use of mechanical ventilation may not be sufficiently effective in reducing flammable vapor concentration down to safe levels in certain hazardous locations (see pages 30-33 and 53 of the study). We therefore did not adopt the portions of IEC 60092-502 Regulation 4.1.4, Table 1, that allow enclosed spaces to be reclassified based upon mechanical ventilation; instead, we inserted new §§ 111.106-13(b) and 111.106-15. Finally, the study consistently indicated the presence of ignitable vapors in the immediate proximity of certain vapor release point sources, a finding that is consistent with API RP 505 standards (see API RP 505 6.5.5). We therefore adopted zone 0 areas similar to those found in API RP 505.

In some cases, the study indicated that certain Zone 1 areas may be reduced. For the reasons discussed above, this rule does not reduce the areas, but the Coast Guard is interested in receiving public comments on whether these zone requirements should be reduced. For example, because modeling indicated that gasses extended no further than 0.5 meters above the deck, a height of 2.4 meters for Zone 1 as described in IEC 60092-502 Regulation 4.2.2.11 may be larger than necessary. For certain vapor sources where a failure (e.g., failure of a valve or flange) is required for vapor release, it may be reasonable to reduce the size of the Zone 1 hazardous location for these vapor sources. We welcome public comment on this topic. For other vapor sources (e.g., vents) where vapor is likely to be present without a failure, however, we do not believe it is reasonable to reduce the Zone 1 sizes.

As with the domestic standards, electrical installations in compliance with IEC 60092-502 must be tested and approved or certified by an independent authority. For vessels designed to compete on the international market or built in foreign shipyards, in this rule the Coast Guard adopts the international certification system, IECEx (Certification to Standards Relating to Equipment for use in Explosive Atmospheres), a certification system that is based on full testing to the IEC 60079 series of standards. The IECEx system ensures testing of equipment by a competent authority other than the manufacturer. Approval under the IECEx system involves an Ex Certification Body (ExCB) and an Ex Testing Laboratory that have been accepted into the IECEx system after meeting competence requirements found in the International Organization for Standardization ISO/IEC Standard 17025 and related IECEx procedures. The Ex Testing Laboratory tests the covered equipment to determine whether it meets IECEx system standards, and drafts an IECEx Test Report to document the test results. The ExCB reviews the manufacturing quality assurance process and issues an IECEx Quality Assessment Report. Based on these reports, the ExCB may then issue an IECEx Certificate of Conformity for the equipment.

The Coast Guard considered allowing certification of electrical equipment under the Directive on Equipment and Protective Systems Intended for use in Potentially Explosive Atmospheres (94/9/EC) (“ATEX directive”), which is used in Europe and is harmonized with the IECEx system, but chose not to do so because the ATEX directive does not guarantee testing by a competent authority other than the manufacturer. ATEX is a part of a series of European laws, the EC Directives, which are applicable to the European Economic Area member states. The ATEX directive contains Essential Health and Safety Requirements for products applied in hazardous areas, instead of restrictive references to standards. The ATEX Directive allows all kinds of standards to be used. When the harmonized standards are used, it provides the presumption of conformity with the Essential Health and Safety Requirements. Use of the IEC 60079 series is provided for already in existing Subpart 111.105; currently, when the Coast Guard discovers ATEX equipment or components installed on U.S. inspected vessels, it requires that this equipment be replaced or proven through testing to comply with IEC standards. In some cases, the laboratory that certified the equipment under the ATEX directive has found that additional tests are necessary to re-certify the equipment under the IECEx system. This demonstrates that, although these standards are harmonized, there is a possibility that equipment certified under the ATEX directives is not safe for the intended use. In addition, most IMO conventions for seagoing vessels refer to IEC series standards.

For protections not covered by the standards discussed above, this interim rule incorporates existing requirements for other large vessels. For example, § 111.106-3 contains submerged pump motor requirements based on existing Subpart 111.105 and tank barge regulations, and cargo tank separation and cargo piping requirements based on fire-protection provisions for tank vessels. It also incorporates ASTM F2876-10, “Standard Practice for Thermal Rating and Installation of Internal Combustion Engine Packages for Use in Hazardous Locations in Marine Applications,” to address the growing use of engines with electronic controls that could cause arcing or sparking in a hazardous area.

This rule provides flexibility by allowing cable and wiring to comply with a selection of international and domestic standards. It also adopts existing domestic rules for tank vessels that have glands or pressure seals on the gastight bulkhead between machinery spaces and hazardous locations. In new § 111.106-15, this rule adopts portions of IEC 60092-502, Clause 8, as well as existing gas carrier rules at 46 CFR 154.1205 with respect to air changes and related ventilation requirements. This rule also addresses the prevention of static build-up in cargo tanks and piping by requiring electrical bonding in accordance with § 153.461 for flammable or combustible cargoes.

The regulations in Subpart 111.106 are similar to regulations the Coast Guard has proposed in a separate rulemaking project regarding electrical equipment in hazardous locations on board foreign Mobile Offshore Drilling Units (MODUs), floating OCS facilities, and vessels that engage in OCS activities, excluding OSVs (78 FR 37760). Although the regulations are very similar because the Coast Guard's overall policy and safety concerns are the same, neither rulemaking project is intended to conflict with or modify the other. The proposed rule on hazardous locations affects a different group of vessels and facilities, not large OSVs.

U. Amendments to 46 CFR Part 174, Subpart G, “Special Rules Pertaining to Offshore Supply Vessels”

As discussed above, this interim rule revises § 127.230 to exempt large OSVs from Part 174, Subpart G, because large OSVs must instead meet SOLAS requirements for stability. Therefore this rule modifies § 174.180, which is the applicability provision of Subpart G, to clarify that large OSVs need not meet Subpart G.

V. Amendments to Incorporation by Reference Sections, 46 CFR Parts 110 and 125

Many of the substantive changes discussed earlier in this preamble involve industry standards or other published material that this interim rule incorporates by reference. Incorporating these industry standards ensures that our regulations are based on the consensus of experts in the field, and increases the likelihood they are compatible with established best practices and international standards. When Coast Guard regulations require compliance with the provisions of these standards, the provisions should be read as mandatory regulatory requirements even if the standard development organization has used advisory or recommendatory language.

The incorporated standards are listed in existing centralized incorporation by reference sections at 46 CFR 110.10-1 and 125.180. In addition to incorporating new material necessary to the substance of the rule, this rule reformats the existing incorporation by reference sections for consistency with Office of the Federal Register drafting guidelines, and provides updated publisher contact information. This interim rule does not remove, replace, or otherwise affect any material previously incorporated by reference. Because reformatting and the addition of publisher contact information are administrative changes with no substantive effect on the public, the Coast Guard finds good cause to make these changes effective immediately and without prior notice and comment, as described in Section IV of this preamble.

VII. Incorporation by Reference

The Director of the Federal Register has approved the material in 46 CFR 110.10-1 and 125.180 for incorporation by reference under 5 U.S.C. 552 and 1 CFR part 51. You may inspect this material at U.S. Coast Guard Headquarters where indicated under ADDRESSES. Copies of the material are available from the sources listed in 46 CFR 110.10-1 and 125.180.

VIII. Regulatory Analyses

We developed this interim rule after considering numerous statutes and executive orders related to rulemaking. Below, we summarize our analyses based on these statutes and executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This interim rule has been designated a “significant regulatory action,” although not an economically significant regulatory action, under section 3(f) of Executive Order 12866. Accordingly, the interim rule has been reviewed by the Office of Management and Budget. A preliminary Regulatory Analysis (RA) is available in the docket where indicated under the “Public Participation and Request for Comments” section of this preamble.

Pre-2010 Authorization Act Baseline

Prior to the Authorization Act, owners wishing to build and operate OSVs were subject to a pre-existing system of regulations and standards. For example, OSVs had to comply with Subchapter L requirements, including:

• Design plan review and approval

• Initial inspection and certification process

• Design standards

• Operating requirements, including manning

• Limitation on the size of OSVs (not greater than 6,000 GT ITC).

However, as the OSV industry has become more heterogeneous, it has started to develop more size-specific standards and rules, particularly those focused on larger vessels—as opposed to the homogenous set of requirements currently required of all OSVs by the Coast Guard. This interim rule will update current regulations to account for this heterogeneity among OSVs. These size-specific standards have been adopted by international organizations and classification societies.

Although the U.S. Coast Guard has never required OSVs to comply with international standards as a flag state in the past, prospective vessel owners and operators who wished to perform international work are required by international law to comply with international standards such as SOLAS, MARPOL, and ICLL. Because of the nature of OSV work, with contracts lasting a few months to a few years, owners and operators of larger OSVs have designed and constructed their vessels with the “intent of being able to operate in nearly all major oil and gas producing regions of the world” (i.e., the U.S. Gulf of Mexico, the Persian/Arabian Gulf, West Africa, and Brazil) in order to ensure that the vessel is able to mobilize immediately to a new region following the completion of its current contract.² Compliance with some international standards is also required for participation in Coast Guard's Alternate Compliance Program (ACP).³ Based on the Coast Guard's MISLE database, our research indicates that all existing U.S.-flagged OSVs greater than 3,000 GT ITC have complied with these international standards, and we expect that this trend will continue with OSVs larger than 6,000 GT as well. All of the OSVs greater than 6,000 GT that have been built under the interim process have also voluntarily sought these international certificates.

² Tidewater, Inc. “Setting the Pace: 2013 Tidewater Annual Report.” http://phx.corporate-ir.net/phoenix.zhtml?c=81406&p=irol-reportsannual.

³ The ACP is a voluntary program in which Classification Society Rules, International Conventions, and an approved U.S. Supplement provide an alternative that is equivalent to Title 46, Code of Federal Regulations (CFR).

Similarly, for insurance and other market-driven reasons, owners of OSVs are complying voluntarily with Classification Society standards. Based on Coast Guard's MISLE database, all OSVs in the 3,000 to 6,000 GT ITC range have voluntarily been classed by an approved Classification Society. All of the OSVs greater than 6,000 GT that have been built under the interim process have also voluntarily been classed.

Recent practice shows that some owners of large OSVs elect to pursue multiple certifications under other subchapters to provide flexibility to match client needs and to maximize revenue generation potential. For example, OSVs have been certificated under, and therefore have to comply with the requirements in, subchapters I, D, and O to act as petroleum and chemical tankers in addition to acting as supply vessels.⁴ With this rulemaking, ship owners and operators will have specific standards in Subchapter L to address the design, construction, and operation of these larger vessels that can perform multiple services, thereby no longer needing to get certificated under multiple subchapters in order to perform multipurpose work. These standards primarily align with existing Coast Guard regulations, as well as with international requirements that ship owners and operators would likely comply with anyway to safely meet energy market demands and pursue offshore energy ventures that are farther offshore and in deep waters.

⁴ 2013 Proxy Material and 2012 Annual Report http://ir.hornbeckoffshore.com/phoenix.zhtml?c=132245&p=irol-reportsannual.

2010 Authorization Act Requirements

In the Coast Guard Authorization Act of 2010, Congress removed the size limit on OSVs and directed the Coast Guard to implement regulations for OSVs of at least 6,000 gross tonnage as defined by the International Convention on Tonnage Measurement of Ships 1969 (6,000 GT ITC). Congress also directed the Coast Guard to issue regulations to implement the Act and “to ensure the safe carriage of oil, hazardous substances, and individuals in addition to the crew on such vessels” (see section 617(f) of the Act).

In addition to removing the size limit, Congress also specified requirements in three areas for OSVs greater than 6,000 GT ITC:

• Oil fuel tank protection;

• The number and qualification of crew; and

• Division of watches.

These additional requirements provide enhanced levels of environmental protection and safety, which is needed as a result of large OSVs carrying a larger quantity of oil and hazardous material, as well as a larger number of persons on board. Because these expanded services are more typically provided by tank and cargo vessels, the Coast Guard has based its enhanced requirements on existing provisions in Subchapters I, O, and D. Through doing so, we expect no additional cost impacts, because OSVs would already be required under the existing regulatory regime to comply with these additional Subchapters if they wished to provide the additional services governed by those Subchapters.

Interim Process

Following the passage of the Act, a new interim process was established, which allows the construction of vessels of at least 6,000 GT ITC to be certificated as large OSVs on a case-by-case basis. Under this case-by-case process, large OSVs would be approved under the existing regulatory structure, whereby the vessel would be required to meet existing Coast Guard regulations applicable to smaller U.S.-flagged OSVs, and, in cases in which the vessel wished to provide dual services (such as also acting as a tanker or cargo vessel), the vessel would also be required to meet the applicable existing regulations for those vessel types. Under the interim process thus far, prospective vessel owners and operators voluntarily agreed during the design basis stage of the interim process to meet the interational standards required for international work (SOLAS, MARPOL, and ICLL) and class standards. As noted previously, 100 percent of existing OSVs in the 3,000-6,000 GT range have voluntarily complied with these international requirements so as to be able to compete for work on the international market.

Need for Federal Regulatory Action

The interim rule is needed for several reasons. Primarily, this interim rule allows the Coast Guard to fulfill Congress' direction to issue an interim rule “as soon as is practicable” to implement the 2010 Authorization Act. The interim rule also codifies existing current industry practices of larger OSVs (from 3,000 GT ITC to 6,000 GT ITC) in areas such as compliance with international standards and classification. The interim rule helps to ensure the safe carriage of oil, hazardous substances, and individuals in addition to the crew on OSVs of at least 6,000 GT ITC by specifying requirements that reflect the operating characteristics of larger OSVs.

Further, as a result of this rulemaking, ship owners and operators will have specific standards in Subchapter L to address the design, construction, and operation of these larger vessels, thereby no longer needing to get certificated under multiple subchapters in order to perform multipurpose work. These standards primarily align with existing Coast Guard regulations, as well as with international requirements that ship owners and operators would likely comply with anyway to safely meet energy market demands and pursue offshore energy ventures that are farther offshore and in deep waters.

In comparison with the interim process, the interim rule eliminates the regulatory uncertainty and inefficiencies that the current case-by-case process inherently produced for both industry and government. Instead of going through a lengthy case-by-case review, this interim rule will provide specific standards in subchapter L for owners and operators to meet when designing and constructing a large OSV and will establish a standardized regulatory oversight process for government officials. In addition to improving efficiency, the interim rule will improve transparency, as the standards that Coast Guard applies will be publicly available and subject to public comment before finalization.

Affected Population

Currently, the portion of the global OSV market served by OSVs of at least 6,000 GT ITC is largely captured by non-U.S. vessels as shown in Table 1 below, given past statutory restrictions on OSV size and uncertainties regarding the interim process.⁵ The table identifies domestic firms' share of the OSV market for the 1,001 through 6,000 gross tonnage ranges, in which U.S.-flagged OSVs account for approximately 10 percent of the world fleet. This interim rule will open the markets served by OSVs of at least 6,000 GT ITC to domestic entities.

⁵ There exist two U.S.-flagged vessels of at least 6,000 GT ITC currently operating in U.S. waters. These vessels have been certificated under the interim process created by section 617(f)(3) of the Act as large OSVs that meet subchapter I and additional requirements from design basis agreements.

Table 1—Existing U.S.- and Foreign-Flagged OSVs by GT ITC Tonnage Operating in U.S. and International Waters
| 1,001-1,600 | 1,601-3,000 | 3,001-5,000 | 5,001-6,000 | 6,001-10,000 | 10,000+ | Total
U.S.⁶ | 107 | 157 | 58 | 9 | 1 | 1 | 333
Foreign ⁷ | 975 | 1,331 | 401 | 40 | 111 | 52 | 2,910
Total | 1,082 | 1,488 | 459 | 49 | 112 | 53 | 3,243
U.S. Percent of Fleet | 10 | 11 | 13 | 18 | 1 | 2 | 10%

The offshore energy market has experienced increased demand for high endurance operations required for deepwater exploration far offshore. “Since the first major deepwater leasing boom in 1995 and 1996, a sustained and robust expansion of deepwater drilling activity has occurred, largely enabled by major advances in drilling technology. In 2001, U.S. deepwater offshore oil production surpassed shallow water offshore oil production for the first time. By 2009, 80 percent of offshore oil production and 45 percent of natural gas production occurred in water depths in excess of 1,000 feet, and industry had drilled nearly 4,000 wells to those depths.” ⁸ This trend toward exploration in deep water and farther offshore necessitates larger OSVs that can haul more offshore workers, excess fuel, drill string, and mud. Further, it requires OSVs that are better equipped to handle platform support and construction, subsea construction and pipelaying, diving support, as well as towing of rigs and well stimulation. OSVs under 6,000 GT ITC do not have the capacity to meet these additional capabilities farther offshore, and as a result, industry is turning to OSVs of at least 6,000 GT ITC to fill these needs. “The demand for large [platform supply vessels, which are a type of OSV] with dynamic positioning has outpaced the supply of vessels for most of 2012. New deliveries and [OSVs] mobilizing back to the U.S. Gulf [of Mexico] have been unable to keep up with demand, forcing drilling operators to supplement smaller vessels, which are readily available. While these smaller vessels may be adequate, they are not optimal for deepwater support work.” ⁹

⁶ Data on U.S.-flagged vessels was derived from Marine Information for Safety and Law Enforcement (MISLE) on October 25, 2013.

⁷ Data on foreign-flagged vessels operating global was obtained from Clarkson Research's Offshore Vessel Register on December 9, 2011.

⁸ Department of the Interior, “Increased Safety Measures for Energy Development on the Outer Continental Shelf,” May 27, 2010, pages 3-4. (http://www.doi.gov/deepwaterhorizon/loader.cfm?csModule=security/getfile&PageID=33598).

⁹ Marcon International, Inc. “Fall 2012 Newsletter—Offshore Supply Vessels in the Gulf of Mexico.” http://www.marcon.com/index.cfm?SectionListsID=49&PageID=2461.

The Coast Guard anticipates that domestic entities would like to capture some of this market, as evidenced by the construction of two, and the design basis application and approval for an additional four, U.S.-flagged vessels of at least 6,000 GT ITC. This interim rule would permit U.S.-flagged vessels of at least 6,000 GT ITC to be certificated as OSVs under subchapter L standards, which would allow U.S. firms to benefit from access to this increased demand.

While the Coast Guard is unable to forecast with certainty the number of U.S.-flagged OSVs of at least 6,000 GT ITC that may be built to meet the increasing demand for larger OSVs, the number of vessels constructed or seeking approval under the interim process found in section 617(f)(3) of the Act may provide some insight. In 2013, four vessels sought approval under this process, while two vessels have already been constructed.

Furthermore, the Coast Guard anticipates that this new population of OSVs will follow a growth pattern similar to that of OSVs greater than 3,000 GT ITC but less than 6,000 GT ITC since this was the extent of larger sized U.S.-flagged OSV growth under the size limit restriction.

Through review of the Marine Information for Safety and Law Enforcement (MISLE) database, the Coast Guard has determined that on average four U.S.-flagged OSVs between 3,001 and 6,000 GT ITC were constructed per year from 1998 through 2013.

Given the current environment of the offshore energy market, the Coast Guard anticipates that the number of large U.S.-flagged OSVs built per year will be similar to the number of U.S.-flagged OSVs between 3,001 and 6,000 GT ITC built per year from 1998 through 2013. Therefore, we do not expect more than four U.S.-flagged OSVs of at least 6,000 GT ITC would be built per year after publication of this interim rule. Further, we anticipate that the vessels of at least 6,000 GT ITC will be built instead of (rather than in addition to) vessels in the 3,001 to 6,000 GT ITC size range.

Table 2—Summary of Applicability, Affected Population and Benefits
Category | Interim rule
Applicability | All U.S.-flagged offshore supply vessels of at least 6,000 GT ITC (500 GRT if GT ITC is not assigned).
Affected Population | Existing mandates, which restrict the size of U.S.-flagged OSVs, limit the impact of this rule on existing vessels. Although USCG does not have data to forecast the number of U.S.-flagged OSVs of at least 6,000 GT ITC that may be built to meet the increasing demand for larger OSVs with certainty, we anticipate that it is likely that the construction of OSVs of at least 6,000 GT ITC will follow a similar growth pattern, and may be built instead of, the construction of OSVs between 3,001 to 6,000 GT ITC. If this assumption holds, then an estimated 4 OSVs of at least 6,000 GT ITC constructed per year.
Non-quantified Benefits | Regulatory efficiency benefit, as risk-benefit requirements are clarified in advance for vessel owner and operators. Allows regulatory compliance flexibilities for some provisions in Subchapter L. Standardization of regulatory oversight by the Coast Guard.

Baseline for Analysis of Impacts

Before the Act, U.S. ship owners and operators wishing to build an OSV were subject to a network of regulations, voluntary standards and industry practices, including a prohibition against constructing U.S.-flagged OSVs of at least 6,000 GT ITC, because of the Coast Guard's 1996 regulation, which capped the tonnage of an OSV. The Authorization Act lifted the tonnage restriction, but left the remainder of the regulatory and standard network in place. The baseline for determining the impact of the interim rule is thus the pre-Authorization Act network of regulations, voluntary standards, and current industry practices.

Analysis of Cost Impacts

This section details the analysis of cost impacts of the interim rule requiring large OSVs to meet design, construction, and operation safety regulations governing the inspection and standards of OSVs, found in Title 46. We expect industry will incur no additional costs in meeting the Coast Guard's rule as the incorporated standards or functionally equivalent standards will be used to construct a large OSV in the absence of any rule.

In order to minimize the impact of this rule on industry, the Coast Guard based the majority of the provisions in this interim rule upon existing regulatory and technical standards from Titles 33 and 46 of the CFR. Although the Coast Guard deviated from these existing standards in several instances, these changes were made in order to account for differences between the scale of operations of the existing standard's intended population and the operations of large OSVs.¹⁰ Where existing regulatory and technical standards were not appropriate, the Coast Guard supplemented them with standards from IMO conventions and industry consensus engineering standards.

¹⁰ Provisions in this interim rule in which the Coast Guard deviated from existing standards include electrical requirements in 46 CFR subchapter J.

Because of the previous size limit on OSVs, there were no U.S.-flagged vessels of at least 6,000 GT ITC or 500 GRT operating as OSVs.¹¹ However, since the Act was enacted, two U.S.-flagged vessels of at least 6,000 GT ITC have been certificated under the interim process found in section 617(f)(3) of the Act as large offshore supply vessels that meet subchapter I and additional requirements from design basis agreements, and four more have had their design basis agreements approved. Although these would be grandfathered from having to comply with this interim rule, the international standards codified in this rule were derived from standards that these owners and operators voluntarily agreed to adopt under the interim process.¹² Consequently, this rule will not directly impact any existing population of U.S. vessels, nor is it expected to add additional costs to newly constructed OSVs of at least 6,000 GT ITC, as these vessels are also expected to work internationally in addition to working domestically. Therefore, no additional costs will be incurred by industry in the construction of a large OSV.

¹¹ While it is possible that an owner of an existing large OSV certificated under the interim process found in 617(f)(3) of the Act may seek recertification under subchapter L, no one from industry has inquired about this issue in the two and a half years since the Act was enacted.

¹² Although these six vessels are expected to work domestically, they are also expected to work internationally, and therefore, would be held to international standards as well.

At this time, the Coast Guard does not anticipate additional costs to the government from inspections and plan review. Although this rule removes the size restriction of vessels certificated under subchapter L as OSVs, the population of new OSVs of at least 6,000 GT ITC is expected to replace a portion of the population of OSVs in the 3,001 GT ITC to 6,000 GT ITC size.

Further, because the provisions in this rule that result in government costs are also required of vessels approved under the 617(f)(3) interim process, the expected costs that would be incurred by government to conduct inspections and plan reviews as a result of this interim rule would have been incurred by the government even in the absence of this rule. Therefore, the Coast Guard expects to use existing resources to implement this rule.

This section presents a qualitative analysis of the cost impacts and justifications for Title 46 revisions implemented by this interim rule. We present our analyses in grouped sections that correspond to each aspect of the rule, which impacts 46 CFR as shown below. Further details are provided in the regulatory analysis available in the docket.

Cost Impacts of the Specific Changes of the Interim Rule

Title 46—Shipping

Table 3—Changes to 46 CFR Part 2—Vessel Inspections
Subject | Sections | Coast Guard action | Origination of standard | Deviation from standard | Cost impact and justification
Inspections | 2.10-25 | Modifies definition of OSV as directed by the Act | Not Applicable | Not Applicable | No additional cost. Administrative change to implement statutory mandate change to definition to allow OSVs > 6,000 GT ITC.

Table 4—Changes to 46 CFR Part 15—Manning Requirements
Subject | Sections | Coast Guard action | Origination of standard | Deviation from standard | Cost impact and justification
Watches | 15.705 | Requirement directed by the Act | Requirements for the minimum number of watches were derived from existing Coast Guard regulations (46 CFR 15.705 and 15.1111) | Extends exception to the number of watches required to large OSVs, provided that the officers and crew are in compliance with the work hours and rest period requirements found in 46 CFR 15.1111 | No impact. This provision provides the same flexibilities currently allowed to smaller OSVs under the current regulatory regime to OSVs greater than 6,000 GT ITC.
Mates | 15.810 | Requirement directed by the Act | Requirements for minimum number of mates were derived from existing Coast Guard regulations (46 CFR 15.810) | Amends existing Coast Guard regulation by requiring OSVs greater than 6,000 GT ITC to have two mates on voyages under 600 miles and three mates on voyages of at least 600 miles. Manning requirements will not change for OSVs less than 6,000 GT ITC | No impact. Similar sized vessels, such as 100% of OSVs between 5,000 and 6,000 GT ITC, are already meeting this requirement in order to provide multipurpose services, services which requires an additional mate.
Engineers | 15.825 | NOSAC recommendation | Requirements for the minimum number of assistant engineers were derived from existing Coast Guard regulations (46 CFR 15.825) | Amends existing Coast Guard regulation by requiring large OSVs approved for the use of automated systems to carry at least one assistant engineer, as recommended by NOSAC | No additional cost. Similar sized vessels, such as 100% of OSVs between 5,000 and 6,000 GT ITC, are already meeting this requirement in order to provide services more typically performed by tank and cargo vessels.

Table 5—Changes to 46 CFR Part 61—Periodic Tests and Inspections
Subject | Sections | Coast Guard action | Origination of standard | Deviation from standard | Cost impact and justification
Test procedure details | 61.40-10 | Administrative change of Coast Guard approval to the Marine Safety Center | Requirements in existing CFR originally called for other test techniques to be approved by the Commandant of CG-ENG | Other test techniques must now be approved by the Commanding Officer of the Marine Safety Center | No additional cost as this is administrative.

Table 6—Changes to 46 CFR Part 62—Vital System Automation
Subject | Sections | Coast Guard action | Origination of standard | Deviation from standard | Cost impact and justification
Applicability | 62.01-5 | Change to clarify applicability to include large OSVs | Requirements for vital system automation were derived from existing Coast Guard regulations | Adds large OSVs to list of vessels that must comply with existing requirements in 46 CFR part 62 | No additional cost. Similar sized existing vessels, such as 100% of OSVs between 5,000 to 6,000 GT ITC, voluntarily agreed to be certificated by classification societies and participate in the Alternate Compliance Program (ACP). While there are some gaps between class rules and the provisions in 46 CFR part 62, they are closed through supplemental provisions required of vessels operating under the ACP.

Table 7—Changes to 46 CFR Part 90—General Provisions
Subject | Sections | Coast Guard action | Origination of standard | Deviation from standard | Cost impact and justification
Applicability to OSVs | 90.05-20 | Defines applicability of Subchapter I for existing OSVs | Not Applicable | Not Applicable | No additional cost. Definition.
Definitions of offshore supply vessels | 90.10-40 | Defines new and existing OSVs | Not Applicable | Not Applicable | No additional cost. Definition.

Table 8—Changes to 46 CFR part 110—General Provisions
Subject | Sections | Coast Guard action | Origination of standard | Deviation from standard | Cost impact and justification
Incorporation by reference | 110.10-1 | Incorporates industry standards into Title 46 | Requirements for electrical engineering within hazardous locations were derived from existing Coast Guard regulations (46 CFR 110.10-1) | Amends existing Coast Guard regulation by codifying alternative industry accepted standards, which have been approved for similar large vessels | No additional cost. Similar sized existing vessels, such as 100% of OSVs between 3,000 to 6,000 GT ITC, voluntarily agreed to be certificated by classification societies and participate in the ACP, whose rules align with the requirements in 46 CFR 110.10-1. Provides industry with flexibility by incorporating alternative industry standards.
Definitions | 110.15-1 | Introduces definitions used in 110.25-1 | Not Applicable | Not Applicable | No additional cost. Definition.
Plans and information required for new construction | 110.25-1 | Requirement for plans that identify hazardous location information | Requirements for hazardous locations in new builds were derived from existing Coast Guard regulations (46 CFR 110.25-1) | Clarifies information required in plans for OSVs of at least 6,000 GT ITC. Requires plan to include equipment identification number, equipment use, parameters of systems, equipment locations, installation details, and certificate of testing | Potential cost savings. This information was already required of existing plans, but was often not provided until follow up reviews. This provision will expedite the process by more explicitly delineating the required information up front.

Table 9—Changes to 46 CFR Part 111—Electric Systems General Requirements
Subject | Sections | Coast Guard action | Origination of standard | Deviation from standard | Cost impact and justification
Flammable or Combustible liquids and grounded distribution systems on OSVs | 111.05-20 | Specifies ground distribution system requirement. | Requirements for ground distribution system were derived from existing international standards and Coast Guard regulations (SOLAS and 46 CFR 111.05-19) | None | No additional cost. Incorporates international and Coast Guard standards expected to be used given industry practice and desire to compete for work in international markets.
Hazardous Locations on OSVs | 111.106-1, 111.106-3, 111.106-5, 111.106-7, 111.106-9, 111.106-11, 111.106-13, 111.106-15, and 111.106-17 | Requires owners of OSVs with hazardous locations to choose a standard that addresses the wide ranging services that the vessel performs | Requirements for electrical installations inside hazardous locations were derived from existing national and international standards (National Electric Code standards and International Electrotechnical Commission 60092-505) | There are no deviations from standard if the vessel follows the national standard. However, two changes were made to the international standard. The first change appears in 111.106-9, and enlarges Zone 1 to an area of 8-meters. The other modification to the international standard is made in 111.106-13 (b). This modification will not allow enclosed spaces to be reclassified based upon mechanical ventilation. | No additional cost. Provides flexibility by allowing choice of standards expected to be used given current industry practice and desire to compete for work in international markets.
|  |  | Requirements for cable and wiring between machinery spaces and hazardous locations were derived from existing international and Coast Guard regulations (International Electrotechnical Commission 60092-505 and 46 CFR 153.461 and 154.1205) | None | No additional cost. Incorporates international and Coast Guard standards expected to be used given current industry practice and desire to compete for work in international markets.

Table 10—Changes to 46 CFR part 125—General
Subject | Sections | Coast Guard action | Origination of standard | Deviation from standard | Cost impact and justification
Applicability | 125.100 | Requirement directed by the Act | Not Applicable | Not Applicable | No additional cost. Administrative to meet statutory mandate.
Tonnage Measurement | 125.103 | Administrative changes made by the Coast Guard to implement the Act | Not Applicable | Not Applicable | No additional cost. Administrative to meet statutory mandate.
International certificates for OSVs of at least 6,000 GT ITC | 125.105 | Requires large OSV to obtain international certificates that indicate compliance with SOLAS, MARPOL, and ICLL | Requires OSVs to hold certificates that signify compliance with international standards (SOLAS—Cargo Ship Safety Construction, Cargo Ship Safety Equipment and Safety Management Certificates; MARPOL—International Oil Pollution Prevention and International Air Pollution Prevention; ICLL—International Load Line Certificate | None | No additional cost. Incorporates international standard expected to be used given industry practice and desire to compete for work in international markets. Similar sized existing vessels, such as 100% of OSVs 3,000 to 6,000 GT ITC, voluntarily agreed to comply with the requirements in this provision in order to compete in international markets.
Carriage of flammable or combustible liquid cargoes in bulk | 125.110 | Requires carriage of oil on large OSVs to meet existing Title 33 requirements | Double hull (oil cargo tank offset) requirements were derived from existing Coast Guard regulations (33 CFR 157.10d) | None | Any changes in the cargo capacity and configuration can be accommodated in the design stage of the new vessel with no or minimal, non-quantifiable cost.¹³
Oil fuel tank protection | 125.115 | Requirement directed by the Act | Requirements for oil fuel tank protection were derived from existing international standards (MARPOL Annex I—Regulation 12A) | Deviates from existing international standard by requiring compliance without regards to whether the OSV will be engaged in coastwise or international trade | No additional cost. Similar sized existing vessels, such as 100% of OSVs 3,000 to 6,000 GT ITC, already comply with the requirements in this provision.
Carriage of noxious liquid substances in bulk by OSVs less than 6,000 GT ITC (500 GRT if GT ITC is not assigned) and least 6,000 GT ITC (500 GRT if GT ITC is not assigned) | 125.120 and 125.125 | Administrative—sets applicability for carriage of NLS in bulk to demarcation requirements and incorporates existing 46 CFR 98.30 and interpretation of IMO Res A.673 from CG-522 Policy Letter 09-01 | Requirements for carriage of noxious liquid substances in bulk were derived from existing international standards and Coast Guard regulations (MARPOL Annex II, IMO Resolution A.673(16), and 33 CFR part 151 and 46 CFR part 163) | Deviates from existing international standards by codifying parts of CG-522 Policy Letter 09-01, Rev. 1, which was published April 5, 2010. These modifications will allow applicable vessels carry NLS in bulk in its integral and fixed independent tanks | No additional cost. Incorporates interpretation of international standard from existing policy letter. This will create flexibility for large OSVs where they might otherwise have been deemed in violation of MARPOL Annex II.
Loadlines | 125.140 | Requires large OSVs to be assigned an international load line in accordance with the ICLL | Requirements for load lines were derived from existing international standards (International Convention of Load Lines) | None | No additional cost. Incorporates international standard expected to be used given industry practice and desire to compete for work in international markets.
Lifesaving systems | 125.150 | Requires large OSVs to meet existing lifesaving requirements of Title 46 CFR and SOLAS | Lifesaving requirements for OSVSs of at least 6,000 GT ITC were derived from existing international standards and Coast Guard regulations (SOLAS and 46 CFR 199) | None | No additional cost. Incorporates international standard and requirements for similar vessels expected to be used given industry practice and desire to compete for work in international markets. Similar sized existing vessels, such as 100% of OSVs 3,000 to 6,000 GT ITC, voluntarily agreed to comply with the requirements in this provision in order to compete in international markets.

¹³ Impact is negligible because the carriage of oil-based mud is also covered by requirements for the carriage of noxious liquid substances (46 CFR 125.120). Because of the various chemical components within the muds, nearly all mud carried by larger OSVs is authorized only if the vessel complies with international pollution prevention standards (IMO Resolution A.673(16)), which already requires minimum distances for cargo from the outer hull.

Table 11—Changes to 46 CFR Part 126—Inspection and Certification
Subject | Sections | Coast Guard action | Origination of standard | Deviation from standard | Cost impact and justification
Carriage of offshore workers | 126.170 | Increases large OSV carriage capacity of offshore workers | Existing regulation precludes carriage of more than 36 offshore workers. In removing this ban, requirements for the carriage of offshore workers were derived from existing international standards (IMO Code of Safety for Special Purpose Ships (SPS Code)) | Modifies existing SPS Code by requiring vessels authorized to carry more than 36 offshore workers to carry the minimum amount of primary lifesaving for cargo vessel equipment as defined in SOLAS | No additional cost. Provides industry flexibility by continuing to allow vessels authorized to carry less than 36 offshore workers to meet standards required of a cargo vessel. Creates opportunity for vessels to carry more than 36 offshore workers, but would require increasing protection using internationally accepted approach to offset growing potential consequence. For vessels authorized to carry more than 36 offshore workers, the Coast Guard would require the vessel design meet a standard that is between the standard required of cargo vessels and that of passenger vessels. This flexibility takes into account the attributes and skill-sets of the passengers, and offers OSVs a less stringent standard as a result.

Table 12—Changes to 46 CFR Part 127—Construction and Arrangements
Subject | Sections | Coast Guard action | Origination of standard | Deviation from standard | Cost impact and justification
Classification Society Standards | 127.200 | Requires OSVs be classed by an authorized class society | Meeting classification society requirements is consistent with existing international standards (SOLAS Chapter II-1, Regulation 3-1) and existing Coast Guard regulations (46 CFR 8.320) | None | No additional cost. Incorporates industry & international standards expected to be used given industry practice and desire to compete for work in international markets. Similar sized existing vessels, such as 100% of OSVs 3,000 to 6,000 GT ITC, voluntarily agreed to comply with the requirements in this provision in order to compete in international markets.
Structural fire protection | 127.225 | Requires SOLAS compliance. | Requirements for structural fire protection were derived from existing international standards (SOLAS) | Deviates from SOLAS by restricting large OSVs to only use the non-combustible materials (Method IC) option in SOLAS. This is consistent with existing U.S. regulations for other large vessels (46 CFR subchapters D, H, and I) | No additional cost. Incorporates existing US interpretation of international standard. An existing OSV would already be required to meet this requirement under the existing regulatory regime if it wished to perform these services.
Subdivision and stability | 127.230 | Requires SOLAS compliance. | Subdivision and stability requirements were derived from existing international standards and Coast Guard regulations (SOLAS and 46 CFR 127.230) | Amends existing Coast Guard regulation (46 CFR 127.230) by adding in clause (b). This clause exempts OSVs of 80 meters or more in length from being required to comply existing CFR stability requirement, since these large OSVs have to meet SOLAS stability requirements as described in 46 CFR 125.105 | No additional cost. This modification exempts large OSVs from being required to comply with this provision.
Construction and arrangements for OSVs carrying more than 36 offshore workers | 127.600, 127.620, 127.630, 127.640, and 127.650 | Requirements developed by the Coast Guard to provide safety to persons in addition to the crew as directed by the Act | Damage stability requirements were derived from existing international standards (SOLAS Chapter II-1, parts B-1, B-2, and B-4, and Regulation II-1/35-1) | None | No additional cost. Incorporates existing international standards for given vessel characteristics and operations. Similar sized existing vessels, such as 100% of OSVs 3,000 to 6,000 GT ITC, already comply with the requirements in this provision.
|  |  | Marine engineering requirements were derived from international standards (SOLAS Regulation II-1/29.6.1.1) | None | No additional cost. Incorporates existing international standards for given vessel characteristics and operations. Similar sized existing vessels, such as 100% of OSVs 3,000 to 6,000 GT ITC, voluntarily agreed to comply with the requirements in this provision in order to compete in international markets.
|  |  | Electrical installation requirements were derived from international standards (SOLAS Regulation II-1/42) | None | No additional cost. Incorporates existing international standards for given vessel characteristics and operations. Similar sized existing vessels, such as 100% of OSVs 3,000 to 6,000 GT ITC, voluntarily agreed to comply with the requirements in this provision in order to compete in international markets.
|  |  | Fire-protection requirements were derived from international standards (SOLAS Chapter II-2) | None | No additional cost. Incorporates existing international standards for given vessel characteristics and operations. Similar sized existing vessels, such as 100% of OSVs 3,000 to 6,000 GT ITC, voluntarily agreed to comply with the requirements in this provision in order to compete in international markets.

Table 13—Changes to 46 CFR Part 128—Marine Engineering: Equipment and Systems
Subject | Sections | Coast Guard action | Origination of standard | Deviation from standard | Cost impact and justification
Equipment and systems | 128.110 | Incorporates requirements of existing 46 CFR Subchapter F | Marine engineering requirements for equipment and systems for large OSVs were derived from existing Coast Guard regulations (46 CFR Subchapter F) | Removes OSVs of at least 6,000 GT ITC from being exempt from having to comply with the requirements in 46 Subchapter F in their entirety | No additional cost. Similar sized existing vessels, such as 100% of OSVs between 3,000 and 6,000 GT ITC, voluntarily agreed to be certificated by classification societies whose rules align with the revised requirements in Subchapter F.
Fuel | 128.310 | Incorporates requirements of existing 46 CFR Subchapter F and SOLAS | Fuel requirements were derived from existing Coast Guard regulations (46 CFR 128.310) | Modifies existing provision by requiring large OSVs to use fuel having a flashpoint of at least 60° C (140° F), instead of being required to meet the existing standard, which will still be used for OSVs under 6,000 GT ITC, of 43° C (110° F) | No additional cost. Similar sized existing vessels, such as 100% of OSVs between 3,000 and 6,000 GT ITC, voluntarily agreed to comply with SOLAS and the higher flashpoint requirement in order to obtain international certifications.

Table 14—Changes to 46 CFR Part 129—Electrical Installations
Subject | Sections | Coast Guard action | Origination of standard | Deviation from standard | Cost impact and justification
Applicability | 129.110 | Implements existing Subchapter J of this chapter | Requirements for electrical installations were derived from existing Coast Guard regulations (46 CFR Subchapter J, Chapter I) | Removes OSVs of at least 6,000 GT ITC from being exempt from having to comply with the requirements in 46 Subchapter J in their entirety | No additional cost. Similar sized existing vessels, such as 100% of OSVs between 3,000 and 6,000 GT ITC, voluntarily agreed to be certificated by classification societies whose rules align with the requirements in the revised Subchapter J.
Power Sources for OSVs | 129.315 | Implements existing Subchapter J of this chapter | Requirements for power sources were derived from existing Coast Guard regulations (46 CFR Subchapter J, Chapter I) | Modifies existing regulation to ensure that OSVs less than 6,000 GT ITC will still be exempt from being required to comply with some parts of 46 Subchapter J | No additional cost. 100% of OSVs between 3,000 and 6,000 GT ITC voluntarily agreed to be certificated by classification societies whose rules align with the requirements in revised 46 CFR 129.315.
Overfill Protection | 129.570 | Implements existing Subchapter D of this chapter | Requirements for alarms were derived from existing Coast Guard regulations (46 CFR 33.25-1) | Compliance with existing standard will now be required of large OSVs, in addition to tank vessels | No additional cost. Incorporates industry & international standards expected to be used given industry practice and desire to compete for work in international markets. Similar sized existing vessels, such as 100% of OSVs between 3,000 and 6,000 GT ITC, voluntarily agreed to comply with SOLAS and MARPOL. These international standards align with the requirements in this provision.

Table 15—Changes to 46 CFR Part 130—Vessel Control, and Miscellaneous Equipment and Systems
Subject | Sections | Coast Guard action | Origination of standard | Deviation from standard | Cost impact and justification
Steering and automated systems | 130.140 and 130.400 | Points to existing 46 CFR requirements | Steering and automated systems requirements were derived from existing Coast Guard regulations (46 CFR 130.140) | Modifies existing regulation to ensure that only OSVs under 6,000 GT ITC must comply with the requirements in this provision. OSVs of at least 6,000 GT ITC are directed to 46 CFR 128.110 | No additional cost. Administrative clarification of applicability of existing regulations.

Table 16—Changes to 46 CFR Part 131—Operations
Subject | Sections | Coast Guard action | Origination of standard | Deviation from standard | Cost impact and justification
Maneuvering Characteristics | 131.990 | Existing SOLAS and 46 CFR requirements | Maneuvering capability requirements were derived from existing Coast Guard regulations (46 CFR Subchapter I) | Expands applicability of existing regulations to include large OSVs | No additional cost. Incorporates standard expected to be used given current industry practice and desire to compete for work in international markets. Similar sized existing vessels, such as 100% of OSVs 3,000 to 6,000 GT ITC, already comply with the requirements in this provision.

Table 17—Changes to 46 CFR Part 132—Fire-Protection Equipment
Subject | Sections | Coast Guard action | Origination of standard | Deviation from standard | Cost impact and justification
Fire pump, extinguishers, and emergency outfits | 132.100, 132.200, and 132.365 | Implements existing 46 CFR requirements | Requirements for fire pumps, extinguishers, and emergency outfits were derived from existing international standards (SOLAS Chapter II-2) and Coast Guard regulations (46 CFR 125.105) | Adds new provision to clarify applicable U.S. requirements for fire pumps, fire hoses, and nozzles, portable and semiportable fire extinguishers, and firefighter's protective clothing and personal safety equipment | No additional cost. Incorporates existing U.S. interpretation of international standard. Similar sized existing vessels, such as 100% of OSVs 3,000 to 6,000 GT ITC, voluntarily comply with the requirements in this provision in order to compete in international markets.
Added requirements for carriage of low flashpoint flammable or combustible cargo | 132.390 | Requires 46 CFR 76, and 46 CFR 161.002 | Requirements for carriage of low flashpoint flammable or combustible cargo and fire-protection equipment were derived from existing Coast Guard regulations (46 CFR 76 and 161.002) | Deviates from existing CFR by requiring that large OSVs also comply with cargo area and cargo-pump room fire-extinguishing systems requirements that are currently only required of tank vessels | No additional cost. Incorporates standard expected to be used given industry practice and desire to compete for work in international markets. An existing OSV would already be required to meet this requirement under the existing regulatory regime if it wished to perform these services.

Table 18—Changes to 46 CFR Part 134—Added Provisions for Liftboats
Subject | Sections | Coast Guard action | Origination of standard | Deviation from standard | Cost impact and justification
Applicability | 134.100 | Liftboats are regulated under Subchapter L; this requires large liftboats to obtain Coast Guard approval | Requirements for liftboats were derived from existing Coast Guard regulations (46 CFR 134.100) | Modifies existing applicability of provision to allow the construction of large liftboats on a case-by-case basis, which must be approved by the Commandant (CG-5PS) | No additional cost, as the construction of liftboats of at least 6,000 GT ITC are not affected by this rulemaking.

Table 19—Changes to 46 CFR Part 174—Special Rules Pertaining to Specific Vessel Types
Subject | Sections | Coast Guard action | Origination of standard | Deviation from standard | Cost impact and justification
Applicability | 174.180 | Administrative change conforms to Part 127 | Requirements for stability for OSVs under 6,000 GT ITC were derived from existing Coast Guard regulations (46 CFR part 174) | Modifies existing regulations to exempt large OSVs from being required to meet the stability requirements in 46 CFR Subpart G. Instead, large OSVs will be subject to the SOLAS stability requirements discussed earlier in this RA | No additional cost. Administrative change clarifies that large OSVs are excluded from certain requirements.

Benefits of the Interim Rule

In the Act, Congress removed the tonnage limit on vessels certificated under subchapter L as OSVs, and directed the Coast Guard to implement regulations for the safe carriage of oil, hazardous substances, and individuals in addition to the crew on OSVs of at least 6,000 GT ITC. However, the provisions in the Act allow ship owners and operators to construct vessels that can operate as OSVs, by meeting subchapter I and additional requirements from design basis agreements, during the period between the effective date of the Act and the effective date of this rulemaking provided they obtain Coast Guard approval. This process creates regulatory inefficiencies as there are no large OSV subchapter L-specific standards and regulatory flexibilities for industry to reference, which could result in construction and design delays. First, industry must submit a proposed design to begin the process, and each time a change to the vessel's design is made, the process must start over as the company must resubmit a new design letter. After this step has been completed, industry must then wait for the design basis to be approved before beginning construction of the vessel. According to a Coast Guard subject matter expert, this design basis process can take, at a minimum, 30 days to complete, with additional time taken for the company to respond to the draft design basis agreements. However, it is likely that, based on the complexity of the design of OSVs of at least 6,000 GT ITC, this process would take the Coast Guard much longer to complete.

Accordingly, the Coast Guard developed this interim rule to rectify this lack of transparent standards to ensure consistent design, construction, and operation of OSVs, as well as to comply with the Act.

On top of rectifying this lack of transparent standards, it is expected that this rule will reduce costs overall. Because vessels approved under the 617(f)(3) interim process are approved under a case-by-case basis, a substantial amount of resources are used throughout the approval process. Issuance of this interim rule would streamline the construction process by removing this case-by-case process and replacing it with transparent requirements that all newly constructed vessels wishing to be certificated as large OSVs must adhere to. This is expected to significantly reduce costs.

Therefore, this rule will replace government's existing ad hoc processes and requirements with a more streamlined and predictable system, thereby reducing resources and, consequently, costs.

Table 20—Beneficial Impacts of Interim Rule
Subject | Sections | Beneficial impacts
46 CFR part 2—Vessel Inspections
Inspections | 2.10-25 | Fulfills statutory mandate by modifying the definition of OSV to remove size ceiling.
46 CFR part 15—Manning Requirements
Watches | 15.705 | Provides flexibility by implementing exception that allows for 2 watches on short voyages. According to an OCMI from the Eighth District, a navigation watch has an average wage of $44.37 per hour. This exception could result in cost savings for owners and operators of large OSVs engaged on a voyage of less than 600 miles, as these owners and operators may employ one fewer navigational watch on voyages of this length.
Mates | 15.810 | Provides flexibility by lowering manning requirements for OSVs less than 6,000 GT ITC and OSVs of at least 6,000 GT ITC. For OSVs less than 6,000 GT ITC, the number of required credentialed mates on voyages less than 600 miles decreases from two to one, and for voyages of at least 600 miles from three to two. Further, for OSVs of at least 6,000 GT ITC, the number of required credentialed mates on voyages less than 600 miles decreases from three to two. The number of required mates on voyages of at least 600 miles remains the same. According to an OCMI from the Eighth District, a navigation watch has an average wage of $44.37 per hour. This exception will therefore result in cost savings for owners and operators of OSVs of all sizes, since owners and operators may employ fewer navigation watches depending on the size of the OSV and on the voyage length.
Engineers | 15.825 | Ensures that sufficient engineering personnel are onboard to be able to respond to shipboard emergencies and equipment failure. Provision retains existing OCMI authorities.
46 CFR part 61—-Periodic Tests and Inspections
Test procedure details | 61.40-10 | Administrative change that will provide the Coast Guard Headquarters with more flexibility regarding the use of its resources.
46 CFR part 62—-Vital System Automation
Applicability | 62.01-5 | Change that will provide transparency to industry and government officials for use in the approval process.
46 CFR part 90—General Provisions
Applicability to OSVs | 90.05-20 | Contains criteria for grandfathering OSVs and sets the applicability of Subchapter I for OSVs that pre-dated the creation of Subchapter L.
Definitions of offshore supply vessels | 90.10-40 | Clarifies terms relating to tonnage measurement.
Changes to 46 CFR part 110—General Provisions
Incorporation by reference | 110.10-1 | Provides for use of industry standard as alternative to use of approved equipment.
Definitions | 110.15-1 | Clarifies definitions.
Plans and information required for new construction | 110.25-1 | Requires plans consistent with other similarly sized vessels, while also adding option of using international standards. Plans must include information on the equipment, intrinsically safe systems, installation details, and/or approved control drawings, and testing certificates or listing by an independent laboratory or an IECEx Certificate of Conformity to ensure existing levels of safety in hazardous locations.
46 CFR part 111—Electric Systems General Requirements
Flammable or Combustible liquids and grounded distribution systems on OSVs | 111.05-20 | Clarifies requirements for large OSVs, which will provide more transparency to industry and government officials for use in the approval process. Permits the use of grounded distribution systems on large OSVs designed to carry flammable or combustible liquids under certain conditions to maintain safety. Aligns standards with international requirements, thereby creating a universal standard which will enable vessels to more easily compete for work on international market.
Hazardous Locations on OSVs | 111.106-1, 111.106-3, 111.106-5, 111.106-7, 111.106-9, 111.106-11, 111.106-13, 111.106-15, and 111.106-17 | Clarifies requirements for large OSVs, which will provide more transparency to industry and government officials for use in the approval process. Provides flexibility as to the choice of a standard that addresses the wide ranging services that the vessel performs and enhances the safety of personnel and vessels. List of standards is expanded from existing Subchapter L, thereby increasing options for industry.
46 CFR part 125—General
Applicability | 125.100 | Fulfills statutory mandate by implementing the Act.
Tonnage Measurement | 125.103 | Fulfills statutory mandate by implementing the Act.
International certificates for OSVs of at least 6,000 GT ITC | 125.105 | Requires large OSVs to obtain all applicable international convention certificates in areas such as safety and pollution prevention. Use of international certificate enables industry to simultaneously comply with U.S. requirements and obtain certificates needed to compete for work on international market.
Carriage of flammable or combustible liquid cargoes in bulk | 125.110 | Clarifies requirements for large OSVs, which will provide more transparency to industry and government officials for use in the approval process. Provides enhanced level of environmental protection to the large volumes of oil and oil-based cargoes large OSVs are capable of carrying, applying requirements for similar vessels and systems.
Oil fuel tank protection | 125.115 | Clarifies requirements for large OSVs, which will provide more transparency to industry and government officials for use in the approval process.
Carriage of noxious liquid substances in bulk by OSVs less than 6,000 GT ITC (500 GRT if GT ITC is not assigned) and least 6,000 GT ITC (500 GRT if GT ITC is not assigned) | 125.120 and 125.125 | Clarifies requirements for large OSVs, which will provide more transparency to industry and government officials for use in the approval process. Requirements mirror those for similar vessels and systems.
Loadlines | 125.140 | Aligns standards with international requirements, thereby creating a universal standard which will enable vessels to more easily compete for work on international market.
Lifesaving systems | 125.150 | Aligns standards with international requirements, thereby creating a universal standard which will enable vessels to more easily compete for work on international market and ensures that vessels with a larger number of personnel on board have sufficient safety and survivability.
46 CFR part 126—Inspection and Certification
Carriage of offshore workers | 126.170 | Allows large OSVs to carry more personnel and thereby increase revenue while ensuring protection scales with number of personnel.
46 CFR part 127—Construction and Arrangements
Classification Society Standards | 127.200 | Incorporates industry and international standards expected to be used given industry practice and desire to compete for work on international markets.
Structural fire protection | 127.225 | Requires traditional US standard while maintaining alignment with international requirements, thereby using a universal standard which will enable vessels to more easily compete for work on international market, while ensuring that vessels with a larger number of personnel on board have sufficient safety and survivability.
Subdivision and stability | 127.230 | Uses international standard for stability, thus enabling vessels to compete for work on international market and ensuring that vessels with larger numbers of personnel on board have sufficient safety and survivability.
Construction and arrangements for OSVs carrying more than 36 offshore workers | 127.600, 127.620, 127.630, 127.640, and 127.650 | Allows large OSVs to carry more personnel and thereby increase revenue while ensuring protection scales with number of personnel.
46 CFR part 128—Marine Engineering: Equipment and Systems
Equipment and systems | 128.110 | Clarifies requirements for large OSVs, which will provide more transparency to industry and government officials for use in the approval process. Provides enhanced level of safety and environmental protection to the larger and more complex systems large OSVs are expected to utilize, applying requirements for similar vessels and systems.
Fuel | 128.310 | Clarifies requirements for large OSVs, which will provide more transparency to industry and government officials for use in the approval process.
46 CFR part 129—Electrical Installations
Applicability | 129.110 | Clarifies that existing rules for OSVs still apply.
Power Sources for OSVs | 129.315 | Clarifies that existing rules for OSVs still apply.
Overfill Protection | 129.570 | Clarifies that existing rules for OSVs still apply.
46 CFR part 130—Vessel Control, and Miscellaneous Equipment and Systems
Steering and automated systems | 130.140 and 130.400 | Clarifies that existing rules for OSVs still apply.
46 CFR part 131—Operations
Maneuvering Characteristics | 131.990 | Requires maneuvering characteristics in accordance with similar size vessels to enhance safety. Requirements match international requirements, thus enabling vessels to compete for work on international market.
46 CFR part 132—Fire-Protection Equipment
Fire pump, extinguishers, and emergency outfits | 132.100, 132.200, and 132.365 | Clarifies that existing rules for OSVs still apply.
Added requirements for carriage of low flashpoint flammable or combustible cargo | 132.390 | Clarifies requirements for large OSVs, which will provide more transparency to industry and government officials for use in the approval process. The fire-detection requirements are intended to be consistent with other fire-detection installations on U.S. inspected vessels to enhance safety. Aligns standards with international requirements, thereby creating a universal standard which will enable vessels to more easily compete for work on international market,
46 CFR part 134—Added Provisions for Liftboats
Applicability | 134.100 | Clarifies that liftboats are not impacted by these regulatory changes.
46 CFR part 174—Special Rules Pertaining to Specific Vessel Types
Applicability | 174.180 | Excludes large OSVs from certain existing domestic stability criteria to conform to this rule's use of SOLAS stability criteria that enhance the safety of personnel and vessels within the mandates of the Act as directed by Congress. Reduces regulatory burden by letting vessels use international requirements and thus compete for work on international market without having to comply with multiple sets of requirements.

Alternatives

When creating this interim rule, the Coast Guard considered several alternatives. As discussed elsewhere, the preferred alternative closely follows the actual and mandatory language of the Act and does not incorporate substantive discretionary elements. Further, the preferred alternative minimizes cost while maximizing cost savings that would accrue to industry and government as a result of implementation of an interim rule.

The alternatives considered are as follows.

Alternative 1: Preferred Alternative

The analysis for this alternative is discussed in detail previously in this rule.

Alternative 2: No Action Alternative

In this alternative, the Coast Guard would not issue an interim rule, but instead continue to use the interim process outlined in 617(f)(3) of the Act.

Instead of incorporating by reference industry and international standards, this alternative would continue to rely on a case-by-case process to approve the construction of new vessels over 6,000 GT ITC. This would continue to result in regulatory inefficiencies in the approval process and long delays in the construction and design of new vessels. Finally, by making the requirements of large OSVs explicit and transparent, regulatory uncertainty and confusion are potentially reduced.

Therefore, because the benefits of this alternative were less than that of the preferred alternative, the Coast Guard rejected this alternative.

Alternative 3: Issuance of Proposed Alternative as an NPRM

In this alternative, the Coast Guard would require all of the provisions in the preferred alternative, but would propose the alternative as an NPRM instead of as an interim rule.

Because the provisions in the preferred alternative are derived either directly from existing regulatory and technical standards from Titles 33 and 46 of the CFR or developed and rooted from current domestic and international standards that industry already voluntarily complies with, the Coast Guard rejected this provision, as it would only delay potential cost savings that could accrue from immediate implementation.

Alternative 4: Adoption of International Standards Only

In this alternative, the Coast Guard would require that vessels meet international standards only. Coast Guard considered and adopted international standards for many requirements. However, for a limited number of areas, Coast Guard found that international standards needed to be supplemented to provide consistency with already in place domestic standards and to ensure safe operations and design.

The Coast Guard rejected the alternative of adopting only international standards as, in some limited cases, the international standards are not consistent with existing domestic standards or need further clarification where details are left to the satisfaction of the administration. In addition, for several requirements, Coast Guard offers industry the flexibility of a choice of standards. This flexibility would be lost if Coast Guard adopted only international standards.

B. Small Entities

Under the Regulatory Flexibility Act (5 U.S.C. 601-612), we have considered whether this interim rule would have a significant economic impact on a substantial number of small entities. The term “small entities” comprises small businesses, not-for-profit organizations that are independently owned and operated and are not dominant in their fields, and governmental jurisdictions with populations of less than 50,000.

Because of the previous size limit on OSVs, there were no U.S.-flagged vessels of at least 6,000 GT ITC or 500 GRT operating as OSVs.¹⁴ However, since the Act was enacted, two U.S.-flagged vessels of at least 6,000 GT ITC have been certificated as large OSVs under the interim process found in section 617(f)(3) of the Act that meet subchapter I and additional requirements from design basis agreements, with four others pursuing the interim certification. Although these would be grandfathered from having to comply with this interim rule, the international standards codified in this rule were derived from standards that these owners and operators voluntarily agreed to adopt as a condition of approval under the interim process.¹⁵ Consequently, this rule will not directly impact any existing population of U.S. vessels, nor is it expected to add additional costs to newly constructed OSVs of at least 6,000 GT ITC, as these vessels are also expected to work internationally in addition to working domestically. Therefore, no additional costs will be incurred by industry in the construction of a large OSV.

¹⁴ While it is possible that an owner of an existing large OSV certificated under the interim process as meeting subchapter I and additional requirements as specified under the design basis agreements may seek recertification under subchapter L, no one from industry has inquired about this issue in the 2 and a half years since the Act was enacted.

¹⁵ Although these six vessels are expected to work domestically, they are also expected to work internationally, and therefore, would be held to international standards as well.

In our review of the MISLE ownership data for OSVs, we found 67 U.S.-flagged OSVs between 3,001 and 6,000 GT ITC that are owned and operated by 23 entities. The Coast Guard has identified 10 parent companies that direct the 23 managing entities, which we then grouped by their North American Industry Classification System (NAICS) code. Parent companies that direct managing entities may be classified under a range of NAICS codes due to the vertical integration and consolidation of business interests and operations. Based on the data from the Coast Guard's MISLE database used to populate the domestic vessel field in Table 2-1, the Coast Guard determined that none of businesses affected are small by the Small Business Administration (SBA) size standards. Therefore, the Coast Guard certifies under 5 U.S.C. 605(b) that this interim rule will not have a significant economic impact on a substantial number of small entities.

Table 21—Entities Affected by Removal of the Statutory Size Limit Previously Placed on OSVs
NAICS Code | Description of NAICS Group | Number of entities in NAICS Group | Number of small entities | SBA Revenue standard $ | SBA Employee standard
213112 | Support Activities for Oil and Gas Operations | 1 | 0 | $7,000,000 | NA
333132 | Oil and Gas Field Machinery and Equipment Manufacturing | 1 | 0 | NA | 500
487210 | Water Transportation excursion | 1 | 0 | 7,000,000 | NA
488330 | Navigation Services to Shipping | 3 | 0 | 35,000,000 | NA
488390 | Other Support Activities for Water Transportation | 1 | 0 | 35,500,000 | NA
522220 | Sales Financing | 1 | 0 | 7,000,000 | NA
532411 | Commercial Air, Rail, and Water Transportation Equipment Rentals and Leasing | 1 | 0 | 7,000,000 | NA
541990 | All Other Professional Scientific and Technical Services | 1 | 0 | 14,000,000 | NA

For additional analysis on the estimated impact that this interim rule would have on small entities, please see the preliminary RA available in the docket where indicated under the “Public Participation and Request for Comments” section of this preamble.

If you think that your business, organization, or governmental jurisdiction qualifies as a small entity and that this rule will have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this interim rule so that they can better evaluate its effects on them and participate in the rulemaking. If the interim rule would affect your small business, organization, or governmental jurisdiction and you have questions concerning its provisions or options for compliance, please consult Lieutenant Anne Besser, Project Manager, CG-ENG-1, Coast Guard, email Anne.Besser@uscg.mil, telephone 202-372-1362. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This interim rule does not call for a collection of information under the Paperwork Reduction Act of 1995 (44 U.S.C. 3501-3520).

The offshore energy market has experienced increased demand for high endurance operations required for deepwater exploration far offshore. Accordingly, this trend necessitates industry to design, construct, and operate OSVs with greater endurance, stability, and carriage characteristics.

“The demand for large [platform supply vessels, which are a type of OSV] with dynamic positioning has outpaced the supply of vessels for most of 2012. New deliveries and [OSVs] mobilizing back to the U.S. Gulf [of Mexico] have been unable to keep up with demand, forcing drilling operators to supplement smaller vessels, which are readily available. While these smaller vessels may be adequate, they are not optimal for deepwater support work.” ¹⁶ The Coast Guard anticipates that domestic entities would like to capture some of this market, which is currently restricted to only foreign-flagged OSVs because of the size limit restriction on U.S.-flagged OSVs. This interim rule would permit U.S.-flagged vessels of at least 6,000 GT ITC to be certificated as OSVs under subchapter L, which would allow U.S. firms to meet some of this increased demand.

¹⁶ Marcon International, Inc. “Fall 2012 Newsletter—Offshore Supply Vessels in the Gulf of Mexico.” http://www.marcon.com/index.cfm?SectionListsID=49&PageID=2461.

While the Coast Guard is unable to forecast with a sufficient degree of certainty the number of U.S.-flagged OSVs of at least 6,000 GT ITC that may be built to meet the increasing demand for larger OSVs, the number of vessels seeking approval under the interim process found in section 617(f)(3) of the Act may provide some insight. In 2013, four vessels sought approval under this process.

Furthermore, the Coast Guard anticipates that this new population of OSVs will follow a growth pattern similar to that of OSVs greater than 3,000 GT ITC but less than 6,000 GT ITC.

Through review of the MISLE database, the Coast Guard has determined that on average four U.S.-flagged OSVs between 3,001 and 6,000 GT ITC were constructed per year from 1998 through 2013. While the continuation of this trend cannot be assured, given the current environment of the offshore energy market, it is unlikely that the construction of OSVs of at least 6,000 GT ITC will exceed nine in any given year, particularly during the next 3 years (the period covered by a Collection of Information).

Therefore, because the information collected under this rule is expected to involve fewer than 10 vessels in a given year, it is not a collection of information that requires a formal burden estimate as defined in section 3502 of the Paperwork Reduction Act.

The Coast Guard welcomes any comments or concerns on the collection of information discussed in this section. Your comments must be sent to the Office of Information and Regulatory Affairs (OIRA), Office of Management and Budget. To ensure that your comments to OIRA are received on time, the preferred methods are by email to oira_submission@omb.eop.gov (include the docket number and “Attention: Desk Officer for Coast Guard, DHS” in the subject line of the email) or fax at 202-395-6566. An alternate, though slower, method is by U.S. mail to the Office of Information and Regulatory Affairs, Office of Management and Budget, 725 17th Street NW., Washington, DC 20503, ATTN: Desk Officer, U.S. Coast Guard.

E. Federalism

A rule has implications for federalism under Executive Order 13132, Federalism, if it has a substantial direct effect on the States, on the relationship between the national government and the States, or on the distribution of power and responsibilities among the various levels of government. We have analyzed this rule under that Order and have determined that it does not have federalism implications.

It is well settled that States may not regulate in categories reserved for regulation by the Coast Guard. It is also well settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).) This rule addresses the design, construction, alteration, repair, maintenance, operation, equipping, personnel qualification, and manning of OSVs of at least 6,000 GT ITC, or 500 GRT if GT ITC is not assigned. Because the States may not regulate within these categories, preemption under Executive Order 13132 is not an issue.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use, and have determined that it is not a “significant energy action” under that order. Though it is a “significant regulatory action” under Executive Order 12866, this interim rule is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule uses the following voluntary consensus standards:

• ANSI/ISA 60079-18—(12.23.01)-2009, Electrical Apparatus for Use in Class I, Zone 1 Hazardous (Classified) Locations: Type of Protection—Encapsulation “m”, approved July 31, 2009 (“ANSI/ISA 60079-18”)

• UL 674—Standard for Safety: Electric Motors and Generators for Use in Division 1 Hazardous (Classified) Locations, Fourth Edition with revisions through August 12, 2008 (dated December 11, 2003) (“ANSI/UL 674”)

• UL 823—Electric Heaters for Use in Hazardous (Classified) Locations, Ninth Edition including revisions through November 15, 2007 (dated October 20, 2006) (“ANSI/UL 823”)

• UL 844—Standard for Safety: Luminaires for Use in Hazardous (Classified) Locations, Twelfth Edition including revisions through November 20, 2008 (dated January 11, 2006) (“ANSI/UL 844”)

• UL 913—Standard for Safety: Intrinsically Safe Apparatus and Associated Apparatus for Use in Class I, II, and III, Division 1, Hazardous (Classified) Locations, Seventh Edition including revisions through June 3, 2010, (Dated July 31, 2006) (“ANSI/UL 913”)

• UL 1203—Standard for Safety: Explosion-Proof and Dust-Ignition-Proof Electrical Equipment for use in Hazardous (Classified) Locations, Fourth Edition including revisions through October 28, 2009 (dated September 15, 2006) (“ANSI/UL 1203”)

• UL 2225—Cables and Cable-Fittings for Use in Hazardous (Classified) Locations, Second Edition, December 21, 2005 (“ANSI/UL 2225”)

• API RP 500—Recommended Practice for Classification of Locations for Electrical Installations at Petroleum Facilities Classified as Class I, Division 1 and Division 2, Second Edition, November 1997, reaffirmed November 2002 (“API RP 500”)

• API RP 505—Recommended Practice for Classification of Locations for Electrical Installations at Petroleum Facilities Classified as Class I, Zone 0, Zone 1, and Zone 2, First Edition, approved January 7, 1998 (dated November 1997), reaffirmed 2002 (“API RP 505”)

• ASTM D 93-97—Standard Test Methods for Flash Point by Pensky-Martens Closed Cup Tester, 1997 (“ASTM D 93”)

• ASTM F1014—02 (Reapproved 2007)—Standard Specification for Flashlights on Vessels, approved May 1, 2007 (“ASTM F1014-2”)

• ASTM F2876-10—Standard Practice for Thermal Rating and Installation of Internal Combustion Engine Packages for use in Hazardous Locations in Marine Applications, approved November 1, 2010 (“ASTM F2876-10”)

• CAN/CSA-C22.2 No. 0-M91—General Requirements—Canadian Electrical Code, Part II, Reaffirmed 2006 (“CAN/CSA C22.2 No. 0-M91”)

• CAN/CSA-C22.2 No. 157-92—Intrinsically Safe and Non-incendive Equipment for Use in Hazardous Locations, Reaffirmed 2006 (“CAN/CSA C22.2 No. 157-92”)

• C22.2 No. 30-M1986—Explosion-Proof Enclosures for Use in Class I Hazardous Locations, Reaffirmed 2007 (“CAN/CSA C22.2 No. 30-M1986”)

• C22.2 No. 213-M1987—Non-incendive Electrical Equipment for Use in Class I, Division 2 Hazardous Locations, Reaffirmed 2008 (“CAN/CSA C22.2 No. 213-M1987”)

• FM Approvals Class Number 3600—Approval Standard for Electric Equipment for use in Hazardous (Classified) Locations General Requirements, November 1998 (“FM Approvals Class Number 3600”)

• FM Approvals Class Number 3610—Approval Standard for Intrinsically Safe Apparatus and Associated Apparatus for Use in Class I, II, and III, Division 1, Hazardous (Classified) Locations, January 2010 (“FM Approvals Class Number 3610”)

• FM Approvals Class Number 3611—Approval Standard for Non-incendive Electrical Equipment for Use in Class I and II, Division 2, and Class III, Divisions 1 and 2, Hazardous (Classified) Locations, December 2004 (“FM Approvals Class Number 3611”)

• FM Approvals Class Number 3615—Approval Standard for Explosionproof Electrical Equipment General Requirements, August 2006 (“FM Approvals Class Number 3615”)

• FM Approvals Class Number 3620—Approval Standard for Purged and Pressurized Electrical Equipment for Hazardous (Classified) Locations, August 2000 (“FM Approvals Class Number 3620”)

• IEC 60079-1:2007—Explosive atmospheres—Part 1: Equipment protection by flameproof enclosures “d”, Sixth edition, 2007-04

• IEC 60079-2:2007—Explosive atmospheres—Part 2: Equipment protection by pressurized enclosures “p”, Fifth edition, 2007-02

• IEC 60079-5:2007—Explosive atmospheres—Part 5: Equipment protection by powder filling “q”, Third Edition, 2007-03

• IEC 60079-6:2007—Explosive atmospheres—Part 6: Equipment protection by oil immersion “o”, Third edition, 2007-03

• IEC 60079-7:2006—Explosive atmospheres—Part 7: Equipment protection by increased safety “e”, Fourth edition, 2006-07

• IEC 60079-11:2006—Explosive atmospheres—Part 11: Equipment protection by intrinsic safety “i”, Fifth edition, 2006-07

• IEC 60079-13:2010—Explosive atmospheres—Part 13: Equipment protection by pressurized room “p”, Edition 1.0, 2010-10

• IEC 60079-15:2010—Explosive atmospheres—Part 15: Equipment protection by type of protection “n”, Edition 4.0, 2010-01

• IEC 60079-18:2009—Explosive atmospheres—Part 18: Equipment protection by encapsulation “m”, Edition 3.0, 2009-05

• IEC 60079-25:2010—Explosive atmospheres—Part 25: Intrinsically safe electrical systems, Edition 2.0, 2010-02

• IEC 60092-350:2008—Electrical installations in ships—Part 350: General construction and test methods of power, control and instrumentation cables for shipboard and offshore applications, Edition 3.0, 2008-02

• IEC 60092-353:2011—Electrical installations in ships—Part 353: Power cables for rated voltages 1 kV and 3 kV, Edition 3.0, 2011-08

• IEC 60092-502—Electrical installations in ships—Part 502: Tankers—Special features, Fifth edition, 1999-02 (“IEC 60092-502”)

• IEEE Std 1580-2001—IEEE Recommended Practice for Marine Cable for Use on Shipboard and Fixed or Floating Platforms, December 17, 2001 (“IEEE 1580”)

• NFPA 70—National Electrical Code, 2011 Edition (“NFPA 70”)

• NFPA 496—Standard for Purged and Pressurized Enclosures for Electrical Equipment, 2008 Edition (“NFPA 496 (2008)”)

• UL 1309—Marine Shipboard Cables, First Edition, 1995 (“UL 1309”)

• UL 1604—Standard for Electrical Equipment for Use in Class I and II, Division 2, and Class III Hazardous (Classified) Locations, Third Edition including revisions through February 3, 2004 (dated April 28, 1994) (“UL 1604”)

The sections that reference these standards and the locations where these standards are available are listed in 46 CFR 110.10-1 and 125.180.

This rule also uses technical standards other than voluntary consensus standards.

• Guidelines for the Transport and Handling of Limited Amounts of Hazardous and Noxious Liquid Substances in Bulk on Offshore Support Vessels, 2007 Edition (“Resolution A.673(16)”)

• Annex 7 to IMO MEPC 52/54, Report of the Marine Environment Protection Committee on its Fifty-Second Session, “Resolution MEPC.119(52), 2004 Amendments to the International Code for the Construction and Equipment of Ships Carrying Dangerous Chemicals in Bulk (IBC Code),” adopted October 15, 2004 (“IBC Code”)

• International Convention on Load Lines, 1966 and Protocol of 1988, as amended in 2003, Consolidated Edition, 2005 (“International Convention on Load Lines, 1966”)

• International Convention for the Prevention of Pollution from Ships, 1973, as modified by the Protocol of 1978 relating thereto, Consolidated Edition, 2006 (“MARPOL 73/78”)

• International Convention for the Safety of Life at Sea, 1974, as amended, Consolidated Edition, 2009 (“SOLAS, 1974, as amended”)

• MIL-DTL-24643C with Supplement 1A—Detail Specification Cables, Electric, Low Smoke Halogen-Free, for Shipboard Use, General Specification for, December 13, 2011 (dated October 1, 2009) (“MIL-DTL-24643C”)

• MIL-DTL-24640C with Supplement 1—Detail Specification Cables, Lightweight, Low Smoke, Electric, for Shipboard Use, General Specification for, November 18, 2011 (“MIL-DTL-24640C”)

The sections that reference these standards and the locations where these standards are available are listed in 46 CFR 110.10-1 and 125.180. They are used because we did not find voluntary consensus standards that are applicable to this rule. If you are aware of voluntary consensus standards that might apply, please identify them by sending a comment to the docket using one of the methods under ADDRESSES. In your comment, please explain why you think the standards might apply.

If you disagree with our analysis of the voluntary consensus standards listed above or are aware of voluntary consensus standards that might apply but are not listed, please send a comment to the docket using one of the methods under ADDRESSES. In your comment, please explain why you disagree with our analysis and/or identify voluntary consensus standards we have not listed that might apply.

M. Environment

We have analyzed this interim rule under Department of Homeland Security Management Directive 023-01 and Commandant Instruction M16475.lD, which guide the Coast Guard in complying with the National Environmental Policy Act of 1969 (NEPA)(42 U.S.C. 4321-4370f), and have concluded that this action is one of a category of actions that do not individually or cumulatively have a significant effect on the human environment. This rule is categorically excluded under section 2.B.2, figure 2-1, paragraphs (34)(a), (c), (d) and (e) of the Instruction and under section 6(a) and (b) of the “Appendix to National Environmental Policy Act: Coast Guard Procedures for Categorical Exclusions, Notice of Final Agency Policy” (67 FR 48243, July 23, 2002). This rule involves regulations concerning the manning, documentation, measurement, inspection, and equipping of vessels; regulations concerning equipment approval and carriage requirements; regulations concerning vessel operation safety standards; and congressionally mandated regulations designed to protect the environment. An environmental analysis checklist and a categorical exclusion determination are available in the docket where indicated under ADDRESSES.

List of Subjects

46 CFR Part 2

Marine safety, Reporting and recordkeeping requirements, Vessels.

46 CFR Part 15

Reporting and recordkeeping requirements, Seamen, Vessels.

46 CFR Part 61

Reporting and recordkeeping requirements, Vessels.

46 CFR Part 62

Reporting and recordkeeping requirements, Vessels.

46 CFR Part 90

Cargo vessels, Marine safety.

46 CFR Part 110

Incorporation by reference, Reporting and recordkeeping requirements, Vessels.

46 CFR Part 111

Incorporation by reference, Vessels.

46 CFR Part 125

Administrative practice and procedure, Cargo vessels, Hazardous materials transportation, Incorporation by reference, Marine safety, Seamen.

46 CFR Part 126

Cargo vessels, Marine safety, Reporting and recordkeeping requirements.

46 CFR Part 127

Cargo vessels, Fire prevention, Incorporation by reference, Marine safety, Occupational safety and health, Reporting and recordkeeping requirements, Seamen.

46 CFR Part 128

Cargo vessels, Hazardous materials transportation, Incorporation by reference, Marine safety, Reporting and recordkeeping requirements.

46 CFR Part 129

Cargo vessels, Hazardous materials transportation, Marine safety, Reporting and recordkeeping requirements.

46 CFR Part 130

Cargo vessels, Marine safety, Navigation (water), Reporting and recordkeeping requirements.

46 CFR Part 131

Cargo vessels, Fire prevention, Marine safety, Navigation (water), Occupational safety and health, Reporting and recordkeeping requirements.

46 CFR Part 132

Cargo vessels, Fire prevention, Incorporation by reference, Marine safety, Reporting and recordkeeping requirements.

46 CFR Part 134

Cargo vessels, Hazardous materials transportation, Marine safety, Occupational safety and health, Reporting and recordkeeping requirements, Seamen.

46 CFR Part 174

Marine safety, Reporting and recordkeeping requirements, Vessels.

For the reasons discussed in the preamble, the Coast Guard amends 46 CFR parts 2, 15, 61, 62, 90, 110, 111, 125, 126, 127, 128, 129, 130, 131, 132, 134, and 174 as follows:

Title 46—Shipping

PART 2—VESSEL INSPECTIONS

1. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

2. Amend § 2.10-25 by revising paragraph (3) in the definition of “offshore supply vessel or OSV” to read as follows:

§ 2.10-25 Definitions.

* * * * *

Offshore supply vessel or OSV * * *

(3) Is more than 15 gross tons; and

* * * * *

PART 15—MANNING REQUIREMENTS

3. The authority citation for part 15 is revised to read as follows:

Authority: 46 U.S.C. 2101, 2103, 3306, 3703, 8101, 8102, 8104, 8105, 8301, 8304, 8502, 8503, 8701, 8702, 8901, 8902, 8903, 8904, 8905(b), 8906, 9102, and 8103; sec. 617, Pub. L. 111-281, 124 Stat. 2905; and Department of Homeland Security Delegation No. 0170.1.

4. Amend § 15.705 by revising paragraph (c) to read as follows:

§ 15.705 Watches.

* * * * *

(c)(1) Subject to exceptions, 46 U.S.C. 8104(g) permits the officers and crew members (except the coal passers, firemen, oilers, and watertenders) to be divided into two watches when at sea and engaged on a voyage of less than 600 miles on the following categories of vessels—

(i) Towing vessel;

(ii) Offshore supply vessels, except as provided by paragraph (c)(2) of this section; or

(iii) Barge.

(2) Paragraph (c)(1) of this section applies to an OSV of at least 6,000 GT ITC (500 GRT if GT ITC is not assigned), as defined in § 125.160 of this chapter, if the individuals engaged on the vessel are in compliance with the work hours and rest period requirements in § 15.1111 of this part.

* * * * *

5. Amend § 15.810 as follows:

a. Remove paragraph (b)(4);

b. Redesignate paragraph (b)(5) as paragraph (b)(4); and

c. Add new paragraphs (b)(5) and (6) to read as follows:

§ 15.810 Mates.

* * * * *

(b) * * *

(5) An offshore supply vessel of 100 GRT (100 GT ITC if GRT is not assigned) or more, but less than 6,000 GT ITC (500 GRT if GT ITC is not assigned) as defined in § 125.160 of this chapter—one credentialed mate (except when on a voyage of at least 600 miles—two credentialed mates). A voyage includes the accrued distance from port of departure to port of arrival and does not include stops at offshore points.

(6) An offshore supply vessel of at least 6,000 GT ITC (500 GRT if GT ITC is not assigned) as defined in § 125.160 of this chapter—two credentialed mates provided that the OSV meets the requirements in 46 CFR 15.1111 (except when on a voyage of more than 600 miles—three credentialed mates). A voyage includes the accrued distance from the vessel's port of departure to the vessel's port of arrival. Stops at offshore points or facilities do not constitute separate voyages; stops at offshore points or facilities are included in the total accrued distance between the vessel's port of departure and the vessel's port of arrival.

* * * * *

6. Amend § 15.825 by redesignating paragraph (c) as paragraph (d) and adding paragraph (c) to read as follows:

§ 15.825 Engineers.

* * * * *

(c) An offshore supply vessel of at least 6,000 GT ITC (500 GRT if GT ITC is not assigned) as defined in § 125.160 of this chapter, for which the Coast Guard has accepted the use of automated systems to replace specific personnel pursuant to subpart 62.50 of this chapter, must carry at least one credentialed assistant engineer, in addition to the individual described in § 15.820 of this subpart.

* * * * *

PART 61—PERIODIC TESTS AND INSPECTIONS

7. The authority citation for part 61 is revised to read as follows:

Authority: 43 U.S.C. 1333; 46 U.S.C. 2103, 3306, 3307, 3703; sec. 617, Pub. L. 111-281, 124 Stat. 2905; E.O. 12234, 45 FR 58801, 3 CFR 1980 Comp., p. 277; Department of Homeland Security Delegation No. 0170.1.

§ 61.40-10 [Amended]

8. In § 61.40-10(b), remove the words “Commandant CG-ENG” and add, in their place, the words “Commanding Officer, Marine Safety Center”.

PART 62—VITAL SYSTEM AUTOMATION

9. The authority citation for part 62 is revised to read as follows:

Authority: 46 U.S.C. 3306, 3703, 8105; sec. 617, Pub. L. 111-281, 124 Stat. 2905; E.O. 12234, 45 FR 58801, 3 CFR, 1980 Comp., p. 277; Department of Homeland Security Delegation No. 0170.1.

§ 62.01-5 [Amended]

10. Amend § 62.01-5(a) as follows:

a. After the words “subchapter D, I, or U”, remove the word “and” and add, in its place, the punctuation mark “,”; and

b. After the words “subchapter H”, add the words “, and to OSVs of at least 6,000 GT ITC (500 GRT if GT ITC is not assigned) as defined in § 125.160 of this chapter”.

PART 90—GENERAL PROVISIONS

11. The authority citation for part 90 is revised to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1. Sections 90.05-20 and 90.10-40 also issued under sec. 617, Pub. L. 111-281, 124 Stat. 2905.

12. Amend § 90.05-20 as follows:

a. In paragraph (a), after the number “100”, add the text “GRT (100 GT ITC if GRT is not assigned) as defined in § 125.160 of this chapter” and remove the words “but of less than 500 gross tons”; and

b. Revise paragraph (b) to read as follows:

§ 90.05-20 Applicability to offshore supply vessels.

* * * * *

(b) Each offshore supply vessel permitted grandfathering under paragraph (a) of this section must have completed construction and have a Certificate of Inspection by—

(1) March 16, 1998, if the vessel is of less than 500 GRT (6,000 GT ITC if GRT is not assigned) as defined in § 125.160 of this chapter; or

(2) August 18, 2016, if the vessel is of at least 6,000 GT ITC (500 GRT if GT ITC is not assigned) as defined in § 125.160 of this chapter.

13. Amend § 90.10-40 as follows:

a. In paragraph (a), remove the words “and less than 500 gross tons (as measured under the Standard, Dual, or Simplified Measurement System under part 69, subpart C, D, or E, of this chapter) or is less than 6,000 gross tons (as measured under the Convention Measurement System under part 69, subpart B, of this chapter)”, and add, in their place, the words “or more,”; and

b. Revise paragraphs (b) and (c) to read as follows:

§ 90.10-40 Offshore supply vessels.

* * * * *

(b) An existing offshore supply vessel is one that is—

(1) Of at least 15 GRT but less than 500 GRT (6,000 GT ITC if GRT is not assigned) as defined in § 125.160 of this chapter, contracted for, or the keel of which was laid, before March 15, 1996; or

(2) Of at least 6,000 GT ITC (500 GRT if GT ITC is not assigned) as defined in § 125.160 of this chapter, contracted for, or the keel of which was laid, before August 18, 2014.

(c) A new offshore supply vessel is one—

(1) That is of at least 15 GRT but less than 500 GRT (6,000 GT ITC if GRT is not assigned) as defined in § 125.160 of this chapter, and was contracted for, or the keel of which was laid, on or after March 15, 1996;

(2) That is of at least 6,000 GT ITC (500 GRT if GT ITC is not assigned) as defined in § 125.160 of this chapter, and was contracted for, or the keel of which was laid, on or after August 18, 2014; or

(3) That underwent a major conversion initiated on or after March 15, 1996.

PART 110—GENERAL PROVISIONS

14. The authority citation for part 110 is revised to read as follows:

Authority: 33 U.S.C. 1509; 43 U.S.C 1333; 46 U.S.C. 3306, 3307, 3703; E.O. 12234, 45 FR 58801, 3 CFR, 1980 Comp., p. 277; Department of Homeland Security Delegation No. 0170.1; § 110.01-2 also issued under 44 U.S.C. 3507. Sections 110.15-1 and 110.25-1 also issued under sec. 617, Pub. L. 111-281, 124 Stat. 2905.

15. Revise § 110.10-1 to read as follows:

§ 110.10-1 Incorporation by reference.

(a) Certain material is incorporated by reference into this subchapter with the approval of the Director of the Federal Register under 5 U.S.C. 552(a) and 1 CFR part 51. To enforce any edition other than that specified in this section, the Coast Guard must publish notice of change in the Federal Register and the material must be available to the public. The word “should,” when used in material incorporated by reference, is to be construed the same as the words “must” or “shall” for the purposes of this subchapter. All approved material is available for inspection at the U.S. Coast Guard, Office of Design and Engineering Standards (CG-ENG), 2703 Martin Luther King Jr. Avenue SE., Stop 7126, Washington, DC 20593-7126, and is available from the sources listed below. It is also available for inspection at the National Archives and Records Administration (NARA). For information on the availability of this material at NARA, call 202-741-6030 or go to http://www.archives.gov/federal_register/code_of_federal_regulations/ibr_locations.html.

(b) American Bureau of Shipping (ABS), ABS Plaza, 16855 Northchase Drive, Houston, TX 77060, 281-877-5800, http://www.eagle.org.

(1) Rules for Building and Classing Steel Vessels, Part 4 Vessel Systems and Machinery, 2003 (“ABS Steel Vessel Rules”), IBR approved for §§ 110.15-1, 111.01-9, 111.12-3, 111.12-5, 111.12-7, 111.33-11, 111.35-1, 111.70-1, 111.105-31, 111.105-39, 111.105-40 and 113.05-7.

(2) Rules for Building and Classing Mobile Offshore Drilling Units, Part 4 Machinery and Systems, 2001 (“ABS MODU Rules”), IBR approved for §§ 111.12-1, 111.12-3, 111.12-5, 111.12-7, 111.33-11, 111.35-1 and 111.70-1.

(c) American National Standards Institute (ANSI), 25 West 43rd Street, New York, NY 10036, 212-642-4900, http://www.ansi.org/.

(1) ANSI/IEEE C37.12-1991—American National Standard for AC High-Voltage Circuit Breakers Rated on a Symmetrical Current Basis-Specifications Guide, 1991 (“ANSI/IEEE C37.12”), IBR approved for § 111.54-1.

(2) ANSI/IEEE C37.27-1987 (IEEE Std 331)—Application Guide for Low-Voltage AC Nonintegrally Fused Power Circuitbreakers (Using Separately Mounted Current-Limiting Fuses), 1987 (“ANSI/IEEE C37.27”), IBR approved for § 111.54-1.

(3) ANSI/ISA 60079-18—Electrical Apparatus for Use in Class I, Zone 1 Hazardous (Classified) Locations: Type of Protection—Encapsulation “m”, approved July 31, 2009 (“ANSI/ISA 60079-18”), IBR approved for § 111.106-3(d).

(d) American Petroleum Institute (API), Order Desk, 1220 L Street NW., Washington, DC 20005-4070, 202-682-8000, http://www.api.org.

(1) API RP 500—Recommended Practice for Classification of Locations for Electrical Installations at Petroleum Facilities Classified as Class I, Division 1 and Division 2, Second Edition, November 1997, reaffirmed in 2002 (“API RP 500”), IBR approved for §§ 111.106-7(a) and 111.106-13(b).

(2) API RP 505—Recommended Practice for Classification of Locations for Electrical Installations at Petroleum Facilities Classified as Class I, Zone 0, Zone 1, and Zone 2, First Edition, approved January 7, 1998 (dated November 1997), reaffirmed 2002 (“API RP 505”), IBR approved for §§ 111.106-7(a) and 111.106-13(b).

(e) American Society of Mechanical Engineers (ASME) International, Three Park Avenue, New York, NY 10016-5990, 800-843-2763, http://www.asme.org/.

(1) ASME A17.1-2000—Part 2 Electric Elevators, 2000 (“ASME A17.1”), IBR approved for § 111.91-1.

(2) [Reserved]

(f) ASTM International (formerly American Society for Testing and Materials), 100 Barr Harbor Drive, West Conshohocken, PA 19428-2959, 610-832-9500, http://www.astm.org.

(1) ASTM B 117-97—Standard Practice for Operating Salt Spray (Fog) Apparatus (“ASTM B 117”), IBR approved for § 110.15-1.

(2) ASTM F2876-10—Standard Practice for Thermal Rating and Installation of Internal Combustion Engine Packages for use in Hazardous Locations in Marine Applications, approved November 1, 2010 (“ASTM F2876-10”), IBR approved for § 111.106-3(h).

(g) Canadian Standards Association (CSA), 5060 Spectrum Way, Suite 100, Mississauga, Ontario, L4W 5N6, Canada, 800-463-6727, http://www.csa.ca/.

(1) C22.2 No. 30-M1986—Explosion-Proof Enclosures for Use in Class I Hazardous Locations, Reaffirmed 2007 (“CAN/CSA C22.2 No. 30-M1986”), IBR approved for § 111.106-3(b).

(2) C22.2 No. 213-M1987—Non-incendive Electrical Equipment for Use in Class I, Division 2 Hazardous Locations, Reaffirmed 2008 (“CAN/CSA C22.2 No. 213-M1987”), IBR approved for § 111.106-3(b).

(3) CAN/CSA-C22.2 No. 0-M91—General Requirements—Canadian Electrical Code, Part II, Reaffirmed 2006 (“CAN/CSA C22.2 No. 0-M91”), IBR approved for § 111.106-3(b).

(4) CAN/CSA-C22.2 No. 157-92—Intrinsically Safe and Non-incendive Equipment for Use in Hazardous Locations, Reaffirmed 2006 (“CAN/CSA C22.2 No. 157-92”), IBR approved for § 111.106-3(b).

(h) DLA Document Services, Department of Defense, Single Stock Point, 700 Robbins Avenue, Philadelphia, PA 19111, 215-697-6396, http://www.assistdocs.com.

(1) MIL-C-24640A—Military Specification Cables, Light Weight, Electric, Low Smoke, for Shipboard Use, General Specification for (1995) Supplement 1, June 26, 1995 (“NPFC MIL-C-24640A”), IBR approved for §§ 111.60-1 and 111.60-3.

(2) MIL-C-24643A—Military Specification Cables and Cords, Electric, Low Smoke, for Shipboard Use, General Specification for (1996), Amendment 2, March 13, 1996 (“MIL-C-24643A”), IBR approved for §§ 111.60-1 and 111.60-3.

(3) MIL-DTL-24640C with Supplement 1—Detail Specification Cables, Lightweight, Low Smoke, Electric, for Shipboard Use, General Specification for, November 18, 2011 (“MIL-DTL-24640C”), IBR approved for § 111.106-5(a).

(4) MIL-DTL-24643C with Supplement 1A—Detail Specification Cables, Electric, Low Smoke Halogen-Free, for Shipboard Use, General Specification for, December 13, 2011 (dated October 1, 2009) (“MIL-DTL-24643C”), IBR approved for § 111.106-5(a).

(5) MIL-W-76D—Military Specification Wire and Cable, Hook-Up, Electrical, Insulated, General Specification for (2003) Amendment 1-2003, February 6, 2003 (“NPFC MIL-W-76D”), IBR approved for § 111.60-11.

(i) FM Approvals, P.O. Box 9102, Norwood, MA 02062, 781-440-8000, http://www.fmglobal.com:

(1) Class Number 3600—Approval Standard for Electric Equipment for use in Hazardous (Classified) Locations General Requirements, November 1998 (“FM Approvals Class Number 3600”), IBR approved for § 111.106-3(b).

(2) Class Number 3610—Approval Standard for Intrinsically Safe Apparatus and Associated Apparatus for Use in Class I, II, and III, Division 1, Hazardous (Classified) Locations, January 2010 (“FM Approvals Class Number 3610”), IBR approved for § 111.106-3(b).

(3) Class Number 3611—Approval Standard for Non-incendive Electrical Equipment for Use in Class I and II, Division 2, and Class III, Divisions 1 and 2, Hazardous (Classified) Locations, December 2004 (“FM Approvals Class Number 3611”), IBR approved for § 111.106-3(b).

(4) Class Number 3615—Approval Standard for Explosionproof Electrical Equipment General Requirements, August 2006 (“FM Approvals Class Number 3615”), IBR approved for § 111.106-3(b).

(5) Class Number 3620—Approval Standard for Purged and Pressurized Electrical Equipment for Hazardous (Classified) Locations, August 2000 (“FM Approvals Class Number 3620”), IBR approved for § 111.106-3(b).

(j) Institute of Electrical and Electronic Engineers (IEEE), IEEE Service Center, 445 Hoes Lane, Piscataway, NJ 08854, 732-981-0060, http://www.ieee.org.

(1) IEEE Std C37.04-1999—IEEE Standard Rating Structure for AC High-Voltage Circuit Breakers, 1999 (“IEEE C37.04”), IBR approved for § 111.54-1.

(2) IEEE Std C37.010-1999—IEEE Application Guide for AC High-Voltage Circuit Breakers Rated on a Symmetrical Current Basis, 1999 (“IEEE C37.010”), IBR approved for § 111.54-1.

(3) IEEE Std C37.13-1990—IEEE Standard for Low-Voltage AC Power Circuit Breakers Used in Enclosures, October 22, 1990 (“IEEE C37.13”), IBR approved for § 111.54-1.

(4) IEEE Std C37.14-2002—IEEE Standard for Low-Voltage DC Power Circuit Breakers Used in Enclosures, April 25, 2003 (“IEEE C37.14”), IBR approved for § 111.54-1.

(5) IEEE Std 45-1998—IEEE Recommended Practice for Electric Installations on Shipboard, October 19, 1998 (“IEEE 45-1998”), IBR approved for §§ 111.30-19, 111.105-3, 111.105-31 and 111.105-41.

(6) IEEE Std 45-2002—IEEE Recommended Practice for Electrical Installations On Shipboard, October 11, 2002 (“IEEE 45-2002”), IBR approved for §§ 111.05-7, 111.15-2, 111.30-1, 111.30-5, 111.33-3, 111.33-5, 111.40-1, 111.60-1, 111.60-3, 111.60-5, 111.60-11, 111.60-13, 111.60-19, 111.60-21, 111.60-23, 111.75-5 and 113.65-5.

(7) IEEE 100—The Authoritative Dictionary of IEEE Standards Terms, Seventh Edition, 2000 (“IEEE 100”), IBR approved for § 110.15-1.

(8) IEEE Std 1202-1991—IEEE Standard for Flame Testing of Cables for Use in Cable Tray in Industrial and Commercial Occupancies, 1991 (“IEEE 1202”), IBR approved for §§ 111.60-6 and 111.107-1.

(9) IEEE Std 1580-2001—IEEE Recommended Practice for Marine Cable for Use on Shipboard and Fixed or Floating Platforms, December 17, 2001 (“IEEE 1580”), IBR approved for §§ 111.60-1, 111.60-2, 111.60-3 and 111.106-5(a).

(k) International Electrotechnical Commission (IEC), 3 Rue de Varembe, Geneva, Switzerland, +41 22 919 02 11, http://www.iec.ch/.

(1) IEC 60068-2-52—Environmental Testing Part 2: Tests—Test Kb: Salt Mist, Cyclic (Sodium Chloride Solution), Second Edition, 1996 (“IEC 60068-2-52”), IBR approved for § 110.15-1.

(2) IEC 60079-0—Electrical apparatus for Explosive Gas Atmospheres—Part 0: General Requirements, Edition 3.1, 2000 (“IEC 60079-0”), IBR approved for §§ 111.105-1, 111.105-3, 111.105-5, 111.105-7, and 111.105-17.

(3) IEC 60079-1—Electrical Apparatus for Explosive Gas Atmospheres—Part 1: Flameproof Enclosures “d” including corr.1, Fourth Edition, 2001 (“IEC 60079-1”), IBR approved for §§ 111.105-1, 111.105-3, 111.105-5, 111.105-7, 111.105-9, and 111.105-17.

(4) IEC 60079-1:2007—Explosive Atmospheres—Part 1: Equipment Protection by Flameproof Enclosures “d”, Sixth Edition, 2007-04, IBR approved for § 111.106-3(b).

(5) IEC 60079-2—Electrical Apparatus for Explosive Gas Atmospheres—Part 2: Pressurized Enclosures “p”, Fourth Edition, 2001 (“IEC 60079-2”), IBR approved for §§ 111.105-1, 111.105-3, 111.105-5, 111.105-7 and 111.105-17.

(6) IEC 60079-2:2007—Explosive atmospheres—Part 2: Equipment protection by pressurized enclosures “p”, Fifth Edition, 2007-02, IBR approved for § 111.106-3(b).

(7) IEC 60079-5—Electrical Apparatus for Explosive Gas Atmospheres—Part 5: Powder Filling “q”, Second Edition, 1997 (“IEC 60079-5”), IBR approved for §§ 111.105-1, 111.105-3, 111.105-5, 111.105-7, 111.105-15 and 111.105-17.

(8) IEC 60079-5:2007—Explosive atmospheres—Part 5: Equipment protection by powder filling “q”, Third edition, 2007-03, IBR approved for § 111.106-3(b).

(9) IEC 60079-6—Electrical Apparatus for Explosive Gas Atmospheres—Part 6: Oil Immersion “o”, Second Edition, 1995 (“IEC 60079-6”), IBR approved for §§ 111.105-1, 111.105-3, 111.105-5, 111.105-7, 111.105-15 and 111.105-17.

(10) IEC 60079-6:2007—Explosive atmospheres—Part 6: Equipment protection by oil immersion “o”, Third edition, 2007-03, IBR approved for § 111.106-3(b).

(11) IEC 60079-7—Electrical Apparatus for Explosive Gas Atmospheres—Part 7: Increased Safety “e”, Third Edition, 2001 (“IEC 60079-7”), IBR approved for §§ 111.105-1, 111.105-3, 111.105-5, 111.105-7, 111.105-15 and 111.105-17.

(12) IEC 60079-7:2006—Explosive atmospheres—Part 7: Equipment protection by increased safety “e”, Fourth edition, 2006-07, IBR approved for § 111.106-3(b).

(13) IEC 60079-11—Electrical Apparatus for Explosive Gas Atmospheres—Part 11: Intrinsic Safety “i”, Fourth Edition, 1999 (“IEC 60079-11”), IBR approved for §§ 111.105-1, 111.105-3, 111.105-5, 111.105-7, 111.105-11 and 111.105-17.

(14) IEC 60079-11:2006—Explosive atmospheres—Part 11: Equipment protection by intrinsic safety “i”, Fifth edition, 2006-07, IBR approved for § 111.106-3(b).

(15) IEC 60079-13:2010—Explosive atmospheres—Part 13: Equipment protection by pressurized room “p”, Edition 1.0, 2010-10, IBR approved for § 111.106-3(b).

(16) IEC 60079-15—Electrical Apparatus for Explosive Gas Atmospheres—Part 15: Type of Protection “n”, Second Edition, 2001 (“IEC 60079-15”), IBR approved for §§ 111.105-1, 111.105-3, 111.105-5, 111.105-7, 111.105-15 and 111.105-17.

(17) IEC 60079-15:2010—Explosive atmospheres—Part 15: Equipment protection by type of protection “n”, Edition 4.0, 2010-01, IBR approved for § 111.106-3(b).

(18) IEC 60079-18 Electrical Apparatus for Explosive Gas Atmospheres—Part 18: Encapsulation “m”, First Edition, 1992 (“IEC 79-18”), IBR approved for §§ , 111.105-1, 111.105-3, 111.105-5, 111.105-7, 111.105-15 and 111.105-17.

(19) IEC 60079-18:2009—Explosive atmospheres—Part 18: Equipment protection by encapsulation “m”, Edition 3.0, 2009-05, IBR approved for § 111.106-3(b) and (d).

(20) IEC 60079-25:2010—Explosive atmospheres—Part 25: Intrinsically safe electrical systems, Edition 2.0, 2010-02, IBR approved for § 111.106-3(b).

(21) IEC 60092-101—Electrical Installation in Ships, Part 101: Definitions and General Requirements, Edition 4.1, 2002 (“IEC 60092-101”), IBR approved for §§ 110.15-1 and 111.81-1.

(22) IEC 60092-201—Electrical Installation in Ships, Part 201: System Design—General, Fourth Edition, 1994 (“IEC 92-201”), IBR approved for §§ 111.70-3 and 111.81-1.

(23) IEC 60092-202—Amendment 1 Electrical Installation in Ships, Part 202: System Design—Protection, 1996 (“IEC 92-202”), IBR approved for §§ 111.12-7, 111.50-3, 111.53-1 and 111.54-1.

(24) IEC 60092-301—Amendment 2 Electrical Installation in Ships, Part 301: Equipment—Generators and Motors, 1995 (“IEC 92-301”), IBR approved for §§ 111.12-7, 111.25-5 and 111.70-1.

(25) IEC 60092-302—Electrical Installation in Ships, Part 302: Low-Voltage Switchgear and Control Gear Assemblies, Fourth Edition, 1997 (“IEC 60092-302”), IBR approved for §§ 111.30-1, 111.30-5 and 111.30-19.

(26) IEC 60092-303—Electrical Installation in Ships, Part 303: Equipment—Transformers for Power and Lighting, Third Edition, 1980 (“IEC 92-303”), IBR approved for § 111.20-15.

(27) IEC 60092-304—Amendment 1 Electrical Installation in Ships, Part 304: Equipment-Semiconductor Convertors, 1995 (“IEC 92-304”), IBR approved for §§ 111.33-3 and 111.33-5.

(28) IEC 60092-306—Electrical Installation in Ships, Part 306: Equipment-Luminaries and accessories, Third Edition, 1980 (“IEC 92-306”), IBR approved for §§ 111.75-20 and 111.81-1.

(29) IEC 60092-350:2008—Electrical installations in ships—Part 350: General construction and test methods of power, control and instrumentation cables for shipboard and offshore applications, Edition 3.0, 2008-02, IBR approved for § 111.106-5(a).

(30) IEC 60092-352—Electrical Installation in Ships—Choice and Installation of Cables for Low-Voltage Power Systems, Second Edition, 1997 (“IEC 60092-352”), IBR approved for §§ 111.60-3, 111.60-5 and 111.81-1.

(31) IEC 60092-353—Electrical Installations in Ships—Part 353: Single and Multicore Non-Radial Field Power Cables with Extruded Solid Insulation for Rated Voltages 1kV and 3kV, Second Edition, 1995 (“IEC 60092-353”), IBR approved for §§ 111.60-1, 111.60-3 and 111.60-5.

(32) IEC 60092-353:2011—Electrical installations in ships—Part 353: Power cables for rated voltages 1 kV and 3 kV, Edition 3.0, 2011-08, IBR approved for § 111.106-5(a).

(33) IEC 60092-401—Electrical Installations in Ships, Part 401: Installation and Test of completed Installation with amendment 1 (1987) and amendment 2 (1997), Third Edition, 1980, (“IEC 60092-401”), IBR approved for §§ 111.05-9 and 111.81-1.

(34) IEC 60092-502—Electrical installations in ships—Part 502: Tankers—Special features—Fifth edition, 1999-02 (“IEC 60092-502”), IBR approved for §§ 111.81-1, 111.105-31, 111.106-3(b), 111.106-5(c), and 111.106-15(a).

(35) IEC 60092-503—Electrical installations in ships, Part 503: Special features: A.C. supply systems with voltages in the range of above 1kV up to and including 11kV, First Edition, 1975 (“IEC 60092-503”), IBR approved for § 111.30-5.

(36) IEC 60331-11—Tests for electric cables under fire conditions—Circuit integrity—Part 11: Apparatus—Fire alone at a flame temperature of at least 750 °C, First Edition, 1999 (“IEC 60331-11”), IBR approved for § 113.30-25.

(37) IEC 60331-21—Tests for Electric Cables Under Fire Conditions—Circuit Integrity—Part 21: Procedures and Requirements—Cables of Rated Voltage up to and Including 0.6/1.0kV, First Edition, 1999 (“IEC 60331-21”), IBR approved for § 113.30-25.

(38) IEC 60332-1—Tests on Electric Cables Under Fire Conditions, Part 1: Test on a Single Vertical Insulated Wire or Cable, Third Edition, 1993 (“IEC 60332-1”), IBR approved for § 111.30-19.

(39) IEC 60332-3-22—Tests on Electric Cables Under Fire Conditions—Part 3-22: Test for Vertical Flame Spread of Vertically-Mounted Bunched Wires or Cables—Category A, First Edition, 2000 (“IEC 60332-3-22”), IBR approved for §§ 111.60-1, 111.60-2, 111.60-6 and 111.107-1.

(40) IEC 60529—Degrees of Protection Provided by Enclosures (IP Code), Edition 2.1, 2001 (“IEC 60529”), IBR approved for §§ 110.15-1, 111.01-9, 113.10-7, 113.20-3, 113.25-11, 113.30-25, 113.37-10, 113.40-10 and 113.50-5.

(41) IEC 60533—Electrical and Electronic Installations in Ships—Electromagnetic Compatibility, Second Edition, (1999), (“IEC 60533”), IBR approved for § 113.05-7.

(42) IEC 60947-2—Low-Voltage Switchgear and Controlgear Part 2: Circuit-Breakers, Third Edition, 2003 (“IEC 60947-2”), IBR approved for § 111.54-1.

(43) IEC 61363-1—Electrical Installations of Ships and Mobile and Fixed Offshore Units—Part 1: Procedures for Calculating Short-Circuit Currents in Three-Phase a.c., First Edition, 1998 (“IEC 61363-1”), IBR approved for § 111.52-5.

(44) IEC 62271-100—High-voltage switchgear and controlgear—part 100: High-voltage alternating current circuitbreakers, Edition 1.1, 2003 (“IEC 62271-100”), IBR approved for § 111.54-1.

(l) International Maritime Organization (IMO), Publications Section, 4 Albert Embankment, London SE1 7SR, United Kingdom, +44 (0)20 7735 7611, http://www.imo.org.

(1) International Convention for the Safety of Life at Sea (SOLAS), Consolidated Text of the International Convention for the Safety of Life at Sea, 1974, and its Protocol of 1988: Article, Annexes and Certificates. (Incorporating all Amendments in Effect from January 2001), (“IMO SOLAS 74”), IBR approved for §§ 111.99-5, 111.105-31, 112.15-1 and 113.25-6.

(2) [Reserved]

(m) International Society of Automation (ISA), 67 Alexander Drive, P.O. Box 12277, Research Triangle Park, NC 27709, 919-549-8411, http://www.isa.org.

(1) RP 12.6—Wiring Practices for Hazardous (Classified) Locations Instrumentation Part I: Intrinsic Safety, 1995 (“ISA RP 12.6”), IBR approved for § 111.105-11.

(2) [Reserved]

(n) Lloyd's Register, 71 Fenchurch Street, London EC3M 4BS, +44 (0)20 7709 9166, http://www.lr.org.

(1) Type Approval System-Test Specification Number 1 (2002), IBR approved for § 113.05-7.

(2) [Reserved]

(o) National Electrical Manufacturers Association (NEMA), 1300 North 17th Street, Rosslyn, VA 22209, 703-841-3200, http://www.nema.org.

(1) NEMA Standards Publication ICS 2-2000, Industrial Control and Systems Controllers, Contactors, and Overload Relays, Rated 600 Volts, (2000), (“NEMA ICS 2”), IBR approved for § 111.70-3.

(2) NEMA Standards Publication ICS 2.3-1995, Instructions for the Handling, Installation, Operation, and Maintenance of Motor Control Centers Rated not More Than 600 Volts, (1995), (“NEMA ICS 2.3”), IBR approved for § 111.70-3.

(3) NEMA Standards Publication No. ICS 2.4-2003, NEMA and IEC Devices for Motor Service—a Guide for Understanding the Differences, (2003), (“NEMA ICS 2.4”), IBR approved for § 111.70-3.

(4) NEMA Standards Publication No. ANSI/NEMA 250-1997, Enclosures for Electrical Equipment (1000 Volts Maximum) (Aug. 30, 2001), (“NEMA 250”), IBR approved for §§ 110.15-1, 111.01-9, 110.15-1, 113.10-7, 113.20-3, 113.25-11, 113.30-25, 113.37-10, 113.40-10 and 113.50-5.

(5) NEMA Standards Publication No. WC-3-1992, Rubber Insulated Wire and Cable for the Transmission and Distribution of Electrical Energy, Revision 1, February 1994, (“NEMA WC-3”), IBR approved for § 111.60-13.

(6) NEMA WC-70/ICEA S-95-658-1999 Standard for Non-Shielded Power Rated Cable 2000V or Less for the Distribution of Electrical Energy, (1999), (“NEMA WC-70”), IBR approved for § 111.60-13.

(p) National Fire Protection Association (NFPA), 1 Batterymarch Park, Quincy, MA 02169, 617-770-3000, http://www.nfpa.org.

(1) NEC 2002 (NFPA 70)—National Electrical Code Handbook, Ninth Edition, 2002 (“NFPA NEC 2002”), IBR approved for §§ 111.05-33, 111.20-15, 111.25-5, 111.50-3, 111.50-7, 111.50-9, 111.53-1, 111.54-1, 111.55-1, 111.59-1, 111.60-7, 111.60-13, 111.60-23, 111.81-1, 111.105-1, 111.105-3, 111.105-5, 111.105-7, 111.105-9, 111.105-15, 111.105-17, and 111.107-1.

(2) NFPA 70—National Electrical Code, 2011 Edition (“NFPA 70”), IBR approved for §§ 110.15-1(b), 111.106-3(b), and 111.106-5(c).

(3) NFPA 77—Recommended Practice on Static Electricity, 2000 (“NFPA 77”), IBR approved for § 111.105-27.

(4) NFPA 99—Standard for Health Care Facilities, 2005 (“NFPA 99”), IBR approved for § 111.105-37.

(5) NFPA 496—Standard for Purged and Pressurized Enclosures for Electrical Equipment, 2003 (“NFPA 496”), IBR approved for § 111.105-7.

(6) NFPA 496—Standard for Purged and Pressurized Enclosures for Electrical Equipment, 2008 Edition (“NFPA 496 (2008)”), IBR approved for § 111.106-3(c).

(q) Naval Sea Systems Command (NAVSEA), Code 55Z, 1333 Isaac Hull Avenue SE., Washington Navy Yard, Washington, DC 20362, 202-781-0000, http://www.navsea.navy.mil.

(1) DDS 300-2—A.C. Fault Current Calculations, 1988 (“NAVSEA DDS 300-2”), IBR approved for § 111.52-5.

(2) MIL-HDBK-299(SH)—Military Handbook Cable Comparison Handbook Data Pertaining to Electric Shipboard Cable Notice 1-1991 (Revision of MIL-HDBK-299(SH) (1989)), 1991 (“NAVSEA MIL-HDBK-299(SH)”), IBR approved for § 111.60-3.

(r) UL (formerly Underwriters Laboratories, Inc.), 12 Laboratory Drive, Research Triangle Park, NC 27709-3995, 919-549-1400, http://www.ul.com.

(1) UL 44—Standard for Thermoset-Insulated Wire and Cable, Fifteenth Edition, Mar. 22, 1999 (Revisions through and including May 13, 2002), (“UL 44”), IBR approved for § 111.60-11.

(2) UL 50—Standard for Safety Enclosures for Electrical Equipment, Eleventh Edition, Oct. 19, 1995 (“UL 50”), IBR approved for § 111.81-1.

(3) UL 62—Standard for Flexible Cord and Fixture Wire, Sixteenth Edition, Oct. 15, 1997 (“UL 62”), IBR approved for § 111.60-13.

(4) UL 83—Standard for Thermoplastic-Insulated Wires and Cables, Twelfth Edition, Sept. 29, 1998 (“UL 83”), IBR approved for § 111.60-11.

(5) UL 484—Standard for Room Air Conditioners, Seventh Edition, Apr. 27, 1993 (Revisions through and including Sep. 3, 2002) (“UL 484”), IBR approved for § 111.87-3.

(6) UL 489—Molded-Case Circuit Breakers, Molded-Case Switches, and Circuit-Breaker Enclosures, Ninth Edition, Oct. 31, 1996, (Revisions through and including Mar. 22, 2000), (“UL 489”), IBR approved for §§ 111.01-15 and 111.54-1.

(7) UL 514A—Metallic Outlet Boxes, Ninth Edition, (Dec. 27, 1996), (“UL 514A”), IBR approved for § 111.81-1.

(8) UL 514B—Conduit, Tubing, and Cable Fittings, Fourth Edition, (Nov. 3, 1997), (“UL 514B”), IBR approved for § 111.81-1.

(9) UL 514C—Standard for Nonmetallic Outlet Boxes, Flush-Device Boxes, and Covers, Second Edition, (Oct. 31, 1988), (“UL 514C”), IBR approved for § 111.81-1.

(10) UL 674—Standard for Safety: Electric Motors and Generators for Use in Division 1 Hazardous (Classified) Locations, Fourth Edition with revisions through August 12, 2008 (dated December 11, 2003) (“ANSI/UL 674”), IBR approved for § 111.106-3(b).

(11) UL 823—Electric Heaters for Use in Hazardous (Classified) Locations, Ninth Edition including revisions through November 15, 2007 (dated October 20, 2006) (“ANSI/UL 823”), IBR approved for § 111.106-3(b).

(12) UL 844—Standard for Safety: Luminaires for Use in Hazardous (Classified) Locations, Twelfth Edition including revisions through November 20, 2008 (dated January 11, 2006) (“ANSI/UL 844”), IBR approved for § 111.106-3(b).

(13) UL 913—Standard for Safety: Intrinsically Safe Apparatus and Associated Apparatus for Use in Class i, ii, and iii, Division 1, Hazardous (Classified) Locations, Sixth Edition, (Aug. 8, 2002) (Revisions through and including Dec. 15, 2003), (“UL 913”), IBR approved for § 111.105-11.

(14) UL 913—Standard for Safety: Intrinsically Safe Apparatus and Associated Apparatus for Use in Class I, II, and III, Division 1, Hazardous Locations, Seventh Edition including revisions through June 3, 2010 (dated July 31, 2006) (“ANSI/UL 913”), IBR approved for § 111.106-3(b).

(15) UL 1042—Standard for Electric Baseboard Heating Equipment, Apr. 11, 1994, IBR approved for § 111.87-3.

(16) UL 1072—Standard for Medium-Voltage Power Cables, Third Edition, Dec. 28, 2001 (Revisions through and including Apr. 14, 2003), IBR approved for § 111.60-1.

(17) UL 1104—Standard for Marine Navigation Lights, Second Edition, Oct. 29, 1998, IBR approved for § 111.75-17.

(18) UL 1203—Standard for Explosion-Proof and Dust-Ignition-Proof Electrical Equipment for Use in Hazardous (Classified) Locations, Third Edition, Sep. 7, 2000 (Revisions through and including Apr. 30, 2004), IBR approved for § 111.105-9.

(19) UL 1203—Standard for Safety: Explosion-Proof and Dust-Ignition-Proof Electrical Equipment for Use in Hazardous (Classified) Locations, Fourth Edition including revisions through October 28, 2009 (dated September 15, 2006) (“ANSI/UL 1203”), IBR approved for § 111.106-3(b).

(20) UL 1309—Marine Shipboard Cables, First Edition, July 14, 1995, IBR approved for §§ 111.60-1, 111.60-3, and 111.106-5(a).

(21) UL 1581—Reference Standard for Electrical Wires, Cables, and Flexible Cords, 2003, IBR approved for §§ 111.30-19, 111.60-2 and 111.60-6.

(22) UL 1598—Luminaires, First Edition, Jan. 31, 2000, IBR approved for § 111.75-20.

(23) UL 1598A—Standard for Supplemental Requirements for Luminaires for Installation on Marine Vessels, First Edition, Dec. 4, 2000, IBR approved for § 111.75-20.

(24) UL 1604—Electrical Equipment for Use in Class I and II, Division 2 and Class III Hazardous (Classified) Locations, Third Edition including revisions through February 3, 2004 (dated April 28, 1994), IBR approved for § 111.106-3(b).

(25) UL 2225—Cables and Cable-Fittings for Use in Hazardous (Classified) Locations, Second Edition, December 21, 2005 (“ANSI/UL 2225”), IBR approved for § 111.106-3(b).

16. Amend § 110.15-1(b) by adding, in alphabetical order, the definitions for “IECEx System”, “Integral tank”, “Non-hazardous”, “Shut-off valve”, “Special Division 1”, “Zone 0”, “Zone 1”, and “Zone 2” to read as follows:

§ 110.15-1 Definitions.

* * * * *

(b) * * *

IECEx System means an international certification system covering equipment that meets the provisions of the IEC 60079 series of standards (incorporated by reference, see § 110.10-1). The IECEx System is comprised of an Ex Certification Body and an Ex Testing Laboratory that has been accepted into the IECEx System after satisfactory assessment of their competence to ISO/IEC Standard 17025, ISO/IEC Guide 65, IECEx rules of procedures, IECEx operational documents, and IECEx technical guidance documents as part of the IECEx assessment process.

* * * * *

Integral tank means a tank that is a structural part of the vessel's hull and is influenced in the same manner and by the same loads that stress the adjacent hull structure.

* * * * *

Non-hazardous means an area in which an explosive gas atmosphere is not expected to be present in quantities that require special precautions for the construction, installation, and use of electrical equipment.

* * * * *

Shut-off valve is a valve that closes a pipeline and provides nominal metal-to-metal contact between the valve operating parts, including the disc and gate, and the valve body.

Special Division 1 is a Class I, Zone 0 hazardous location in Article 505 of NFPA 70 (incorporated by reference, see § 110.10-1) that may require special considerations for electrical equipment installed in such locations.

* * * * *

Zone 0 is a hazardous location in which an explosive gas or vapor in mixture with air is continuously present or present for long periods.

Zone 1 is a hazardous location in which an explosive gas or vapor in mixture with air is likely to occur in normal operating conditions.

Zone 2 is a hazardous location in which an explosive gas or vapor in mixture with air is not likely to occur in normal operating conditions, or in which such a mixture, if it does occur, will only exist for a short time.

17. Amend § 110.25-1 by adding paragraph (p) to read as follows:

§ 110.25-1 Plans and information required for new construction.

* * * * *

(p) For an OSV with hazardous locations to which subpart 111.106 of this part applies, plans showing the extent and classification of all hazardous locations, including information on—

(1) Equipment identification by manufacturer's name and model number;

(2) Equipment use within the system;

(3) Parameters of intrinsically safe systems, including cables;

(4) Equipment locations;

(5) Installation details and/or approved control drawings; and

(6) A certificate of testing, and listing or certification, by an independent laboratory, as defined by 46 CFR 159.001-3, or an IECEx Certificate of Conformity under the IECEx System, where required by the respective standard in § 111.106-3(b)(1), (2), or (3) of this subchapter.

PART 111—ELECTRIC SYSTEMS GENERAL REQUIREMENTS

18. The authority citation for part 111 is revised to read as follows:

Authority: 46 U.S.C. 3306, 3703; Department of Homeland Security Delegation No. 0170.1. Section 111.05-20 and Subpart 111.106 also issued under sec. 617, Pub. L. 111-281, 124 Stat. 2905.

19. Add § 111.05-20 to read as follows:

§ 111.05-20 Grounded distribution systems on OSVs designed to carry flammable or combustible liquids with closed-cup flashpoints not exceeding 60 °C (140 °F).

(a) This section applies to OSVs of at least 6,000 GT ITC (500 GRT if GT ITC is not assigned), as defined in § 125.160 of this chapter, that are designed to carry flammable or combustible liquids with a closed-cup flashpoint not exceeding 60 °C (140 °F).

(b) A grounded distribution system is only allowed as provided in paragraph (c) of this section.

(c) Grounding of the neutral for alternating current power networks of 3,000 volts (line to line) or more is permitted, provided that any possible resulting current does not flow directly through any hazardous locations.

20. Add subpart 111.106, consisting of §§ 111.106-1 through 111.106-17, to read as follows:

Subpart 111.106—Hazardous Locations on OSVs
Sec.
111.106-1 Applicability.
111.106-3 General requirements.
111.106-5 Cable and wiring.
111.106-7 Classification of adjacent spaces with access to hazardous locations.
111.106-9 Classification of flammable or combustible cargo storage and handling locations.
111.106-11 Classification of storage and handling locations of heated combustible liquid cargoes.
111.106-13 Cargo handling devices or cargo pump rooms handling flammable or combustible cargoes.
111.106-15 Ventilation of hazardous locations.
111.106-17 Piping: electrical bonding.

§ 111.106-1 Applicability.

This subpart applies to OSVs of at least 6,000 GT ITC (500 GRT if GT ITC is not assigned), as defined in § 125.160 of this chapter.

§ 111.106-3 General requirements.

(a) Electrical installations in hazardous locations, where necessary for operational purposes, must be located in the least hazardous location practicable.

(b) Electrical installations in hazardous locations must comply with the standards listed in paragraphs (b)(1), (2), or (3) of this section.

(1) NFPA 70 Articles 500 through 504 (incorporated by reference, see § 110.10-1). Equipment identified for Class I locations must meet the provisions of Sections 500.7 and 500.8 of NFPA 70 and must be tested and listed by an independent laboratory to any of the following standards:

(i) ANSI/UL 674, ANSI/UL 823, ANSI/UL 844, ANSI/UL 913, ANSI/UL 1203, UL 1604 (Division 2) and/or ANSI/UL 2225 (incorporated by reference, see § 110.10-1).

(ii) FM Approvals Class Number 3600, Class Number 3610, Class Number 3611, Class Number 3615, Class Number 3620, or any combination of these (incorporated by reference, see § 110.10-1).

(iii) CAN/CSA C22.2 Nos. 0-M91, 30-M1986, 157-92, and/or 213-M1987 (incorporated by reference, see § 110.10-1).

Note to § 111.106-3(b)(1): See Article 501.5 of NFPA 70 for use of Zone equipment in Division designated spaces.

(2) NFPA 70 Article 505 (incorporated by reference, see § 110.10-1). Equipment identified for Class I locations must meet the provisions of Sections 505.7 and 505.9 of NPFA 70 and be tested and listed by an independent laboratory to the ANSI/ISA Series of standards incorporated in NFPA 70.

Note to § 111.106-3(b)(2): See Article 505.9(c)(1) of the NFPA 70 for use of Division equipment in Zone designated spaces.

(3) IEC 60092-502 (incorporated by reference, see § 110.10-1), with the following exceptions:

(i) Section 111.106-5 of this subpart applies in lieu of Clause 7.3.1.

(ii) Section 111.106-9 of this subpart applies in lieu of Clause 4.2.

(iii) Section 111.106-7 of this subpart applies in lieu of Clauses 4.1.5 and 8.4.

(iv) Section 111.106-13(b) of this subpart applies in lieu of Clause 4.1.4 for enclosed areas containing devices handling hydrocarbons.

(v) Section 111.106-11 of this subpart applies in lieu of Clause 4.3.2.

(vi) Electrical apparatus in hazardous locations must meet one or the combination of IEC 60079-1:2007, IEC 60079-2:2007, IEC 60079-5:2007, IEC 60079-6:2007, IEC 60079-7:2006, IEC 60079-11:2006, IEC 60079-13:2010, IEC 60079-15:2010, IEC 60079-18:2009 or IEC 60079-25:2010 (incorporated by reference, see § 110.10-1) in lieu of Clause 6.5.

(vii) Equipment must be tested by an Ex Testing Laboratory and certified by an Ex Certification Body under the IECEx System, in lieu of Clause 6.3.

Note to § 111.106-3(b): System components that are listed or certified under paragraph (b)(1), (b)(2) or (b)(3) of this section must not be combined in a manner that would compromise system integrity or safety.

(c) As an alternative to paragraph (b)(1) of this section, electrical equipment that complies with the provisions of NFPA 496 (2008) (incorporated by reference, see § 110.10-1) is acceptable for installation in Class I, Divisions 1 and 2. When equipment meeting this standard is used, it does not need to be identified and marked by an independent laboratory. The Commanding Officer, Marine Safety Center (MSC) will evaluate equipment complying with this standard during plan review. It is normally considered acceptable if a manufacturer's certification of compliance is indicated on a material list or plan.

(d) Equipment listed or certified to ANSI/ISA 60079-18 or IEC 60079-18:2009, respectively, (incorporated by reference, see § 110.10-1) is not permitted in Class I Special Division 1 or Zone 0 hazardous location, unless the encapsulating compound of Ex “ma” protected equipment is not exposed to, or has been determined to be compatible with, the liquid or cargo in the storage tank.

(e) Lighting circuits serving flameproof or explosion-proof lighting fixtures in an enclosed hazardous space or room must—

(1) Have at least two lighting branch circuits;

(2) Be arranged so that there is light for relamping any de-energized lighting circuit;

(3) Not have the switch and overcurrent device within the space for those spaces containing explosion-proof or flameproof lighting fixtures; and

(4) Have a switch and overcurrent protective device that must open all ungrounded conductors of the circuit simultaneously.

(f) Submerged pump motors that do not meet the requirements of § 111.105-31(d), installed in tanks carrying flammable or combustible liquids with closed-cup flashpoints not exceeding 60 °C (140 °F), must receive concept approval by the Commandant (CG-ENG) and plan approval by the Commanding Officer, MSC.

(g) Wiring materials and cables in hazardous locations must meet the construction and testing requirements in § 111.106-5 of this subpart.

(h) Internal combustion engines installed in Divisions 1 and 2 (Zones 1 and 2) must meet the provisions of ASTM F2876-10 (incorporated by reference, see § 110.10-1).

(i) Cofferdams are required to separate enclosed spaces adjacent to integral cargo storage tanks.

(j) The cargo pumping/piping systems must be arranged independently from all other systems. Cargo transfer pumps and piping (including fill, discharge, vent, and sounding piping) must not be located in or pass through any accommodation, service, or machinery spaces.

§ 111.106-5 Cable and wiring.

(a) Cable and wiring in hazardous locations must meet the cable construction and testing provisions of IEEE 1580; UL 1309; MIL-DTL-24640C; MIL-DTL-24643C; or IEC 60092-350:2008 and IEC 60092-353:2011 (incorporated by reference, see § 110.10-1), including the respective flammability tests contained therein, and must be of a copper-stranded type.

(b) Type MC cables, when used, must meet the requirements in § 111.60-23 of this part.

(c) For intrinsically safe systems under the standards cited in § 111.106-3(b)(1) and (b)(2) of this subpart, the wiring methods must meet Section 504.30 of NFPA 70 (incorporated by reference, see § 110.10-1). For intrinsically safe systems under the standards cited in § 111.106-3(b)(3) of this subpart, the installation and wiring must meet Clause 7, except for Clause 7.3.1, of IEC 60092-502 (incorporated by reference, see § 110.10-1).

§ 111.106-7 Classification of adjacent spaces with access to hazardous locations.

(a) Hazardous location classification of adjacent spaces must comply with Clause 12.5 of either API RP 500 or API RP 505 (incorporated by reference, see § 110.10-1).

(b) A differential pressure-monitoring device or a flow-monitoring device, or both, must be provided for monitoring the pressurization of spaces having an opening into a more hazardous zone. A running fan motor or a fan-rotation monitoring device indicator is insufficient to satisfy this requirement.

(c) During initial startup, or after shutdown of the pressurization or ventilation system, and regardless of the classification of the hazardous location, the space must be ventilated or purged, followed by pressurization or ventilation of the space, before any electrical apparatus within the space may be energized. The atmosphere is considered non-hazardous when the concentration of explosive gases or vapors is below 30 percent of the lower explosive limit at all points in the space, equipment enclosures and vent ducts.

(d) Only electrical equipment and devices that are necessary for the operational purposes of the space may be installed in spaces made non-hazardous by the methods allowed in this section.

§ 111.106-9 Classification of flammable or combustible cargo storage and handling locations.

(a) This section applies to locations surrounding the storage and handling locations of flammable and combustible liquid cargoes with closed-cup flashpoints not exceeding 60 °C (140 °F).

(b) The following are Class I Special Division 1 (Zone 0) locations:

(1) Enclosed areas containing devices handling cargoes, such as cargo handling or pump rooms, except as modified by § 111.106-13 of this subpart.

(2) The interiors of cargo storage tanks, slop tanks, any pressure-relief pipework or other venting systems for cargo and slop tanks, pipes and equipment containing the cargo or developing flammable gases or vapors.

(3) Areas on an open deck, or a semi-enclosed space on an open deck, within 0.5 meters of any cargo storage tank outlet, cargo gas or vapor outlet, ullage opening, sounding pipe, cargo tank opening for pressure release, or cargo storage tank pressure or vacuum valve provided to permit the flow of small volumes of gas or vapor mixtures caused by thermal variation.

(4) Areas on an open deck, or semi-enclosed spaces on open deck, within 0.5 meters of any cargo handling or pump room entrance, or cargo ventilation handling or pump room ventilation inlet or outlet.

(5) Areas in the vicinity of any cargo vent outlet for free flow of large volumes of vapor mixtures during cargo loading and discharging of storage tanks, within a vertical cylinder of unlimited height, of 1 meter radius centered upon the vent outlet, and within a hemisphere of 1-meter radius below the vent outlet.

(6) Areas in the vicinity of any cargo high-velocity vent outlet during cargo loading and discharging of storage tanks, within a vertical cylinder of unlimited height, of 0.5 meters radius centered upon the vent outlet, and within a hemisphere of 0.5 meters radius below the vent outlet.

(c) The following are Class I Division 1 (Zone 1) locations:

(1) Areas on an open deck, or a semi-enclosed space on an open deck, that are 2.5 meters beyond the Class I Special Division 1 (Zone 0) areas cited in paragraphs (b)(3) and (4) of this section.

(2) Areas on an open deck, or a semi-enclosed space on an open deck, that are within 3 meters of any cargo manifold valve, cargo valve, cargo pipe flange, cargo tank hatch, sight port, tank cleaning opening, and opening into cofferdams or other Zone 1 spaces.

(3) Regardless of the level of natural ventilation, areas on an open deck above the tank top of each cargo tank extending out 3 meters beyond the tank top boundaries of each cargo tank, up to a height of 2.4 meters above the deck.

(4) Areas on an open deck within spillage coamings surrounding cargo manifold valves extending 3 meters beyond the boundaries of the spillage coamings, up to a height of 2.4 meters.

(5) A void space or an enclosed space immediately above, below or adjacent to an integral cargo storage tank, including cofferdams and permanent (for example, segregated) ballast tanks adjacent to integral cargo storage tanks.

(6) A hold space containing an independent cargo storage tank.

(7) Compartments for cargo transfer hoses.

(8) Enclosed or semi-enclosed spaces in which pipes containing cargoes are located.

(9) Areas 7.5 meters beyond the cylinder and 7.5 meters beyond the hemisphere of the Class I Special Division 1 (Zone 0) hazardous locations cited in paragraph (b)(5) of this section.

(10) Areas 5.5 meters beyond the cylinder and 5.5 meters beyond the hemisphere of the Class I Special Division 1 (Zone 0) hazardous locations cited in paragraph (b)(6) of this section.

(d) The following are Class I Division 2 (Zone 2) locations:

(1) Areas on an open deck, or a semi-enclosed space on an open deck, that are 1.5 meters beyond the Class I Division 1 (Zone 1) areas cited in paragraphs (c)(1) through (4) of this section.

(2) Areas 1.5 meters beyond the cylinder and 1.5 meters beyond the hemisphere of the Class I Special Division 1 (Zone 1) hazardous locations cited in paragraph (c)(9) of this section.

(3) Areas 4 meters beyond the cylinder and 4 meters beyond the hemisphere of the Class I Division 1 (Zone 1) hazardous locations cited in paragraph (c)(10) of this section.

(4) Enclosed spaces beyond the open deck areas cited in paragraph (c)(3) of this section that are below the level of the main deck and have an opening onto the main deck or at a level less than 0.5 meters above the main deck, unless—

(i) The entrances to such spaces, including ventilation inlets and outlets, are situated at least 5 meters from the closest integral cargo tank bulkhead and at least 10 meters measured horizontally from any integral cargo tank outlet or gas or vapor outlet; and

(ii) The spaces are mechanically ventilated.

§ 111.106-11 Classification of storage and handling locations of heated combustible liquid cargoes.

(a) This section applies to locations surrounding the storage and handling of combustible liquid cargoes with closed-cup flashpoints exceeding 60 °C (140 °F).

(b) The interiors of independent storage tanks and integral tanks containing cargoes with closed-cup flashpoints of 60 °C (140 °F) or higher and heated to within 15 °C of their flashpoint are considered Class I Special Division 1 (Zone 0). The hazardous locations in § 111.106-9 of this subpart apply.

§ 111.106-13 Cargo handling devices or cargo pump rooms handling flammable or combustible cargoes.

(a) This section is applicable to enclosed areas containing devices handling flammable or combustible liquid cargoes with closed-cup flashpoints not exceeding 60 °C (140 °F).

(b) Enclosed hazardous locations containing devices that handle cargoes must comply with Clauses 6.3.1.2 of API RP 500 and 6.6.1.2 of API RP 505 (incorporated by reference, see § 110.10-1). Ventilation must not be used to reduce the classification of such areas.

(c) Cargo pump rooms must be isolated from all sources of vapor ignition by gastight bulkheads. The gastight bulkhead between the pump room and the pump-motor compartment may be pierced by fixed lights, drive shafts, and pump-engine control rods, provided that the shafts and rods are fitted with fixed oil reservoir gland seals, or pressure grease seals where they pass through the gastight bulkheads. Other types of positive pressure seals must be specially approved by the Commandant (CG-ENG). Access to a cargo handling enclosed area or room must be from the open deck.

(d) Fixed lights in cargo pump rooms or enclosed cargo handling areas must meet the arrangement and construction requirements in § 111.105-31(g) of this part.

(e) A cargo handling area or pump room that precludes the lighting arrangement of paragraph (d) of this section, or where the lighting arrangement of paragraph (d) of this section does not give the required illumination level, must have explosion-proof, flameproof (Ex “d”) or flameproof-increased safety (Ex “de”) lighting fixtures.

§ 111.106-15 Ventilation of hazardous locations.

(a) The ventilation design principles must comply with Clauses 8.1.3, 8.2, and 8.3 of IEC 60092-502 (incorporated by reference, see § 110.10-1).

Note to § 111.106-15(a): The word “mechanical,” as used in this section, is interchangeable with the word “artificial” used in IEC 60092-502.

(b) A ventilation system must—

(1) Be positioned so as not to recycle vapors from ventilation discharges;

(2) Have its operational controls outside the ventilated space, if the system is mechanical; and

(3) Have a protective metal screen of not more than 13 mm (0.512 in.) square mesh on each ventilation intake and exhaust opening.

(c) The mechanical ventilation of enclosed flammable or combustible liquid cargo handling or cargo pump rooms must be sufficient to effect a minimum complete 30 air changes per hour based on the volume of the pump room and associated trunks up to the deck at which access from the weather is provided. The power ventilation system must be designed to remove vapors from the bottom of the space at points where concentrations of vapors may be expected.

(d) The following spaces must have a supply-type mechanical ventilation system capable of providing at least 8 air changes per hour:

(1) Each space that contains electric motors for cargo handling equipment.

(2) Each cargo control station.

§ 111.106-17 Piping: electrical bonding.

(a) Tanks or piping systems that are separated from the hull structure by thermal isolation must be electrically bonded to the hull structure by a method under paragraph (c) of this section.

(b) A pipe joint or a hose connection fitting that has a gasket must be electrically bonded by a method under paragraph (c) of this section that bonds—

(1) Both sides of the connection to the hull structure; or

(2) Each side of the connection to the other side.

(c) An electrical bond must be made by at least one of the following methods:

(1) A metal bonding strap attached by welding or bolting;

(2) Two or more bolts that give metal-to-metal contact between the bolts and the parts to be bonded; or

(3) Other metal-to-metal contact between adjacent parts under designed operating conditions..

PART 125—GENERAL

21. The authority citation for part 125 is revised to read as follows:

Authority: 46 U.S.C. 2103, 3306, 3307; 49 U.S.C. App. 1804; sec. 617, Pub. L. 111-281, 124 Stat. 2905; Department of Homeland Security Delegation No. 0170.1.

22. Amend § 125.100 as follows:

a. In paragraph (a), remove the words “paragraph (c)” and add, in their place, the words “paragraphs (c) or (e)”;

b. In paragraph (b) introductory text, remove the word “be” and add, in its place, the words “have been”;

c. In paragraph (c), remove the word “complete” and add, in its place, the words “have completed”;

d. Redesignate paragraphs (d) and (e) as new paragraphs (f) and (g), respectively;

e. Add new paragraphs (d) and (e);

f. In redesignated paragraph (g), remove the word “alteration” and add, in its place, the word “conversion”; and

g. In the Note, after the word “Note”, add the words “to § 125.100”.

The additions read as follows:

§ 125.100 Applicability.

* * * * *

(d) Each OSV of at least 6,000 GT ITC (500 GRT if GT ITC is not assigned), as defined in § 125.160 of this part, contracted for, or the keel of which was laid, before August 18, 2014, must be constructed and inspected to comply with--

(1) The regulations in effect until August 18, 2014 (46 CFR subchapter I), as they existed at the time of construction; or

(2) The regulations in this subchapter.

(e) Each OSV constructed and inspected in accordance with paragraph (d)(1) of this section must complete construction and have a Certificate of Inspection by August 18, 2016.

* * * * *

23. Add § 125.103 to read as follows:

§ 125.103 Tonnage measurement.

(a) An OSV of at least 6,000 gross tonnage, as measured under section 14302 of Title 46, United States Code (hereafter referred to as an OSV of at least 6,000 GT ITC), must apply all regulations of the Coast Guard that depend on the vessel's tonnage using the tonnage as measured under the Convention measurement system.

(b) An OSV that is measured only under section 14502 of Title 46, United States Code, and that is at least 500 gross register tons as measured under that system (hereafter referred to as an OSV of at least 500 GRT), must apply all regulations of the Coast Guard that depend on the vessel's tonnage as if the vessel's tonnage were at least 6,000 GT ITC.

(c) In this subchapter, tonnage thresholds expressed in terms of “gross tons” are applied using GRT, if assigned, and GT ITC if GRT is not assigned.

24. Add § 125.105 to read as follows:

§ 125.105 International certificates for OSVs of at least 6,000 GT ITC.

An OSV of at least 6,000 GT ITC (500 GRT if GT ITC is not assigned) must obtain and maintain the following international certificates as a prerequisite to obtaining a Certificate of Inspection:

(a) Cargo Ship Safety Construction Certificate in accordance with the International Convention for the Safety of Life at Sea, 1974, as amended (SOLAS, 1974, as amended).

(b) Cargo Ship Safety Equipment Certificate in accordance with SOLAS, 1974, as amended.

(c) Safety Management Certificate in accordance with SOLAS, 1974, as amended.

(d) International Oil Pollution Prevention Certificate in accordance with the International Convention for the Prevention of Pollution at Sea, as amended (MARPOL 73/78).

(e) International Air Pollution Prevention Certificate in accordance with MARPOL 73/78.

(f) International Load Line Certificate in accordance with the International Convention on Load Lines, 1966, as subsequently modified by its Protocol of 1988, as amended.

25. Amend § 125.110 by adding paragraphs (b)(3) and (e) to read as follows:

§ 125.110 Carriage of flammable or combustible liquid cargoes in bulk.

* * * * *

(b) * * *

(3) Other flammable or combustible liquids as authorized in § 125.125 of this part.

* * * * *

(e) On an OSV of at least 6,000 GT ITC (500 GRT if GT ITC is not assigned), tanks authorized for carriage of oil as defined by 33 CFR 157.03, including drilling fluids containing oil as defined by 33 CFR 157.03, must comply with double hull requirements stated in 33 CFR 157.10d.

Note to § 125.110(e): Additional limitations on the carriage of flammable or combustible liquid cargoes are found in § 127.650 of this part.

26. Add § 125.115 to read as follows:

§ 125.115 Oil fuel tank protection.

(a) An OSV of at least 6,000 GT ITC (500 GRT if GT ITC is not assigned) that is delivered after August 1, 2010, with an aggregate capacity of 600 cubic meters or more of oil fuel, must comply with the requirements of Regulation 12A of Annex I to MARPOL 73/78 (incorporated by reference, see § 125.180) at all times.

(b) Transfer of excess fuel oil from the fuel supply tanks of an OSV of at least 6,000 GT ITC (500 GRT if GT ITC is not assigned) to an offshore drilling or production facility will not cause Subchapter D of this chapter to apply to the OSV, provided that the vessel is—

(1) Not a tankship as defined in 46 CFR 30.10-67; and

(2) In the service of oil exploitation.

27. In § 125.120, revise the section heading and paragraph (a) to read as follows:

§ 125.120 Carriage of noxious liquid substances in bulk by OSVs of less than 6,000 GT ITC (500 GRT if GT ITC is not assigned).

(a) Except as provided by this section, no OSV of less than 6,000 GT ITC (500 GRT if GT ITC is not assigned) may carry a noxious liquid substance (NLS) in bulk without the approval of the Commandant (CG-ENG).

* * * * *

28. Add § 125.125 to read as follows:

§ 125.125 Carriage of noxious liquid substances in bulk by OSVs of at least 6,000 GT ITC (500 GRT if GT ITC is not assigned).

(a) Except as provided by this section, no OSV of at least 6,000 GT ITC (500 GRT if GT ITC is not assigned) may carry a noxious liquid substance (NLS) in bulk without the approval of the Commandant (CG-ENG).

(b) An OSV of at least 6,000 GT ITC (500 GRT if GT ITC is not assigned) holding a valid Certificate of Fitness or a International Pollution Prevention Certificate for the Carriage of Noxious Liquid Substances in Bulk in accordance with the provisions of IMO Resolution A.673(16) (incorporated by reference, see § 125.180), may carry in integral and fixed independent tanks—

(1) Drilling fluids, including muds, brines, and salts, subject to paragraph (c) of this section and § 125.110 of this subpart; and

(2) Additional NLSs that are—

(i) Hazardous and noxious liquids listed in Appendix 1 of IMO Resolution A.673(16);

(ii) Products that may be carried on a type 3 ship, as defined by the IBC Code (incorporated by reference, see § 125.180), except that cargoes with an “S” designation in the hazard column (column d) in Chapter 17 of the IBC Code may only be carried if they are not designated as toxic products as per section 15.12 of that Code; or

(iii) Not listed in Chapter 17 of the IBC Code, but otherwise meet the specific carriage requirements established by the Commandant (CG-ENG).

(c) An OSV of at least 6,000 GT ITC (500 GRT if GT ITC is not assigned) that meets the stability and cargo tank location requirements—

(1) Of IMO Resolution A.673(16) may carry any of those cargoes listed in paragraph (b) of this section up to a maximum aggregate quantity of 800 cubic meters or 40 percent of the vessel's deadweight calculated with a cargo density of 1.0, whichever is less; or

(2) Of a well stimulation vessel in accordance with IMO Resolution A.673(16) may carry—

(i) In unlimited quantity, those combustible cargoes in paragraph (b)(1) of this section, as defined in 46 CFR 30.10-15; and

(ii) In quantities not to exceed 20 percent of the vessel's deadweight, drilling fluids of Grade C, as defined in § 30.10-22 of this chapter, and those cargoes in paragraph (b)(2) of this section.

(d) Each OSV carrying NLS in bulk in integral tanks or fixed independent tanks must maintain a Cargo Record Book and have on board an approved Shipboard Marine Pollution Emergency Plan in accordance with Annex II to MARPOL 73/78 (incorporated by reference, see § 125.180).

(e) An OSV is not allowed to discharge NLS residues into the sea. This must be stated in the approved Procedures and Arrangements Manual required by Regulation 14 of Annex II to MARPOL 73/78. The Manual may, in lieu of the requirements as outlined in Annex II Appendix 4, be approved with the following changes:

(1) Section 2.6 may read “This vessel is prohibited from discharging Noxious Liquid Substance (NLS) residues to the sea, and is not equipped with an underwater discharge outlet.”

(2) Section 2.8 may be marked “N/A”.

(3) Section 2.9 may read, “This vessel is not equipped with a tank washing system.”, unless the vessel is equipped with a tank washing system.

(4) Section 3.3 may read, “This vessel is prohibited from discharging Noxious Liquid Substance (NLS) residues to the sea and is not equipped with a tank stripping system.”, unless the vessel is equipped with a tank stripping system.

(5) Section 4.4.2 may read, “This vessel is prohibited from discharging Noxious Liquid Substance (NLS) residues to the sea and is not equipped with a tank stripping system.”, unless the vessel is equipped with a tank stripping system.

(6) Section 4.4.3 may read, “This vessel is prohibited from discharging Noxious Liquid Substance (NLS) residues to the sea.”

(7) Section 4.4.6 should refer the reader to appropriate compatibility guides.

(8) Section 4.4.7 may read, “This vessel is prohibited from discharging Noxious Liquid Substance (NLS) residues to the sea. All NLS residues must be discharged to an appropriate reception facility.”

(9) Section 4.4.8 may read, “This vessel is prohibited from discharging Noxious Liquid Substance (NLS) residues to the sea.”

(10) Section 4.4.9 may read, “All cleaning agents and additives must be treated as substances of their assigned NLS category. This vessel is prohibited from discharging Noxious Liquid Substance (NLS) residues to the sea. All NLS residues must be discharged to an appropriate reception facility.”

(11) Section 4.4.10 may be marked “N/A”.

(f) An OSV of at least 6,000 GT ITC (500 GRT if GT ITC is not assigned) may transfer the following materials to and from a portable tank by following the procedures in § 98.30, including § 98.30-17 (b)(2), of this chapter:

(1) The materials in § 98.30-5 of this chapter.

(2) Hazardous and noxious liquids listed in appendix 1 of IMO Resolution A.673(16).

(3) Products which may be carried on a type 2 or 3 ship, as defined by the IBC Code.

(4) Products which may be carried with a cargo containment system II or III, as defined by Table 1 to part 153.

(g) An OSV of at least 6,000 GT ITC (500 GRT if GT ITC is not assigned) may not transfer Certain Dangerous Cargoes, as defined by 33 CFR 160.204, to or from a portable tank.

29. Amend § 125.140 by redesignating the existing text as paragraph (a) and adding paragraph (b) to read as follows:

§ 125.140 Loadlines.

* * * * *

(b) Each OSV of at least 6,000 GT ITC (500 GRT if GT ITC is not assigned) must be assigned an international load line in accordance with the International Convention on Load Lines, 1966, as amended (incorporated by reference, see § 125.180).

30. Revise § 125.150 to read as follows:

§ 125.150 Lifesaving systems.

(a) Lifesaving appliances and arrangements on OSVs of less than 6,000 GT ITC (500 GRT if GT ITC is not assigned) must comply with part 133 of this subchapter.

(b) Lifesaving appliances and arrangements on OSVs of at least 6,000 GT ITC (500 GRT if GT ITC is not assigned) must comply with subparts A, B, and D of part 199 of this chapter.

31. Amend § 125.160 as follows:

a. Add the definitions, in alphabetical order, for “Gross register tons or GRT”, and “Gross tonnage ITC or GT ITC”;

b. Revise the definition for “Offshore supply vessel”; and

c. Remove the definition of “OSV”.

The additions and revision read as follows:

§ 125.160 Definitions.

* * * * *

Gross register tons or GRT means the gross ton measurement of the vessel under the Regulatory Measurement System described in 46 U.S.C. 14502.

Gross tonnage ITC or GT ITC means the gross tonnage measurement of the vessel under the Convention Measurement System described in 46 U.S.C. 14302.

* * * * *

Offshore supply vessel or OSV means a vessel that—

(1) Is propelled by machinery other than steam;

(2) Does not meet the definition of a passenger-carrying vessel in 46 U.S.C. 2101(22) or 46 U.S.C. 2101(35);

(3) Is more than 15 gross tons; and

(4) Regularly carries goods, supplies, individuals in addition to the crew, or equipment in support of exploration, exploitation, or production of offshore mineral or energy resources.

* * * * *

32. Revise § 125.180 to read as follows:

§ 125.180 Incorporation by reference.

(a) Certain material is incorporated by reference into this subchapter with the approval of the Director of the Federal Register under 5 U.S.C. 552(a) and 1 CFR part 51. To enforce any edition other than that specified in this section, the Coast Guard must publish notice of change in the Federal Register and the material must be available to the public. All approved material is available for inspection at the U.S. Coast Guard, Office of Operating and Environmental Standards (CG-OES), 2703 Martin Luther King Jr. Avenue SE., Stop 7509, Washington, DC 20593-7126, and is available from the sources listed below. It is also available for inspection at the National Archives and Records Administration (NARA). For information on the availability of this material at NARA, call 202-741-6030, or go to: http://www.archives.gov/federal_register/code_of_federal_regulations/ibr_locations.html.

(b) American Bureau of Shipping (ABS), ABS Plaza, 16855 Northchase Drive, Houston, TX 77060, 281-877-5800, http://www.eagle.org.

(1) Rules for Building and Classing Steel Vessels Under 61 Meters (200 Ft) in Length, 1983, IBR approved for § 127.210.

(2) Rules for Building and Classing Steel Vessels, 1995, IBR approved for §§ 127.210 and 129.360.

(3) Rules for Building and Classing Aluminum Vessels, 1975, IBR approved for § 127.210.

(4) Rules for Building and Classing Mobile Offshore Drilling Units, 1994, IBR approved for §§ 133.140 and 133.150.

(c) American National Standards Institute (ANSI), 25 West 43rd St., New York, NY 10036, 212-642-4900, http://www.ansi.org.

(1) B 31.1-1986—Code for Pressure Piping, Power Piping, IBR approved for § 128.240.

(2) Z 26.1-1977 (including 1980 Supplement)—Safety Code for Safety Glazing Materials for Glazing Motor Vehicles Operating on Land Highways, IBR approved for § 127.430.

(d) American Society of Mechanical Engineers (ASME) International, Three Park Avenue, New York, NY 10016-5990, 800-843-2763, http://www.asme.org.

(1) Boiler and Pressure Vessel Code Section I, Power Boilers, July 1989 with 1989 addenda, IBR approved for § 128.240.

(2) [Reserved]

(e) ASTM International (formerly American Society for Testing and Materials), 100 Barr Harbor Drive, West Conshohocken, PA 19428-2959, 610-832-9500, http://www.astm.org.

(1) ASTM D 93-97—Standard Test Methods for Flash Point by Pensky-Martens Closed Cup Tester (“ASTM D 93”), IBR approved for § 128.310(a) and (b).

(2) ASTM F1014—02 (Reapproved 2007)—Standard Specification for Flashlights on Vessels, approved May 1, 2007, IBR approved for § 132.365(b).

(f) American Yacht and Boat Council, Inc. (AYBC): 3069 Solomon's Island Rd., Edgewater, MD 21037-1416, 410-990-4460, http://www.abycinc.org.

(1) A-3-1993—Galley Stoves, IBR approved for § 129.550.

(2) A-7-1970—Recommended Practices and Standards Covering Boat Heating Systems, IBR approved for § 129.550.

(3) E-1-1972—Bonding of Direct-Current Systems, IBR approved for § 129.120.

(4) E-8-1994—Alternating-Current (AC) Electrical Systems on Boats, IBR approved for § 129.120.

(5) E-9-1990—Direct-Current (DC) Electrical Systems on Boats, IBR approved for § 129.120.

(g) Institute of Electrical and Electronics Engineers (IEEE), IEEE Service Center, 445 Hoes Lane, Piscataway, NJ 08855, 732-981-0060, http://www.ieee.org.

(1) No. 45-1977—Recommended Practice for Electric Installations on Shipboard, IBR approved for § 129.340.

(2) [Reserved]

(h) International Maritime Organization (IMO), Publications Section, 4 Albert Embankment, London SE1 7SR, United Kingdom, +44 (0)20 7735 7611, http://www.imo.org.

(1) International Convention for the Prevention of Pollution from Ships, 1973, as modified by the Protocol of 1978 relating thereto, Consolidated Edition, 2006 (“MARPOL 73/78”), IBR approved for §§ 125.115(a) and 125.125(d) and (e).

(2) International Convention for the Safety of Life at Sea, Consolidated Edition, 1992 (“SOLAS 74/83”), IBR approved for § 126.170.

(3) International Convention for the Safety of Life at Sea, 1974, as amended, Consolidated Edition, 2009, including Erratum (“SOLAS, 1974, as amended”), IBR approved for §§ 127.225(a), 127.610(a), 127.620, 127.630, and 127.640(a).

(4) Resolution A.520(13)—Code of Practice for the Evaluation, Testing and Acceptance of Prototype Novel Life-saving Appliances and Arrangements, dated 17 November, 1983, IBR approved for § 133.40.

(5) Resolution A.658(16)—Use and Fitting of Retro-Reflective Materials on Life-saving Appliances, dated 20 November, 1989, IBR approved for §§ 131.855, 131.875, and 133.70.

(6) Guidelines for the Transport and Handling of Limited Amounts of Hazardous and Noxious Liquid Substances in Bulk on Offshore Support Vessels, 2007 edition (“Resolution A.673(16)”), IBR approved for § 125.125(b).

(7) Resolution A.760(18)—Symbols Related to Life-Saving Appliances and Arrangements, dated 17 November, 1993, IBR approved for §§ 131.875, 133.70, and 133.90.

(8) International Convention on Load Lines, 1966 and Protocol of 1988, as amended in 2003, Consolidated Edition, 2005 (“International Convention on Load Lines, 1966”), IBR approved for § 125.140(b).

(9) Annex 7 to IMO MEPC 52/54, Report of the Marine Environment Protection Committee on its Fifty-Second Session, “Resolution MEPC.119(52), 2004 Amendments to the International Code for the Construction and Equipment of Ships Carrying Dangerous Chemicals in Bulk (IBC Code),” adopted October 15, 2004 (“IBC Code”), IBR approved for § 125.125(b).

(i) National Fire Protection Association (NFPA), 1 Batterymarch Park, Quincy, MA 02269-9101, 617-770-3000, http://www.nfpa.org:

(1) NFPA 10—Standard for Portable Fire Extinguishers, 1994 Edition, IBR approved for § 132.350.

(1) NFPA 70—National Electrical Code, 1993 Edition, IBR approved for §§ 129.320, 129.340 and 129.370.

(3) NFPA 302—Fire Protection Standard for Pleasure and Commercial Motor Craft, 1994 Edition, IBR approved for § 129.550.

(2) NFPA 306—Control of Gas Hazards on Vessels, 1993 Edition, IBR approved for § 126.160.

(3) NFPA 1963—Fire Hose Connections, 1993, IBR approved for § 132.130.

(4) NFPA 10—Standard for Portable Fire Extinguishers, 1994, IBR approved for § 132.350.

(5) NFPA 302—Fire Protection Standard for Pleasure and Commercial Motor Craft, 1994, IBR approved for § 129.550.

(j) UL (formerly Underwriters Laboratories, Inc.), 12 Laboratory Drive, Research Triangle Park, NC 27709-3995, 919-549-1400, http://www.ul.com:

(1) UL 19-1992—Lined Fire Hose and Hose Assemblies, IBR approved for § 132.130.

(2) UL 57-1976—Electric Lighting Fixtures, IBR approved for § 129.410.

(3) UL 486A-1992—Wire Connectors and Soldering Lugs for Use with Copper Conductors, IBR approved for § 129.340.

(4) UL 489-1995—Molded-Case Circuit Breakers and Circuit-Breaker Enclosures, IBR approved for § 129.380.

(5) UL 595-1991—Marine-Type Electric Lighting Fixtures, IBR approved for § 129.410.

(6) UL 1570-1995—Fluorescent Lighting Fixtures, IBR approved for § 129.410.

(7) UL 1571-1995—Incandescent Lighting Fixtures, IBR approved for § 129.410.

(8) UL 1572-1995—High Intensity Discharge Lighting Fixtures, IBR approved for § 129.410.

(9) UL 1573-1995—Stage and Studio Lighting Units, IBR approved for § 129.410.

(10) UL 1574-1995—Track Lighting Systems, IBR approved for § 129.410.

PART 126—INSPECTION AND CERTIFICATION

33. The authority citation for part 126 is revised to read as follows:

Authority: 33 U.S.C. 1321(j); 46 U.S.C. 3205, 3306, 3307; 46 U.S.C. Chapter 701; sec. 617, Pub. L. 111-281, 124 Stat. 2905; Executive Order 11735, 38 FR 21243, 3 CFR 1971-1975 Comp., p. 793; Department of Homeland Security Delegation No. 0170.1.

§ 126.170 [Amended]

34. In § 126.170(a), after the words “exceed 36”, add the words “, unless the vessel meets the applicability and construction requirements of subpart F of part 127 of this subchapter”.

PART 127—CONSTRUCTION AND ARRANGEMENTS

35. The authority citation for part 127 is revised to read as follows:

Authority: 46 U.S.C. 3306; sec. 617, Pub. L. 111-281, 124 Stat. 2905; Department of Homeland Security Delegation No. 0170.1.

36. Add § 127.200 to subpart B to read as follows:

§ 127.200 Classification society standards.

Each OSV of at least 6,000 GT ITC (500 GRT if GT ITC is not assigned) must, in addition to the requirements contained elsewhere in this subchapter, be classed by a classification society recognized under the provisions of part 8 of subchapter A (Procedures Applicable to the Public) of this chapter.

37. Add § 127.225 to read as follows:

§ 127.225 Structural fire protection.

(a) Each OSV of at least 6,000 GT ITC (500 GRT if GT ITC is not assigned) must comply with the provisions of Chapter II-2 of SOLAS, 1974, as amended (incorporated by reference, see § 125.180), for Method IC cargo ships.

(b) All structural fire-protection materials must be approved by the Coast Guard in accordance with the regulations of subpart 2.75 of this chapter.

(c) The exterior boundaries of superstructures, except wheelhouses, containing accommodation, service and control spaces, facing the cargo area must be constructed of steel and comply with §§ 32.56-20, 32.56-21, and 32.56-22 of this chapter.

(d) Cargo pump rooms must be separated from accommodation spaces, service spaces, and control stations by A-60 divisions.

(e) Cargo pump rooms must be separated from machinery spaces of category A by A-0 divisions.

38. Amend § 127.230 by redesignating the existing text as paragraph (a) and adding paragraph (b) to read as follows:

§ 127.230 Subdivision and stability.

* * * * *

(b) An OSV of at least 6,000 GT ITC (500 GRT if GT ITC is not assigned) that is of at least 80 meters in length is not required to comply with part 174, subpart G of this chapter.

39. Add subpart F, consisting of §§ 127.600 through 127.650, to read as follows:

Subpart F—Construction and Arrangements for OSVs Carrying More Than 36 Offshore Workers.

Sec.
127.600 Applicability.
127.610 Damage stability requirements.
127.620 Marine engineering requirements.
127.630 Electrical installation requirements.
127.640 Fire-protection requirements.
127.650 Bulk liquid cargo limitations.

§ 127.600 Applicability.

This subpart applies to OSVs of at least 6,000 GT ITC (500 GRT if GT ITC is not assigned).

127.610 Damage stability requirements.

(a) Each OSV that is authorized to carry more than 240 persons must comply with the following provisions of SOLAS, 1974, as amended, as though the OSV is a passenger ship and the offshore workers are considered as passengers: chapter II-1, parts B-1, B-2, and B-4, and regulation II-1/35-1 (incorporated by reference, see § 125.180).

(b) Each OSV that is authorized to carry less than 240 persons must comply with the provisions of chapter II-1 of SOLAS, 1974, as amended:

(1) Part B-1 and regulation II-1/35-1 of SOLAS, 1974, as amended, as though the OSV is a passenger ship and the offshore workers are considered as passengers, except that—

(i) The required subdivision index used must be the R value calculated according to regulation II-1/6.2.3 of SOLAS, 1974, as amended, multiplied by the factor F, where:

F = (N + 720)/960

N = total number of persons authorized;

and

(ii) Compliance with regulations II-1/8 and II-1/8-1 of SOLAS, 1974, as amended, is not required.

(2) Parts B-2 and B-4 as though the OSV is a cargo ship and the offshore workers are considered as crew, except that regulations II-1/9, II-1/13, II-1/19, II-1/20, and II-1/21 of SOLAS, 1974, as amended, must be applied as though the OSV is a passenger ship.

§ 127.620 Marine engineering requirements.

Steering gear on OSVs authorized for carriage of more than 240 persons must comply with regulation II-1/29.6.1.1 of SOLAS, 1974, as amended (incorporated by reference, see § 125.180) in lieu of SOLAS regulation II-1/29.6.1.2.

§ 127.630 Electrical installation requirements.

Electrical installations must comply with regulation II—1/42 of SOLAS, 1974, as amended (incorporated by reference, see § 125.180) in lieu of regulation II-1/43.

§ 127.640 Fire-protection requirements.

(a) Except as provided in this section, each OSV must comply with the fire-protection provisions of chapter II-2 of SOLAS, 1974, as amended (incorporated by reference, see § 125.180) applicable to passenger vessels carrying more than 36 passengers.

(b) OSVs authorized for carriage of 240 or fewer persons may comply with the fire-protection provisions of chapter II-2 of SOLAS, 1974, as amended, applicable to passenger vessels carrying not more than 36 passengers but need not comply with regulations II-2/21 and II-2/22.

§ 127.650 Bulk liquid cargo limitations.

Notwithstanding § 125.110 of this subchapter, no OSV carrying more than 240 total persons may carry flammable or combustible liquid cargoes of Grade D or higher in bulk.

PART 128—MARINE ENGINEERING: EQUIPMENT AND SYSTEMS

40. The authority citation for part 128 is revised to read as follows:

Authority: 46 U.S.C. 3306; sec. 617, Pub. L. 111-281, 124 Stat. 2905; Department of Homeland Security Delegation No. 0170.1.

41. Revise § 128.110 to read as follows:

§ 128.110 Equipment and systems.

(a) Except as provided by this part, the design, installation, testing, and inspection of materials, machinery, pressure vessels, and piping for OSVs of less than 6,000 GT ITC (500 GRT if GT ITC is not assigned) must comply with subchapter F of this chapter.

(b) Except as specifically provided by § 128.310, the design, plan approval, installation, testing, and inspection of materials, machinery, automation, pressure vessels, and piping for OSVs of at least 6,000 GT ITC (500 GRT if GT ITC is not assigned) must comply with subchapter F of this chapter.

(c) This part contains requirements for equipment and systems commonly found on an OSV. If additional or unique systems, such as for low-temperature cargoes, are to be installed, they must comply with subchapter F of this chapter.

42. Revise § 128.310 to read as follows:

§ 128.310 Fuel.

(a) OSVs of less than 6,000 GT ITC (500 GRT if GT ITC is not assigned). (1) Except as provided in paragraph (a)(2) of this section, each internal-combustion engine installed on an OSV of less than 6,000 GT ITC (500 GRT if GT ITC is not assigned), whether for main propulsion or for auxiliaries, must be driven by a fuel having a flashpoint of not lower than 43° C (110° F) as determined by ASTM D 93 (incorporated by reference, see § 125.180).

(2) The use of a fuel with a flashpoint of lower than 43° C (110° F) must be specifically approved by the Commandant (CG-ENG), except in an engine for a gasoline-powered rescue boat.

(b) OSVs of at least 6,000 GT ITC (500 GRT if GT ITC is not assigned). (1) Except as provided by paragraph (b)(2) of this section, each internal-combustion engine installed on an OSV of at least 6,000 GT ITC (500 GRT if GT ITC is not assigned), whether for main propulsion or for auxiliaries, must be driven by a fuel having a flashpoint not lower than 60° C (140° F) as determined by ASTM D 93 (incorporated by reference, see § 125.180).

(2) The use of a fuel with a flashpoint lower than 60° C (140° F) must be specifically approved by the Commandant (CG-ENG), except in an engine for a gasoline-powered rescue boat or emergency generator, or as provided in paragraph (b)(2) of this section.

PART 129—ELECTRICAL INSTALLATIONS

43. The authority citation for part 129 is revised to read as follows:

Authority: 46 U.S.C. 3306; sec. 617, Pub. L. 111-281, 124 Stat. 2905; Department of Homeland Security Delegation No. 0170.1.

44. Revise § 129.110 to read as follows:

§ 129.110 Applicability.

(a) Electrical installations on OSVs of at least 6,000 GT ITC (500 GRT if GT ITC is not assigned) must comply with subchapter J of this chapter.

(b) Except as specifically provided in this subchapter, electrical installations on an OSV of less than 6,000 GT ITC (500 GRT if GT ITC is not assigned) must comply with subchapter J of this chapter.

45. Amend § 129.315 by revising the section heading and paragraph (a) to read as follows:

§ 129.315 Power sources for OSVs.

(a) The requirements of this section apply to OSVs between 100 GRT and 500 GRT or less than 6,000 GT ITC instead of those in subpart 111.10 of this chapter.

* * * * *

46. Add § 129.570 to read as follows:

§ 129.570 Overfill protection.

(a) This section applies to OSVs of at least 6,000 GT ITC (500 GRT if GT ITC is not assigned).

(b) Each cargo oil tank with a capacity of 1,000 or more cubic meters (approximately 6,290 barrels) must have one overfill device that is permanently installed on each oil tank, with an intrinsically safe high-level alarm that meets the requirements of this section.

(c) The high-level alarm and tank overfill alarm required by paragraph (b) of this section must—

(1) Be independent of each other;

(2) Alarm in the event of loss of power to the alarm system or failure of electrical circuitry to the tank level sensor; and

(3) Be able to be checked at the tank for proper operation prior to each transfer or contain an electronic self-testing feature that monitors the condition of the alarm circuitry and sensor.

(d) The high-level alarm required by paragraph (b) of this section must—

(1) Alarm before the tank overfill alarm, but before the tank capacity goes below 95 percent;

(2) Be appropriately marked at the indicator panel; and

(3) Have audible and visible alarm indications that can be seen and heard on the vessel where oil transfer is controlled.

(e) The tank overfill alarm required by paragraph (b) of this section must—

(1) Be independent of the oil gauging system;

(2) Alarm early enough to allow the person in charge of transfer operations to stop the transfer operation before the oil tank overflows;

(3) Be appropriately marked at the indicator panel; and

(4) Have audible and visible alarm indications that can be seen and heard on the vessel where oil transfer is controlled and in the cargo deck area.

PART 130—VESSEL CONTROL, AND MISCELLANEOUS EQUIPMENT AND SYSTEMS

47. The authority citation for part 130 is revised to read as follows:

Authority: 46 U.S.C. 3306; Department of Homeland Security Delegation No. 0170.1. Sections 130.140 and 130.400 also issued under sec. 617, Pub. L. 111-281, 124 Stat. 2905.

§ 130.140 [Amended]

48. In § 130.140(a) introductory text, remove the words “Each OSV of 100 or more gross tons” and add, in their place, the words “Except as provided in § 128.110 of this subchapter, each OSV of 100 GRT or more”.

§ 130.400 [Amended]

49. In § 130.400, remove the word “This” and add, in its place, the words “Except as provided in § 128.110 of this subchapter, this”.

PART 131—OPERATIONS

50. The authority citation for part 131 is revised to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1. Section 131.990 also issued under sec. 617, Pub. L. 111-281, 124 Stat. 2905.

51. Add § 131.990 to read as follows:

§ 131.990 Maneuvering characteristics.

This section applies to OSVs of at least 6,000 GT ITC (500 GRT if GT ITC is not assigned).

(a) The following maneuvering information must be prominently displayed in the pilothouse on a fact sheet:

(1) For full and half speed, a turning circle diagram to port and starboard that shows the time and the distance of advance and transfer required to alter the course 90 degrees with maximum rudder angle and constant power settings.

(2) The time and distance to stop the vessel from full and half speed while maintaining approximately the initial heading with minimum application of rudder.

(3) For each vessel with a fixed propeller, a table of shaft revolutions per minute for a representative range of speeds.

(4) For each vessel with a controllable pitch propeller, a table of control settings or a representative range of speeds.

(5) For each vessel that is fitted with an auxiliary device to assist in maneuvering, such as a bow thruster, a table of vessel speeds at which the auxiliary device is effective in maneuvering the vessel.

(b) The maneuvering information must be provided in the normal load and normal light condition with normal trim for a particular condition of loading, assuming the following:

(1) Calm weather—wind 10 knots or less, calm sea.

(2) No current.

(3) Deep water conditions—water depth twice the vessel's draft or more.

(4) Clean hull.

(c) At the bottom of the fact sheet, the following statement must appear:

(1) Warning, the response of the [NAME OF THE VESSEL] may be different from those listed above if any of the following conditions, upon which the maneuvering information is based, are varied:

(i) Calm weather—wind 10 knots or less, calm sea.

(ii) No current.

(iii) Deep water conditions—water depth twice the vessel's draft or more.

(iv) Clean hull.

(v) Intermediate drafts or unusual trim.

(d) The information on the fact sheet must be—

(1) Verified 6 months after the vessel is placed into service; or

(2) Modified 6 months after the vessel is placed into service and verified within 3 months thereafter.

(e) The information that appears on the fact sheet may be obtained from—

(1) Trial trip observations;

(2) Model tests;

(3) Analytical calculations;

(4) Simulations;

(5) Information established from another vessel of similar hull form, power, rudder and propeller; or

(6) Any combination of the above.

(f) The accuracy of the information on the fact sheet must be at a level comparable with that attainable by ordinary shipboard navigation equipment.

(g) The requirements for information for fact sheets for specialized craft, such as semi-submersibles and other vessels of unusual design, will be specified on a case-by-case basis.

PART 132—FIRE-PROTECTION EQUIPMENT

52. The authority citation for part 132 is revised to read as follows:

Authority: 46 U.S.C. 3306, 3307; sec. 617, Pub. L. 111-281, 124 Stat. 2905; Department of Homeland Security Delegation No. 0170.1.

53. Amend § 132.100 by redesignating paragraph (d) as paragraph (e) and adding paragraph (d) to read as follows:

§ 132.100 General.

* * * * *

(d) Each OSV of at least 6,000 GT ITC (500 GRT if GT ITC is not assigned) must, in addition to complying with the requirements necessary to satisfy § 125.105(a) and (b) of this subchapter—

(1) Have two fire pumps, each capable of delivering water simultaneously from the two highest outlets at a pitot tube pressure of approximately 75 p.s.i.; and

(2) Have fire hoses and nozzles that comply with § 34.10-10 of this chapter.

54. Add § 132.200 to subpart B to read as follows:

§ 132.200 General.

(a) Except as provided by paragraph (b) of this section, each OSV must be equipped with portable and semiportable fire extinguishers that comply with this subpart.

(b) Each OSV of at least 6,000 GT ITC (500 GRT if GT ITC is not assigned) must, in addition to complying with the requirements necessary to satisfy § 125.105(a) and (b) of this subchapter, be equipped with the number and type of portable and semiportable fire extinguishers listed in § 34.50 of this chapter.

55. Add § 132.365 to read as follows:

§ 132.365 Emergency outfits.

(a) Two emergency outfits, stored for use in widely separated, accessible locations, are required on all OSVs of at least 6,000 GT ITC (500 GRT if GT ITC is not assigned) that have cargo tanks that exceed 15 feet in depth, measured from the tank top to the lowest point at which cargo is carried.

(b) Each emergency outfit must have on board the following equipment:

(1) One pressure-demand, open-circuit, self-contained breathing apparatus, approved by the Mine Safety and Health Administration and by the National Institute for Occupational Safety and Health and having at a minimum a 30-minute air supply, a full facepiece, and a spare charge.

(2) One lifeline with a belt or a suitable harness.

(3) One Type II or Type III flashlight constructed and marked in accordance with ASTM F1014—02 (incorporated by reference, see § 125.180).

(4) One fire axe.

(5) One pair of boots and gloves of rubber or other electrically nonconducting material.

(6) One rigid helmet that provides effective protection against impact.

(7) One set of protective clothing of material that will protect the skin from the heat of fire and burns from scalding steam. The outer surface must be water resistant.

(c) Lifelines must be of steel or bronze wire rope. Steel wire rope must be either inherently corrosion resistant or made so by galvanizing or tinning. Each end must be fitted with a hook with keeper having a throat opening that can be readily slipped over a ⅝-inch bolt. The total length of the lifeline must be dependent upon the size and arrangement of the vessel, and more than one line may be hooked together to achieve the necessary length. No individual lifeline may be less than 50 feet in length. The assembled lifeline must have a minimum breaking strength of 1,500 pounds.

56. Add § 132.390 to read as follows:

§ 132.390 Added requirements for carriage of flammable or combustible cargo.

(a) This section applies to OSVs of at least 6,000 GT ITC (500 GRT if GT ITC is not assigned).

(b) Cargo tanks containing flammable or combustible liquids must not be located beneath the accommodations or machinery space. Separation by cofferdams is not acceptable for meeting this requirement.

(c) Except for OSVs complying with paragraph (d)(1) of this section, each OSV must carry at least two approved semiportable dry chemical fire extinguishers for the protection of all weather deck areas within 10 feet (3 m) of any tank openings, pumps, flanges, valves, vents, or loading manifolds. Each extinguisher must have—

(1) A minimum capacity of 135 kg. If the protected area exceeds 90 m², additional extinguishers must be provided to supply a total combined capacity of dry chemical in kilograms equal to the total combined protected area in square meters multiplied by 3;

(2) A minimum flow rate of 3 kg/min from each discharge hose;

(3) A sufficient number of discharge hoses of adequate length to protect the areas required above without moving any of the extinguishers; and

(4) The frame or support for each semi-portable dry chemical fire extinguisher welded or otherwise permanently attached to the vessel's structure.

(d) Each OSV with fixed cargo tanks that have an aggregate capacity of 3,000 cubic meters or more intended for the carriage of flammable or combustible liquids with a closed-cup flashpoint of 60° C or below must have:

(1) An approved fixed-deck foam system arranged as follows:

(i) If the flammable or combustible liquid tanks extend vertically to the weather deck, the foam system must comply with §§ 34.20-10 and 34.20-15 of this chapter, and protect the entire weather deck cargo area, including any tank openings, pumps, flanges, valves, vents, or loading manifolds. If petroleum products are carried, the minimum foam system discharge rate in liters per minute must be determined by multiplying the total cargo deck area by 6 lpm/m². If polar solvent cargoes are carried, the minimum foam system discharge rate in liters per minute must be determined by multiplying the total cargo deck area by 10 lpm/m², unless the approved foam system design manual specifies a different rate for the cargoes carried.

(ii) If the flammable or combustible liquid tanks do not extend vertically to the weather deck, the foam system must be capable of protecting all weather deck areas within 10 feet (3 m) of any tank openings, pumps, flanges, valves, vents, or loading manifolds. The foam system must consist of at least one hoseline, and either fixed-foam monitors or fixed-foam nozzles that provide foam coverage of all required areas. The minimum foam system discharge rate must be calculated in accordance with paragraph (d)(1)(i) of this section, using the combined horizontal area of all parts of the deck requiring protection, instead of the total deck area.

(iii) All foam liquid concentrate must be compatible with all flammable or combustible liquids carried.

(iv) Sufficient foam liquid concentrate must be carried to allow operation of the system at its maximum discharge rate for at least 20 minutes.

(2) A fixed-gas fire-suppression system complying with § 34.05-5(a)(4) of this chapter, or other approved fire-extinguishing system determined acceptable by the Commandant, for the protection of any accessible below-deck cargo pump rooms or other spaces that have tank openings, pumps, flanges, valves, or loading manifolds associated with tanks carrying flammable or combustible liquids with a closed cup flashpoint of 60° C or below.

PART 134—ADDED PROVISIONS FOR LIFTBOATS

57. The authority citation for part 134 is revised to read as follows:

Authority: 46 U.S.C. 3306, 3307; Department of Homeland Security Delegation No. 0170.1. Section 134.100 also issued under sec. 617, Pub. L. 111-281, 124 Stat. 2905.

58. Revise § 134.100 to read as follows:

§ 134.100 Applicability.

(a) This part, as well as parts 125 through 133 of this subchapter, applies to each liftboat of United States flag to which this subchapter applies.

(b) The design, construction and operating standards for liftboats of at least 6,000 GT ITC (500 GRT if GT ITC is not assigned) must be specially approved by Commandant (CG-5PS).

PART 174—SPECIAL RULES PERTAINING TO SPECIFIC VESSEL TYPES

59. The authority citation for part 174 is revised to read as follows:

Authority: 42 U.S.C. 9118, 9119, 9153; 43 U.S.C. 1333; 46 U.S.C. 3306, 3703; E.O. 12234, 45 FR 58801, 3 CFR, 1980 Comp., p. 277; Department of Homeland Security Delegation No. 0170.1. Section 174.180 also issued under sec. 617, Pub. L. 111-281, 124 Stat. 2905.

60. Revise § 174.180 to read as follows:

§ 174.180 Applicability.

This subpart applies to OSVs except liftboats inspected under subchapter L of this chapter and OSVs of at least 6,000 GT ITC (500 GRT if GT ITC is not assigned) as defined in § 125.160 of this chapter.

Dated: July 28, 2014.
Paul F. Zukunft,
Admiral, U.S. Coast Guard, Commandant.

[FR Doc. 2014-18721 Filed 8-15-14; 8:45 am]

BILLING CODE 9110-04-P